NUCLEAR REGULATORY COMMISSION

10 CFR Chapter I

RIN 3150-AH33

Electronic Maintenance and Submission of Information

AGENCY: Nuclear Regulatory Commission.

ACTION: Final rule.

SUMMARY: The Nuclear Regulatory Commission (NRC) is amending its rules to clarify when and how licensees and other members of the public may use electronic means such as CD-ROM and e-mail to communicate with the agency. These amendments are necessary to implement the Government Paperwork Elimination Act (GPEA). At the same time that the NRC is amending its rules, it is also making available guidance on how to submit documents to the agency electronically. When this final rule becomes effective, this new guidance document, which is appended to this rule, will supersede earlier guidance on electronic submissions.

EFFECTIVE DATE: The final rule will become effective on January 1, 2004.

ADDRESSES: The final rule and any related documents are available on the NRC's interactive rulemaking Web site at http://ruleforum.llnl.gov. For information about the interactive rulemaking site, contact Ms. Carol Gallagher, (301) 415-5905, CAG@nrc.gov.

Publicly available NRC documents related to this final rule can also be viewed on public computers in the NRC Public Document Room (PDR), located at One White Flint North, 11555 Rockville Pike, Rockville, Maryland, Room O-1 F21. The PDR reproduction contractor will make copies of documents for a fee.

Publicly available documents created or received at the NRC after November 1, 1999, are also available electronically at the NRC's Electronic Reading Room at http://www.nrc.gov/NRC/reading-rm/adams.html. From this site, the public can gain entry into the NRC's Agencywide Documents Access and Management System (ADAMS), which provides text and image files of NRC's public documents. If you do not have access to ADAMS or have problems accessing the documents located in ADAMS, contact the NRC Public Document Room (PDR) reference staff at 1-800-397-4209, 301-415-4737, or by e-mail to PDR@nrc.gov.

FOR FURTHER INFORMATION CONTACT: John A. Skoczlas, (301) 415-7186, EIE@nrc.gov; or Brenda J. Shelton, (301) 415-7233, INFOCOLLECTS@nrc.gov.

SUPPLEMENTARY INFORMATION:

I. Background

II. The Final Rule

III. Comments on the Guidance Document

IV. Section-by-Section Analysis

V. Voluntary Consensus Standards

VI. Environmental Impact: Categorical Exclusion

VII. Paperwork Reduction Act Statement

VIII. Regulatory Analysis

IX. Regulatory Flexibility Certification

X. Backfit Analysis

XI. Congressional Review

I. Background

On September 6, 2002, the Nuclear Regulatory Commission (NRC) published the direct final rule, “Electronic Maintenance and Submission of Information” (RIN 3150-AF61), for comment (67 FR 57084). Along with the rule, the NRC also published its draft “Guidance for Electronic Submissions to the Commission” for comment.

This rulemaking had the simple aim of conforming the NRC's regulations to the GPEA by removing from the regulations language that states or suggests an unnecessary prohibition of electronic submission of documents to the agency. Because the NRC believed that this action would not cause controversy, the NRC initially published these amendments as a direct final rule. However, the NRC received significant adverse comments on both the direct final rule and the guidance document appended to the rule. The NRC, therefore, withdrew the direct final rule on December 4, 2002 (67 FR 72091), and treated the comments received as comments on the companion proposed rule published concurrently with the direct final rule (67 FR 57120; September 6, 2002). The comments received are addressed in this final rule and guidance.

The NRC received formal comments from 19 persons or organizations. The comments concerned both the rule and the draft guidance. However, the majority of the comments were on the guidance document. Although the NRC is not required to address the comments received on its proposed guidance, the NRC believes that it is appropriate to document the resolution of the comments on the guidance document, and to do so in this notice, because the rule and the guidance are being published simultaneously and form a cohesive package.

Title XVII of Pub. L. 105-277, the Omnibus Consolidated and Emergency Supplemental Appropriations Act of 1999, enacted October 21, 1998, contains provisions known as the Government Paperwork Elimination Act (GPEA), Sections 1701 et seq., codified at 44 U.S.C. 3504, note. The GPEA requires, among other things, that by October 21, 2003, all Federal agencies provide persons with business before that agency the option of electronically maintaining, submitting, or disclosing information where “practicable.” By that same October 2003 date, the agencies must also accept electronic signatures. The Act's provisions seek to take advantage of advances in modern technology to lessen the paperwork burden on those who deal with the Federal government.

Well before the passage of the GPEA, the NRC had taken major steps to increase the use of electronic communication. For example, many of the agency's regulations on recordkeeping have long permitted storage in electronic format. After the GPEA became law, the NRC moved quickly to meet the Act's requirements. In June 1999, the agency began testing a system that permitted holders of operating licenses for nuclear power reactors, and the vendors that supplied them, to make electronic submissions to the agency in a secure manner. On several occasions, the NRC held public meetings with licensees, vendors, and others to describe and demonstrate its Electronic Information Exchange (EIE) capability.

As a result of this pilot program, on January 26, 2001, the NRC issued Regulatory Issue Summary (RIS) 2001-05, “Guidance on Submitting Documents to the NRC by Electronic Information Exchange or on CD-ROM,” which informs all Part 50 applicants and licensees that they have the option of submitting documents to the NRC over the Internet by the EIE process or on CD-ROM under procedures spelled out in the RIS. The RIS does not cover electronic submissions under regulations other than those in Part 50. However, on August 10, 2001, the agency issued a letter to certain fuel cycle facilities giving them the option of electronic submissions in many circumstances.¹ Nonetheless, these two documents do not cover other materials licensees or members of the general public.

¹ The NPRC has also issued guidance on managing quality assurance records in electronic media. See RIS 2000-18, October 23, 2000, available at the NPC's Web site.

II. The Final Rule

This rulemaking expands participation in electronic submissions by affording all licensees, vendors, applicants, and members of the public the option, where practicable, of submitting documents to the NRC in an electronic format, for example on CD-ROM, by e-mail, or through a special Web-based interface such as the NRC's Electronic Information Exchange. Generally, electronic submission of documents to the NRC remains voluntary; paper documents remain an acceptable form of submission.

The GPEA requires that agencies accept electronic submissions only when it is “practicable” to do so, but the statute does not define the term “practicable.” At the very least, it is not “practicable” for the agency to receive electronic submissions unless they are made in a manner that enables the agency to receive, read, authenticate, distribute, process and retrieve a page at a time, and archive the submissions. The final regulations in this notice incorporate this general notion of “practicable.” Although the proposed rule did not contain this language, we have added it throughout the final rule in part to make clear that the agency cannot as a practical matter accept electronic communications in every format that submitters might choose.

However, beyond this, the term acquires meaning only in concrete circumstances and moreover tends to change as those circumstances change because the underlying technology changes quickly. Under these continually changing circumstances, the NRC does not want to write certain technologies into its regulations. Therefore, the technologically driven details of how to make electronic submissions to the NRC are laid out in the guidance document that is appended to this rule. The guidance document will be updated as necessary to reflect new technology and agency experience. The guidance discusses, among other topics, the formats the NRC is prepared to accept, the use of electronic signatures, and the treatment of nonpublic information. Most of the amendments made by this rule take the limited approach of letting readers of the regulations know that the option of electronic submission is available in many cases, and that readers should consult the agency's guidance on electronic submissions.

The NRC has also used the criterion of practicability to determine to what extent sensitive information could be protected in electronic submissions, whether such submissions could serve the needs of immediate notification, and whether the agency was prepared to make all of its outgoing communications electronic. In each of these cases, as will be discussed further below, the agency has concluded that electronic submissions are not yet always “practicable” because use of electronic submission in these other situations can entail disproportionate costs in time, labor, and other resources, and sometimes can even delay doing something that needs to be done quickly. Since one aim of the GPEA is to increase the efficiency of government, when the use of electronic media for submission decreases efficiency, the use of electronic media is, at least for the time being, not “practicable.”

Public comments on the proposed rule have led us to make a significant change in what we consider “practicable.” The proposed rule would have continued to require multiple copies of paper submissions (though in reduced numbers), and would, moreover, have required the same number of copies of documents submitted on CD-ROM. However, in light of the comments, the NRC has decided to eliminate nearly all requirements for multiple copies, and most of the changes to the proposed rule implement that decision. We say “nearly all,” because we have retained, and made more explicit, the requirement in Part 63 that the application for a license for a first-of-a-kind high-level waste repository at Yucca Mountain, Nevada, be submitted in multiple paper copies. We have not wished to introduce new options into a unique process that has come far enough to give the probable participants reasonably settled expectations about how the application will be submitted and distributed. Moreover, given the technology that is reasonably available to all the probable participants, the application is more likely to be distributed in a timely way if the current regulations are adhered to; and, given the statutory time limit on the length of the licensing proceeding, time is of the essence.² However, these same arguments do not apply to possible future applications under the generic high-level waste regulations in Part 60, and so the requirements for multiple copies have been removed from that part. For a related discussion of the meaning of “practicable,” see the beginning of Section III of this notice.

² For similar reasons, we have revised § 63.22 to require that the license application, any amendments to the application, and the environmental impact statement and its supplements for the Yucca Mountain facility be submitted also on optical storage media. In fact, the Department of Energy has already submitted the final environmental impact statement for Yucca Mountain on optical storage media. Moreover, this new requirement in § 63.22 is virtually entailed by the existing requirement in 10 CFR 2.1013(a)(2) that the application be docketed in electronic form, and that the Secretary of the Commission determine that the application can be properly accessed under the Commission's rules for the electronic docket in the Yucca Mountain proceeding. Indeed, if the Secretary cannot make such a determination, the agency may reject the application as unacceptable for docketing. See 10 CFR 2.1012(a).

This single copy policy represents a major change in the way the NRC does business, and, as is noted later, the agency may have to make exception to the policy when dealing with CD-ROMs that contain certain kinds of files. The GPEA requires agency compliance by October 21, 2003, where practicable. The rule and guidance are being published by that date. However, the transition to electronic communications will be gradual. The NRC has established January 1, 2004, as the effective date of the rule and guidance document. It is not practicable to implement fully the rule and guidance any sooner. The guidance document has been updated to include several new sections on organizing and segmenting files. These new sections will enhance the NRC's capability to produce paper copies. In the meantime, the delayed effective date for the rule and guidance will allow additional time for the NRC to develop its implementation plan and procedures and prepare to meet its staff's requirements for on-demand paper and CD-ROM copies. This delay will also allow both the NRC staff and submitters (particularly NRC licensees) more time to become familiar with the guidance and to modify their business processes (as appropriate) to achieve a successful transition to the electronic environment. The existing guidance documents on electronic submissions, Regulatory Issue Summary 2001-05 (which was directed toward Part 50 licensees and applicants) and the August 10, 2001, letter (which was directed toward certain fuel cycle facilities) will remain in effect during the period between the required GPEA compliance date (October 21, 2003) and the effective date of this final rule (January 1, 2004). When this final rule takes effect, the new guidance document will supersede both of the existing guidance documents on electronic submissions.

Few of the NRC's regulations on communications explicitly rule out electronic communications. Thus, it has not proven difficult to remove regulatory text that impedes electronic communications in circumstances where electronic communications would be practicable. In searching our regulations, we found only one regulation—§ 50.4(c)—that explicitly required the submission of paper. Many of our regulations require written, or written and signed, communications. These requirements need not be changed, because electronic communications certainly are “written” and we have in place technology for electronic signatures.

We have not had to propose amendments to our regulations on maintenance of records. A great many of these regulations already explicitly permit the use of electronic means to maintain records, and those that do not explicitly permit electronic maintenance of records do not in any way imply that electronic strategies for preservation are disallowed.

Thus, our amendments to existing regulations are confined largely to regulations that imply that electronic means of communication are prohibited. The typical regulation of this sort says that communications under a certain part of our regulations must be by mail or delivery in person. By appearing to be exhaustive, the regulation may be read to imply that electronic communication is prohibited. We have amended almost all of these or similar provisions, leaving in place only those regulations that dictate telephonic or similar communications when circumstances demand, as, for example, when a licensee must notify the agency promptly of a radiological overexposure or an accidental release of radioactive material.

These rulemaking amendments and the guidance document appended to this final rule do not address the submission of documents in hearings under the NRC regulations in 10 CFR part 2 and other parts that govern hearings. In particular, the amendments and guidance do not apply to proceedings under 10 CFR part 2 Subpart J, on the issuance of licenses for high-level waste repositories. Subpart J will continue to govern those proceedings. The use of electronic submissions in litigation in Federal courts and agencies is being widely discussed, and this rulemaking is not intended to resolve issues of when and how to use electronic submissions during hearings. Separate rules or guidance addressing procedures for electronic communications in hearings will be issued in the future for public comment. For at least the near future, parties in hearings must follow the directions that presiding officers issue on how submissions are to be made.

This final rule applies only to communications to the NRC from licensees, certificate holders, applicants, vendors who are required to submit documents to the NRC, external entities (Federal, State, and local governments) and other members of the public, but the GPEA is read to apply also to communications from Federal agencies to the public. Though the NRC is working to further this aspect of the GPEA also, it is not yet practicable for the agency to send all of its communications to licensees and other members of the public by means of electronic submissions. Moreover, the agency must take into account that not all persons who are interested in its work have access to electronic communication. Nonetheless, the NRC's EIE process is designed for both receiving and sending electronic communications. Moreover, the NRC posts a large amount of information on its external Web site, including significant agency communications, and makes information publicly available via ADAMS, the NRC's electronic recordkeeping system.

III. Comments on the Guidance Document

This analysis presents a summary of the significant comments received on the draft guidance and the resolution of those comments by the NRC. The guidance has also been revised to incorporate editorial corrections, clarifications, and updates of the information, as appropriate.

Comment 1: The majority of the commenters objected to the NRC's proposed requirement that a paper copy accompany all submissions on CD-ROM. The commenters disagreed with this requirement, indicating they have moved to an electronic environment based on NRC guidance contained in RIS 2001-05, which states that submissions made on CD-ROM do not require the submission of a paper copy. Several commenters stated that the NRC's paper copy requirement with submissions on CD-ROM was based on the NRC staff's unwillingness to use electronic versions, and the agency's unwillingness to purchase printing equipment that would enable it to make paper copies from the CD-ROM submissions.

Response: The NRC proposed that a paper copy be required with CD-ROM submittals because the NRC is required to make information accessible to both its staff and the public. On the public side, this means making the information available not only to those who have the technology to access electronic information, but also to those who do not have access to computers and the Internet. Requiring a paper copy provides the NRC with an efficient means of reproducing documents for members of the public who do not use the technology for various reasons. The paper copy is also a means of making information accessible to individuals with handicaps, as stipulated in section 508 of the Rehabilitation Act. Many of the formats currently being adopted for electronic information are images of textual information. These images do not work with the assistive technologies currently on the market. However, there are technologies available for converting text from paper to accessible formats for use by the handicapped. Thus, the NRC needs access to paper copies of many electronic submissions in order to provide information to the public.

Before establishing the requirement for submission of a paper copy with CD-ROM submittals, the NRC tested its ability to make copies from samples of CD-ROMs received from several nuclear utilities. Sample CD-ROMs were also provided to leading suppliers of printing and duplication services in the Washington, D.C., area to solicit cost estimates and to verify each supplier's ability to make paper copies from CD-ROMs submitted to the NRC. Both NRC and the local printing community have equipment that could print any file on the sample CD-ROMs. However, in some instances, the complexity of the file structures on the CD-ROMade it almost impossible to accurately reconstruct paper copies from the submissions. In those instances, the cost of creating paper copies from the CD-ROM would be prohibitive. Therefore, the NRC proposed that the individuals who create the documents (licensees, applicants, etc.) provide a single paper copy for use by the NRC for duplication purposes.

Nonetheless, after evaluating the public comments, the NRC is deleting from the guidance the requirement for a paper copy. In those instances where the NRC requires a paper copy for accessibility or other reasons, it will make every effort to produce the copy using NRC resources. The updated guidance includes several new sections on organization and segmentation of files being submitted to the NRC. The new sections will facilitate the NRC's capability to produce paper copies. However, when the agency is unable to successfully generate an accurate paper copy from the CD-ROM, the NRC may require the submitter to produce a paper copy. This will be handled on a case-by-case basis.

Comment 2: Commenters encouraged the NRC to develop the capability to handle many of the types of documents listed as “Exceptions to Electronic Submission” in the guidance.

Response: Many of the exceptions to electronic submission are not related to the capabilities of NRC systems to handle the electronic information. Some are driven by regulations and processes that are not within the NRC's control. However, the NRC will continue to work to enhance the capabilities of the Electronic Information Exchange (EIE) process in the hope of accommodating some of the current exceptions to electronic transmissions. Since the draft was issued, the EIE capabilities have been enhanced to allow the submission of proprietary, privacy, and official-use-only information. For example, in the proposed guidance, fingerprint cards were listed as an exception to transmission via EIE. Under the current guidance, fingerprints can be transmitted via EIE.

Comment 3: The guidance limits the versions of software formats that may be submitted. In some cases the software versions prescribed by the NRC are not the current versions. The NRC should try to keep up with the latest versions of software.

Response: In the Federal environment, upgrades to the latest software can take time. However, the NRC agrees to take steps to ensure the timely approval of the most current versions of software for making submissions to the agency. However, based on National Archives and Records Administration (NARA) guidance documents issued subsequent to publication of the NRC's draft guidance, NRC is restricting the software format versions that are acceptable for submissions to the agency to the current and two prior versions. The guidance has been updated to incorporate this change.

Comment 4: Several commenters stated that versions of software should not be dictated and that there should be no restrictions on the use of versions of software.

Response: The NRC is required to transfer permanent records to NARA in an approved format. NARA currently does not allow submission of documents created using proprietary software. Thus, documents must be converted to an acceptable publicly available format.

Therefore, the NRC must require submitters to provide electronic information in one of the NARA-approved formats.

NARA further restricts formats by only accepting documents converted using the current version or the two previous versions of the software. The NRC is adopting the same approach for submissions to the agency.

The NRC has decided that only documents in one of the NARA-approved PDF formats (see Section 2.1 of the guidance document) or in one of the formats listed for transfer of spreadsheets that are intended for further calculations by the NRC staff are acceptable for electronic submission to the NRC.

Comment 5: Some comments stated that the use of a three-digit numeric prefix in file names is too prescriptive, complicates production of documents, and is unnecessary.

Response: The NRC has several years of experience reviewing and attempting to capture documents submitted to the agency in electronic form. NRC has learned that, in many instances, it is almost impossible to decipher the correct order in which to capture the files to duplicate the document on the transfer medium. Each document submitted to the NRC is created differently, according to the business needs of the creating entity and the level of expertise in the use of the capture software by the individual who creates the document. In many instances the file structure, use of folders, other formatting conventions used, and the relationships between files cannot be determined. Microsoft Explorer and other file management tools further complicate the situation by reordering the file structure. Thus, the file structure of the document cannot be duplicated in the NRC's systems. As a result, the NRC is unable to capture these submissions in its electronic document/records management system. These submissions are currently managed outside of NRC's electronic document management systems as individual objects, maintained on the transfer medium provided. This creates migration and transfer issues that have to be managed on an individual basis. The use of the three-digit prefix is an effort to simplify document capture, ensure correct ordering of files, and increase the accuracy and fidelity of the information captured in the NRC's electronic systems.

For these reasons, the NRC will continue to require a three-digit prefix on all files submitted electronically.

Comment 6: Most comments received included remarks about the maximum file size that can be submitted electronically to the NRC. These comments all requested that the file size limit be increased.

Response: The NRC contracted for a study to evaluate the most logical file size limit based on receipt and capture of incoming files and issues related to access, retrieval, and transfer via the Internet. This study concluded that the optimal file size limit for use by the NRC is 50MB. Therefore, the NRC is modifying its guidance to raise the file size limit for both EIE and CD-ROM submissions to 50MB per file. The NRC had previously proposed a 20MB limit.

Additionally, the NRC has discovered that small files are problematic because large numbers of small files require significant resources to capture and profile in electronic document management systems. Therefore, the NRC encourages submitters to combine files that are parts of larger documents to create 50MB files that can be more economically and efficiently managed.

Comment 7: Several comments stated that the resolution standards for images provided to the NRC are too high.

Response: The resolution standards included in the draft guidance were based on the NRC's experience with images and requirements identified by Adobe to ensure that images can be migrated. This proposed guidance was developed by the NRC before the availability of Government-wide guidance from NARA. Since the draft guidance was published, NARA has issued standards for the transfer of scanned images and PDF documents to NARA. The NRC is adopting these standards in Section 2.5 of the guidance so that the agency can comply with the NARA transfer requirements. The NARA guidance specifies higher resolution levels than proposed originally by the NRC for some image forms. The NRC's original proposed standard was 300 dots per inch (dpi) for Bi-tonal (Black and White) and 200 dpi for Color and Grayscale. The revised standard is 300 dpi for all three.

Comment 8: Several comments stated that the NRC should specify a standard format for submission of documents on CD-ROM that would allow for the upload of the documents into NRC systems.

Response: The NRC agrees. A new section has been added to the guidance (Section 2.14) to cover requirements for segmenting large documents, and another (Section 4.3) has been revised to cover requirements for the accompanying transmittal letter to facilitate the capture of CD-ROM submissions in ADAMS and other NRC systems.

IV. Section-by-Section Analysis

Well over 100 of our regulations are being amended by this final rule. However, we are making only a very few kinds of changes, and so an analysis of each and every amended section would be highly repetitious and, more important, would obscure the aims and forms of the amendments. Therefore, rather than describe each amended section, we will describe only the typical changes we are making and why we are making them.

Many of the kinds of changes are adequately represented by the proposed changes to sections of Part 30.

(1) The changes to § 30.6, “Communications,” are examples of the most important kind of amendment in this rule. Section 30.6 and its analogues in other parts of the NRC's regulations have typically said that communications are to be mailed or delivered by hand to the agency or one of its regional offices. The amended section makes clear that the current list of options is not exhaustive, and that electronic communications are permitted where “practicable.” The amendment refers readers to guidance for answers to questions about what is practicable and how electronic submissions are to be made. The NRC has developed a guidance document that provides specific information concerning electronic submissions. This guidance document appears as an appendix to this final rule. Please note that the guidance document will not be codified in the Code of Federal Regulations.

A variation on § 30.6 requires that paper submissions be on a “page-replacement” basis or that an envelope be marked a certain way. See, for example, § 72.70(c) and § 9.67. We have also amended these regulations to make clear that an electronic option is available on a full-replacement basis.

The amendment of § 30.6 illustrates a general principle we have followed throughout the amendments, namely, that the amended regulations should contain no less information than the previous regulations. We had considered saving time and reducing printed regulatory text by leaving existing communications regulations unchanged and simply adding to Chapter I of Title 10 of the Code of Federal Regulations a single new regulation on communications, applicable to communications under every part of the NRC's regulations. This regulation would have said that, with certain exceptions, the electronic option was available, notwithstanding what any other NRC communications regulation said. However, regulations on communications then would have contradicted each other, and readers of one of the other parts could have been misled by the part they were reading into thinking that communications had to be by mail or delivery in person. Thus, to avoid inconsistencies and to ensure that the new regulations contain as much information as the old ones, we have revised any section that, because it mentioned only one or two options for communications, implied that the electronic option was ruled out. Thus, we have amended § 30.6 in several places.

(2) The amendments to § 30.50(c), “Reporting requirements,” and § 30.55 (c), “Tritium reports,” are instances of a second major class of amendment in this final rule. The sections amended by this class typically required two or three kinds of notification to the NRC—a more or less immediate notification by phone or sometimes telefax or telegram of an incident, a pending shipment, or other time-sensitive matter; then a followup report several hours later, again by phone, telefax, or telegram; and finally, several days later, a written report to the appropriate office director. Section 30.50 requires all three kinds of reports. Generally speaking, we have not added an electronic option for the first two kinds of reports, the short-term ones, because the aims of these required reports are best served by consistently stable, rapid, and fully interactive means of communications. Electronic Information Exchange communications may not yet consistently meet these needs. E-mail delivery times, for example, can still be measured in days sometimes, and even “instant messaging” does not always permit the same facility of information exchange and discussion that the telephone permits. Thus, we have concluded that, at the present time, electronic communication of short-term reports is not yet “practicable.” We will revisit these requirements as the technology advances. Nonetheless, the amendments in this final rule add the electronic option for communicating written followup reports required by §§ 30.50 and 30.55 and their analogues.

(3) The amendment to § 30.7(e)(3) is an example of a third class of amendment that is less important than the two that have already been discussed. Several regulations require that a licensee or applicant acquire a copy of an NRC form, either for posting at the licensee's facility (as in the case of § 30.7), for filling out and sending to the NRC to apply for a license, or to meet a reporting requirement. These regulations typically say that the form may be acquired by writing to a certain address or by calling a certain number. The amendments to these sections add that the forms may be acquired by visiting the NRC's Web site.

In addition, throughout the regulations we have also eliminated requirements for multiple copies of submissions. For example, § 51.66 previously required submittal of 25 copies of the environmental report and retention of an additional 125 copies for later distribution. The submittal requirement is now being reduced to a single copy, and instead of being required to retain copies, an applicant will be required to maintain the capability to generate additional copies as directed.

This final rule text also makes a number of minor changes to reflect other final rules that the NRC has issued since the proposed rule on electronic submissions was issued. The text also contains a number of administrative changes, such as changes in phone numbers and street and e-mail addresses.

V. Voluntary Consensus Standards

The National Technology Transfer and Advancement Act of 1995 (NTTAA), Pub. L. 104-113, requires that Federal agencies use technical standards that are developed or adopted by voluntary consensus standards bodies unless using such a standard is inconsistent with applicable law or otherwise impractical. In this final rule, the NRC is not adopting any technical standard. It is simply helping to ensure, through a rulemaking, that the agency will be in timely compliance with the requirement in the Government Paperwork Elimination Act, Pub. L. 105-277, that Federal agencies allow electronic submissions of information where practicable. Thus, no showing of compliance with the NTTAA is necessary here.

VI. Environmental Impact: Categorical Exclusion

The NRC has determined that this final rule is the type of action described in categorical exclusion 10 CFR 51.22(c)(2), because this action seeks nonpolicy, procedural changes to the NRC's regulations. Moreover, because of the broad nature of this action and the number of the NRC's regulations affected, several other categorical exclusions apply to this rule, including 10 CFR 51.22(c)(1) and (3)(i)-(iii). Also, 10 CFR 51.22(c)(16) applies to the guidance being issued in connection with this rule and to the rule itself. Therefore, neither an environmental impact statement nor an environmental assessment has been prepared for these changes to the regulations. Because of its procedural nature, this action does not raise environmental justice concerns.

VII. Paperwork Reduction Act Statement

The Office of Management and Budget (OMB) has determined that, because this final rule provides the option of collecting information by use of electronic means but does not amend the existing information collections to which the rule pertains, OMB's review and approval under the Paperwork Reduction Act of 1995 (44 U.S.C. 3501 and following) are not required.

VIII. Regulatory Analysis

A regulatory analysis has not been prepared for this rulemaking. The amendments below will neither impose new nor relax existing safety requirements and, thus, do not call for the sort of safety/cost analysis described in the agency's regulatory analysis guidelines in NUREG/BR-0058. Moreover, the NRC is required by the Government Paperwork Elimination Act, Pub. L. 105-277 (44 U.S.C. 3505, note), to allow electronic submissions where practicable, and the final rule does simply that. Thus, an analysis of costs and benefits could not alter a decision to implement the policy embodied in this rule. However, the NRC believes that the rule will afford all persons who deal with the agency greater flexibility in choosing the format of many of their communications and, thus, will allow them to choose less costly alternatives, often reducing the current costs of their communications with the NRC.

IX. Regulatory Flexibility Certification

In accordance with section 605(b) of the Regulatory Flexibility Act (Title 5, Chapter 6 of the U.S. Code), the Commission certifies that this rule does not have a significant economic impact on a substantial number of small entities. Therefore, in accordance with section 605(b), the NRC is not preparing a regulatory flexibility analysis. The rule will in fact apply to the many small entities that are among the NRC's licensees, but it will impose no new burdens on those small entities. To the contrary, as noted in the regulatory analysis section of this notice, the agency's expectation is that the rule will reduce burdens.

The NRC is providing the certification to the Chief Counsel for Advocacy of the SBA, in accordance with section 605 of the Regulatory Flexibility Act.

X. Backfit Analysis

The NRC has determined that a backfit analysis is not required for this final rule because these amendments do not include any provisions that would require backfits as defined in 10 CFR Chapter I. Furthermore, this rule is necessary so that the NRC can respond adequately to the mandate in the Government Paperwork Elimination Act of 1998 that Federal agencies “provide for the option of the electronic maintenance, submission, or disclosure of information, when practicable as a substitute for paper * * *” (Pub. L. 105-277, Sec. 1704). Therefore, a backfit analysis has not been prepared for this final rule.

XI. Congressional Review

The provisions of 5 U.S.C. 801 et seq., which govern congressional review of rulemakings, do not apply to this rulemaking because it concerns agency procedure and practice and will not substantially affect the rights and obligations of nonagency parties. See 5 U.S.C. 804(3)(C).

List of Subjects

10 CFR Part 2

Administrative practice and procedure, Antitrust, Byproduct material, Classified information, Environmental protection, Nuclear materials, Nuclear power plants and reactors, Penalties, Sex discrimination, Source material, Special nuclear material, Waste treatment and disposal.

10 CFR Part 4

Administrative practice and procedure, Blind, Buildings, Civil rights, Employment, Equal employment opportunity, Federal aid programs, Grant programs, Handicapped, Loan programs, Reporting and recordkeeping requirements, Sex discrimination.

10 CFR Part 9

Criminal penalties, Freedom of information, Privacy, Reporting and recordkeeping requirements, Sunshine Act.

10 CFR Part 11

Hazardous materials—transportation, Investigations, Nuclear materials, Reporting and recordkeeping requirements, Security measures, Special nuclear material.

10 CFR Part 15

Administrative practice and procedure, Debt collection.

10 CFR Part 19

Criminal penalties, Environmental protection, Nuclear materials, Nuclear power plants and reactors, Occupational safety and health, Radiation protection, Reporting and recordkeeping requirements, Sex discrimination.

10 CFR Part 20

Byproduct material, Criminal penalties, Licensed material, Nuclear materials, Nuclear power plants and reactors, Occupational safety and health, Packaging and containers, Radiation protection, Reporting and recordkeeping requirements, Source material, Special nuclear material, Waste treatment and disposal.

10 CFR Part 21

Nuclear power plants and reactors, Penalties, Radiation protection, Reporting and recordkeeping requirements.

10 CFR Part 25

Classified information, Criminal penalties, Investigations, Reporting and recordkeeping requirements, Security measures.

10 CFR Part 30

Byproduct material, Criminal penalties, Government contracts, Intergovernmental relations, Isotopes, Nuclear materials, Radiation protection, Reporting and recordkeeping requirements.

10 CFR Part 31

Byproduct material, Criminal penalties, Labeling, Nuclear materials, Packaging and containers, Radiation protection, Reporting and recordkeeping requirements, Scientific equipment.

10 CFR Part 32

Byproduct material, Criminal penalties, Labeling, Nuclear materials, Radiation protection, Reporting and recordkeeping requirements.

10 CFR Part 33

Byproduct material, Criminal penalties, Nuclear materials, Radiation protection, Reporting and recordkeeping requirements.

10 CFR Part 34

Criminal penalties, Packaging and containers, Radiation protection, Radiography, Reporting and recordkeeping requirements, Scientific equipment, Security measures.

10 CFR Part 35

Byproduct material, Criminal penalties, Drugs, Health facilities, Health professions, Medical devices, Nuclear materials, Occupational safety and health, Radiation protection, Reporting and recordkeeping requirements.

10 CFR Part 39

Byproduct material, Criminal penalties, Nuclear material, Oil and gas exploration—well logging, Reporting and recordkeeping requirements, Scientific equipment, Security measures, Source material, Special nuclear material.

10 CFR Part 40

Criminal penalties, Government contracts, Hazardous materials transportation, Nuclear materials, Reporting and recordkeeping requirements, Source material, Uranium.

10 CFR Part 50

Antitrust, Classified information, Criminal penalties, Fire protection, Intergovernmental relations, Nuclear power plants and reactors, Radiation protection, Reactor siting criteria, Reporting and recordkeeping requirements.

10 CFR Part 51

Administrative practice and procedure, Environmental impact statement, Nuclear materials, Nuclear power plants and reactors, Reporting and recordkeeping requirements.

10 CFR Part 52

Administrative practice and procedure, Antitrust, Backfitting, Combined license, Early site permit, Emergency planning, Fees, Inspection, Limited work authorization, Nuclear power plants and reactors, Probabilistic risk assessment, Prototype, Reactor siting criteria, Redress of site, Reporting and recordkeeping requirements, Standard design, Standard design certification.

10 CFR Part 55

Criminal penalties, Manpower training programs, Nuclear power plants and reactors, Reporting and recordkeeping requirements.

10 CFR Part 60

Criminal penalties, High-level waste, Nuclear materials, Nuclear power plants and reactors, Reporting and recordkeeping requirements, Waste treatment and disposal.

10 CFR Part 61

Criminal penalties, Low-level waste, Nuclear materials, Reporting and recordkeeping requirements, Waste treatment and disposal.

10 CFR Part 62

Administrative practice and procedure, Denial of access, Emergency access to low-level waste disposal, Low-level radioactive waste, Low-level radioactive waste treatment and disposal, Low-level waste policy amendments act of 1985, Nuclear materials, Reporting and recordkeeping requirements.

10 CFR Part 63

Criminal penalties, High-level waste, Nuclear power plants and reactors, Reporting and recordkeeping requirements, Waste treatment and disposal.

10 CFR Part 70

Criminal penalties, Hazardous materials transportation, Material control and accounting, Nuclear materials, Packaging and containers, Radiation protection, Reporting and recordkeeping requirements, Scientific equipment, Security measures, Special nuclear material.

10 CFR Part 71

Criminal penalties, Hazardous materials transportation, Nuclear materials, Packaging and containers, Reporting and recordkeeping requirements.

10 CFR Part 72

Administrative practice and procedure, Criminal penalties, Manpower training programs, Nuclear materials, Occupational safety and health, Penalties, Radiation protection, Reporting and recordkeeping requirements, Security measures, Spent fuel, Whistleblowing.

10 CFR Part 73

Criminal penalties, Export, Hazardous materials transportation, Import, Nuclear materials, Nuclear power plants and reactors, Reporting and recordkeeping requirements, Security measures.

10 CFR Part 74

Accounting, Criminal penalties, Hazardous materials transportation, Material control and accounting, Nuclear materials, Packaging and containers, Radiation protection, Reporting and recordkeeping requirements, Scientific equipment, Special nuclear material.

10 CFR Part 75

Criminal penalties, Intergovernmental relations, Nuclear materials, Nuclear power plants and reactors, Reporting and recordkeeping requirements, Security measures.

10 CFR Part 76

Certification, Criminal penalties, Radiation protection, Reporting and recordkeeping requirements, Security measures, Special nuclear material, Uranium enrichment by gaseous diffusion.

10 CFR Part 81

Administrative practice and procedure, Inventions and patents.

10 CFR Part 95

Classified information, Criminal penalties, Reporting and recordkeeping requirements, Security measures.

10 CFR Part 100

Nuclear power plants and reactors, Reactor siting criteria.

10 CFR Part 110

Administrative practice and procedure, Classified information, Criminal penalties, Export, Import, Intergovernmental relations, Nuclear materials, Nuclear power plants and reactors, Reporting and recordkeeping requirements, Scientific equipment.

10 CFR Part 140

Criminal penalties, Extraordinary nuclear occurrence, Insurance, Intergovernmental relations, Nuclear materials, Nuclear power plants and reactors, Reporting and recordkeeping requirements.

10 CFR Part 150

Criminal penalties, Hazardous materials transportation, Intergovernmental relations, Nuclear materials, Reporting and recordkeeping requirements, Security measures, Source material, Special nuclear material.

10 CFR Part 170

Byproduct material, Import and export licenses, Intergovernmental relations, Non-payment penalties, Nuclear materials, Nuclear power plants and reactors, Source material, Special nuclear material.

10 CFR Part 171

Annual charges, Byproduct material, Holders of certificates, registrations, approvals, Intergovernmental relations, Nonpayment penalties, Nuclear materials, Nuclear power plants and reactors, Source material, Special nuclear material.

For the reasons set out in the preamble and under the authority of the Atomic Energy Act of 1954, as amended; the Energy Reorganization Act of 1974, as amended; and 5 U.S.C. 552 and 553, the NRC is adopting the following amendments to 10 CFR Chapter I:

PART 2—RULES OF PRACTICE FOR DOMESTIC LICENSING PROCEEDINGS AND ISSUANCE OF ORDERS

1. The authority citation for part 2 is revised to read as follows:

Authority: Secs. 161, 181, 68 Stat. 948, 953, as amended (42 U.S.C. 2201, 2231); sec. 191, as amended, Pub. L. 87-615, 76 Stat. 409 (42 U.S.C. 2241); sec. 201, 88 Stat. 1242, as amended (42 U.S.C. 5841); 5 U.S.C. 552; sec. 1704, 112 Stat. 2750 (44 U.S.C. 3504 note).

Section 2.101 also issued under secs. 53, 62, 63, 81, 103, 104, 105, 68 Stat. 930, 932, 933, 935, 936, 937, 938, as amended (42 U.S.C. 2073, 2092, 2093, 2111, 2133, 2134, 2135); sec. 114(f); Pub. L. 97-425, 96 Stat. 2213, as amended (42 U.S.C. 10143(f)); sec. 102, Pub. L. 91-190, 83 Stat. 853, as amended (42 U.S.C. 4332); sec. 301, 88 Stat. 1248 (42 U.S.C. 5871). Section 2.102, 2.103, 2.104, 2.105, 2.721 also issued under secs. 102, 103, 104, 105, 183i, 189, 68 Stat. 936, 937, 938, 954, 955, as amended (42 U.S.C. 2132, 2133, 2134, 2135, 2233, 2239). Section 2.105 also issued under Pub. L. 97-415, 96 Stat. 2073 (42 U.S.C. 2239). Sections 2.200-2.206 also issued under secs. 161 b, i, o, 182, 186, 234, 68 Stat. 948-951, 955, 83 Stat. 444, as amended (42 U.S.C. 2201 (b), (i), (o), 2236, 2282); sec. 206, 88 Stat. 1246 (42 U.S.C. 5846). Section 2.205(j) also issued under Pub. L. 101-410, 104 Stat. 90, as amended by section 3100(s), Pub. L. 104-134, 110 Stat. 1321-373 (28 U.S.C. 2461 note). Section 2.600-2.606 also issued under sec. 102, Pub. L. 91-190, 83 Stat. 853, as amended (42 U.S.C. 4332). Section 2.700a, 2.719 also issued under 5 U.S.C. 554. Sections 2.754, 2.760, 2.770, 2.780 also issued under 5 U.S.C. 557. Section 2.764 also issued under secs. 135, 141, Pub. L. 97-425, 96 Stat. 2232, 2241 (42 U.S.C. 10155, 10161). Section 2.790 also issued under sec. 103, 68 Stat. 936, as amended (42 U.S.C. 2133) and 5 U.S.C. 552. Sections 2.800 and 2.808 also issued under 5 U.S.C. 553, Section 2.809 also issued under 5 U.S.C. 553, and sec. 29, Pub. L. 85-256, 71 Stat. 579, as amended (42 U.S.C. 2039). Subpart K also issued under sec. 189, 68 Stat. 955 (42 U.S.C. 2239); sec. 134, Pub. L. 97-425, 96 Stat. 2230 (42 U.S.C. 10154). Subpart L also issued under sec. 189, 68 Stat. 955 (42 U.S.C. 2239). Subpart M also issued under sec. 184 (42 U.S.C. 2234) and sec. 189, 68 Stat. 955 (42 U.S.C. 2239). Appendix A also issued under sec. 6, Pub. L. 91-560, 84 Stat. 1473 (42 U.S.C. 2135).

2. In § 2.206, the second sentence of paragraph (a) is removed and three sentences are added in its place to read as follows:

§ 2.206 Requests for action under this subpart.

(a) * * * Requests must be addressed to the Secretary of the Commission and must be filed either by hand delivery to the NRC's Offices at 11555 Rockville Pike, Rockville, Maryland; by mail or telegram addressed to the Secretary, U.S. Nuclear Regulatory Commission, Washington, DC 20555-0001; or by electronic submission, for example, via facsimile, Electronic Information Exchange, e-mail, or CD-ROM. Electronic submissions must be made in a manner that enables the NRC to receive, read, authenticate, distribute, and archive the submission, and process and retrieve it a single page at a time. Detailed guidance on making electronic submissions can be obtained by visiting the NRC's Web site at http://www.nrc.gov/site-help/eie.html, by calling (301) 415-6030, by e-mail to EIE@nrc.gov; or by writing the Office of the Chief Information Officer, U.S. Nuclear Regulatory Commission, Washington, DC 20555-0001. * * *

* * * * *

3. In § 2.802, paragraph (a) and the second sentence of the introductory text of paragraph (b) are revised to read as follows:

§ 2.802 Petition for rulemaking.

(a) Any interested person may petition the Commission to issue, amend or rescind any regulation. The petition should be addressed to the Secretary, Attention: Rulemakings and Adjudications Staff, and sent either by mail addressed to the U.S. Nuclear Regulatory Commission, Washington, DC 20555-0001; by facsimile; by hand delivery to the NRC's offices at 11555 Rockville Pike, Rockville, Maryland; or, where practicable, by electronic submission, for example, via Electronic Information Exchange, e-mail, or CD-ROM. Electronic submissions must be made in a manner that enables the NRC to receive, read, authenticate, distribute, and archive the submission, and process and retrieve it a single page at a time. Detailed guidance on making electronic submissions can be obtained by visiting the NRC's Web site at http://www.nrc.gov/site-help/eie.html, by calling (301) 415-6030, by e-mail to EIE@nrc.gov, or by writing the Office of the Chief Information Officer, U.S. Nuclear Regulatory Commission, Washington, DC 20555-0001. The guidance discusses, among other topics, the formats the NRC can accept, the use of electronic signatures, and the treatment of nonpublic information.

(b) * * * A prospective petitioner also may telephone the Rules and Directives Branch on (301) 415-7163, or toll free on (800) 368-5642, or send e-mail to NRCREP@nrc.gov.

* * * * *

PART 4—NONDISCRIMINATION IN FEDERALLY ASSISTED PROGRAMS OR ACTIVITIES RECEIVING FEDERAL FINANCIAL ASSISTANCE FROM THE COMMISSION

4. The authority citation for part 4 is revised to read as follows:

Authority: Sec. 161, 68 Stat. 948, as amended (42 U.S.C. 2201); sec. 274, 73 Stat. 688, as amended (42 U.S.C. 2021); sec. 201, 88 Stat. 1242, as amended (42 U.S.C. 5841); sec. 1704, 112 Stat. 2750 (44 U.S.C. 3504 note).

Subpart A also issued under secs. 602-605, Pub. L. 88-352, 78 Stat. 252, 253 (42 U.S.C. 2000d-1-2000d-4); sec. 401, 88 Stat. 1254 (42 U.S.C. 5891).

Subpart B also issued under sec. 504, Pub. L. 93-112, 87 Stat. 394 (29 U.S.C. 706); sec. 119, Pub. L. 95-602, 92 Stat. 2984 (29 U.S.C. 794); sec. 122, Pub. L. 95-602, 92 Stat. 2984 (29 U.S.C. 706(6)).

Subpart C also issued under Title III of Pub. L. 94-135, 89 Stat. 728, as amended (42 U.S.C. 6101).

Subpart E also issued under 29 U.S.C. 794.

5. Section 4.5 is revised to read as follows:

§ 4.5 Communications and reports.

Except as otherwise indicated, communications and reports relating to this part may be sent to the NRC by mail addressed to the U.S. Nuclear Regulatory Commission, Washington, DC 20555-0001; by hand delivery to the NRC's offices at 11555 Rockville Pike, Rockville, Maryland; or, where practicable, by electronic submission, for example, via Electronic Information Exchange, or CD-ROM. Electronic submissions must be made in a manner that enables the NRC to receive, read, authenticate, distribute, and archive the submission, and process and retrieve it a single page at a time. Detailed guidance on making electronic submissions can be obtained by visiting the NRC's Web site at http://www.nrc.gov/site-help/eie.html, by calling (301) 415-6030, by e-mail to EIE@nrc.gov, or by writing the Office of the Chief Information Officer, U.S. Nuclear Regulatory Commission, Washington, DC 20555-0001. The guidance discusses, among other topics, the formats the NRC can accept, the use of electronic signatures, and the treatment of nonpublic information.

6. In § 4.570, paragraph (c) is revised to read as follows:

§ 4.570 Compliance procedures.

* * * * *

(c) The Civil Rights Program Manager, Office of Small Business and Civil Rights, shall be responsible for coordinating implementation of this section. Complaints should be sent to the NRC using an appropriate method listed in § 4.5.

* * * * *

PART 9—PUBLIC RECORDS

7. The authority citation for part 9 is revised to read as follows:

Authority: Sec. 161, 68 Stat. 948, as amended (42 U.S.C. 2201); sec. 201, 88 Stat. 1242, as amended (42 U.S.C. 5841); sec. 1704, 112 Stat. 2750 (44 U.S.C. 3504 note).

Subpart A also issued under 5 U.S.C. 552; 31 U.S.C. 9701; Pub. L. 99-570.

Subpart B is also issued under 5 U.S.C. 552a.

Subpart C also issued under 5 U.S.C. 552b.

8. Section 9.6 is added to read as follows:

§ 9.6 Communications.

Except as otherwise indicated, communications relating to this part shall be addressed to the Freedom of Information Act and Privacy Act Officer, may be sent to the NRC by mail addressed to the U.S. Nuclear Regulatory Commission, Washington, DC 20555-0001; by hand delivery to the NRC's offices at 11555 Rockville Pike, Rockville, Maryland; or, where practicable, by electronic submission via facsimile to (301) 415-5130 or e-mail to foia@nrc.gov. Electronic submissions must be made in a manner that enables the NRC to receive, read, authenticate, distribute, and archive the submission, and process and retrieve it a single page at a time. Detailed guidance on making electronic submissions can be obtained by visiting the NRC's Web site at http://www.nrc.gov/site-help/eie.html, by calling (301) 415-6030, by e-mail to EIE@nrc.gov, or by writing the Office of the Chief Information Officer, U.S. Nuclear Regulatory Commission, Washington, DC 20555-0001. The guidance discusses, among other topics, the formats the NRC can accept, the use of electronic signatures, and the treatment of nonpublic information.

9. In § 9.23, the first and second sentences of the introductory text of paragraph (b) are revised to read as follows:

§ 9.23 Request for records.

* * * * *

(b) A person may request agency records by submitting a request authorized by 5 U.S.C. 552(a)(3) to the Office of the Chief Information Officer, by an appropriate method listed in § 9.6. The request should be clearly marked “Freedom of Information Act Request.” * * *

* * * * *

10. In § 9.29, the second and fifth sentences of paragraph (a) are revised to read as follows:

§ 9.29 Appeal from initial determination.

(a) * * * For agency records denied by an Office Director reporting to the Executive Director for Operations, the appeal should be addressed to the Executive Director for Operations and sent using an appropriate method listed in § 9.6. * * * The appeal should be clearly marked “Appeal from Initial FOIA Decision.” * * *

* * * * *

11. In § 9.41, paragraph (a)(2) is revised to read as follows:

§ 9.41 Requests for waiver or reduction of fees.

(a) * * *

(2) Each request for a waiver or reduction of fees should be addressed to the Office of the Chief Information Officer, and sent using an appropriate method listed in § 9.6.

* * * * *

12. In § 9.53, paragraph (a) and the first sentence of paragraph (b) are revised to read as follows:

§ 9.53 Requests; how and where presented.

(a) Requests may be made in person or in writing. Assistance regarding equests or other matters relating to the Privacy Act of 1974 may be obtained by writing to the Freedom of Information Act and Privacy Act Officer, by an appropriate method listed in § 9.6. Requests relating to records in multiple systems of records should be made to the same Officer. That Officer shall assist the requestor in identifying his request more precisely and shall be responsible for forwarding the request to the appropriate system manager.

(b) All written requests must be made to the Freedom of Information Act and Privacy Act Officer, by an appropriate method listed in § 9.6, and should be clearly marked “Privacy Act Request,” “Privacy Act Disclosure Accounting Request,” or “Privacy Act Correction Request,” as appropriate. * * *

* * * * *

13. In § 9.54, the last sentence of paragraph (b) is revised to read as follows:

§ 9.54 Verification of identity of individuals making requests.

* * * * *

(b) Inability to provide requisite documentation of identity. * * * Forms for such notarized statements may be obtained on request from the Freedom of Information Act and Privacy Act Officer, and sent by an appropriate method listed in § 9.6.

* * * * *

14. In § 9.65, the third and fifth sentences of paragraph (b) are revised to read as follows:

§ 9.65 Access determinations; appeals.

* * * * *

(b) * * * For agency records denied by the Assistant Inspector General for Investigations, the appeal must be in writing, addressed to the Inspector General, and sent by an appropriate method listed in § 9.6. * * * The appeal should be clearly marked “Privacy Act Appeal—Denial of Access.” * * *

* * * * *

15. In § 9.66, the third and fourth sentences of paragraph (b) are revised to read as follows:

§ 9.66 Determinations authorizing or denying correction of records; appeals.

* * * * *

(b) * * * The appeal must be in writing, addressed to the Freedom of Information Act and Privacy Act Officer, and sent by an appropriate method listed in § 9.6, for submission to the appropriate appellate authority for a final determination. The appeal should be clearly marked “Privacy Act Correction Appeal.” * * *

* * * * *

16. In § 9.67, the second sentence of paragraph (a) is removed and two sentences are added in its place to read as follows:

§ 9.67 Statements of disagreement.

(a) * * * “Statements of Disagreement” must be addressed, as appropriate, to the Inspector General or the Executive Director for Operations, and sent by an appropriate method listed in § 9.6. They should also be clearly marked “Privacy Act Statement of Disagreement.”

* * * * *

PART 11—CRITERIA AND PROCEDURES FOR DETERMINING ELIGIBILITY FOR ACCESS TO OR CONTROL OVER SPECIAL NUCLEAR MATERIAL

17. The authority citation for part 11 is revised to read as follows:

Authority: Sec. 161, 68 Stat. 948, as amended (42 U.S.C. 2201); sec. 201, 88 Stat. 1242, as amended (42 U.S.C. 5841); sec. 1704, 112 Stat. 2750 (44 U.S.C. 3504 note).

Section 11.15(e) also issued under sec. 501, 85 Stat. 290 (31 U.S.C. 483a).

18. In § 11.15, the first sentence of paragraph (a)(1) is removed and four sentences are added in its place to read as follows:

§ 11.15 Application for special nuclear material access authorization.

(a)(1) Application for special nuclear material access authorization, renewal, or change in level must be filed by the licensee on behalf of the applicant with the Director, Division of Facilities and Security, Mail Stop T7-D57, either by mail addressed to the U.S. Nuclear Regulatory Commission, Washington, DC 20555-0001; by hand delivery to the NRC's offices at 11555 Rockville Pike, Rockville, Maryland; or, where practicable, by electronic submission, for example, via Electronic Information Exchange, or CD-ROM. Electronic submissions must be made in a manner that enables the NRC to receive, read, authenticate, distribute, and archive the submission, and process and retrieve it a single page at a time. Detailed guidance on making electronic submissions can be obtained by visiting the NRC's Web site at http://www.nrc.gov/site-help/eie.html, by calling (301) 415-6030, by e-mail to EIE@nrc.gov, or by writing the Office of the Chief Information Officer, U.S. Nuclear Regulatory Commission, Washington, DC 20555-0001. The guidance discusses, among other topics, the formats the NRC can accept, the use of electronic signatures, and the treatment of nonpublic information. * * *

* * * * *

PART 15—DEBT COLLECTION PROCEDURES

19. The authority citation for part 15 is revised to read as follows:

Authority: Secs. 161, 186, 68 Stat. 948, 955, as amended (42 U.S.C. 2201, 2236); sec. 201, 88 Stat. 1242, as amended (42 U.S.C. 5841); sec. 1, Pub. L. 97-258, 96 Stat. 972 (31 U.S.C. 3713); sec. 5, Pub. L. 89-508, 80 Stat. 308, as amended (31 U.S.C. 3716); Pub. L. 97-365, 96 Stat. 1749 (31 U.S.C. 3719); Federal Claims Collection Standards, 31 CFR Chapter IX, parts 900-904; 31 U.S.C. Secs. 3701, 3716; 31 CFR Sec 285; 26 U.S.C. Sec 6402(d); 31 U.S.C. Sec. 3720A; 26 U.S.C. Sec. 6402(c); 42 U.S.C. Sec. 664; Pub. L. 104-134, as amended (31 U.S.C. 3713); 5 U.S.C. 5514; Executive Order 12146 (3 CFR 1980 Comp. pp. 409-412); Executive Order 12988 (3 CFR, 1996 Comp., pp. 157-163); sec. 1704, 112 Stat. 2750 (44 U.S.C. 3504 note).

20. Section 15.3 is revised to read as follows:

§ 15.3 Communications.

Unless otherwise specified, communications concerning the regulations in this part may be addressed to the Secretary of the Nuclear Regulatory Commission and sent either by mail to the U.S. Nuclear Regulatory Commission, Washington, DC 20555-0001, ATTN: Rulemakings and Adjudications Staff; by hand delivery to the NRC's offices at 11555 Rockville Pike, One White Flint North, Rockville, Maryland; or, where practicable, by electronic submission, for example, via Electronic Information Exchange, or CD-ROM. Electronic submissions must be made in a manner that enables the NRC to receive, read, authenticate, distribute, and archive the submission, and process and retrieve it a single page at a time. Detailed guidance on making electronic submissions can be obtained by visiting the NRC's Web site at http://www.nrc.gov/site-help/eie.html, by calling (301) 415-6030, by e-mail to EIE@nrc.gov, or by writing the Office of the Chief Information Officer, U.S. Nuclear Regulatory Commission, Washington, DC 20555-0001. The guidance discusses, among other topics, the formats the NRC can accept, the use of electronic signatures, and the treatment of nonpublic information.

PART 19—NOTICES, INSTRUCTIONS AND REPORTS TO WORKERS: INSPECTION AND INVESTIGATIONS

21. The authority citation for part 19 is revised to read as follows:

Authority: Secs. 53, 63, 81, 103, 104, 161, 186, 68 Stat. 930, 933, 935, 936, 937, 948, 955, as amended, sec. 234, 83 Stat. 444, as amended, sec. 1701, 106 Stat. 2951, 2952, 2953 (42 U.S.C. 2073, 2093, 2111, 2133, 2134, 2201, 2236, 2282, 2297f); sec. 201, 88 Stat. 1242, as amended (42 U.S.C. 5841); Pub. L. 95-601, sec. 10, 92 Stat. 2951 (42 U.S.C. 5851); sec. 1704, 112 Stat. 2750 (44 U.S.C. 3504 note).

22. In § 19.11, paragraph (c)(2) is revised to read as follows:

§ 19.11 Posting of notices to workers.

* * * * *

(c) * * *

(2) Additional copies of NRC Form 3 may be obtained by writing to the Regional Administrator of the appropriate U.S. Nuclear Regulatory Commission Regional Office listed in appendix D to part 20 of this chapter, by calling (301) 415-5877, via e-mail to forms@nrc.gov, or by visiting the NRC's Web site at http://www.nrc.gov and selecting forms from the index found on the home page.

* * * * *

23. In § 19.17, the second sentence of paragraph (a) is removed and five sentences are added in its place to read as follows:

§ 19.17 Inspections not warranted; informal review.

(a) * * * The complainant may obtain review of this determination by submitting a written statement of position to the Executive Director for Operations, either by mail to the U.S. Nuclear Regulatory Commission, Washington, DC 20555-0001; by hand delivery to the NRC's offices at 11555 Rockville Pike, Rockville, Maryland; or, where practicable, by electronic submission, for example, via Electronic Information Exchange, or CD-ROM. Electronic submissions must be made in a manner that enables the NRC to receive, read, authenticate, distribute, and archive the submission, and process and retrieve it a single page at a time. Detailed guidance on making electronic submissions can be obtained by visiting the NRC's Web site at http://www.nrc.gov/site-help/eie.html, by calling (301) 415-6030, by e-mail to EIE@nrc.gov, or by writing the Office of the Chief Information Officer, U.S. Nuclear Regulatory Commission, Washington, DC 20555-0001. The guidance discusses, among other topics, the formats the NRC can accept, the use of electronic signatures, and the treatment of nonpublic information. The Executive Director for Operations will provide the licensee with a copy of such statement by certified mail, excluding, at the request of the complainant, the name of the complainant. * * *

* * * * *

PART 20—STANDARDS FOR PROTECTION AGAINST RADIATION

24. The authority citation for part 20 is revised to read as follows:

Authority: Secs. 53, 63, 65, 81, 103, 104, 161, 182, 186, 68 Stat. 930, 933, 935, 936, 937, 948, 953, 955, as amended, sec. 1701, 106 Stat. 2951, 2952, 2953 (42 U.S.C. 2073, 2093, 2095, 2111, 2133, 2134, 2201, 2232, 2236, 2297f), secs. 201, as amended, 202, 206, 88 Stat. 1242, as amended, 1244, 1246 (42 U.S.C. 5841, 5842, 5846); sec. 1704, 112 Stat. 2750 (44 U.S.C. 3504 note).

25. Section 20.1007 is revised to read as follows:

§ 20.1007 Communications.

Unless otherwise specified, communications or reports concerning the regulations in this part should be addressed to the Executive Director for Operations (EDO), and sent either by mail to the U.S. Nuclear Regulatory Commission, Washington, DC 20555-0001; by hand delivery to the NRC's offices at 11555 Rockville Pike, Rockville, Maryland; or, where practicable, by electronic submission, for example, via Electronic Information Exchange, or CD-ROM. Electronic submissions must be made in a manner that enables the NRC to receive, read, authenticate, distribute, and archive the submission, and process and retrieve it a single page at a time. Detailed guidance on making electronic submissions can be obtained by visiting the NRC's Web site at http://www.nrc.gov/site-help/eie.html, by calling (301) 415-6030, by e-mail to EIE@nrc.gov, or by writing the Office of the Chief Information Officer, U.S. Nuclear Regulatory Commission, Washington, DC 20555-0001. The guidance discusses, among other topics, the formats the NRC can accept, the use of electronic signatures, and the treatment of nonpublic information.

26. In § 20.2203, paragraph (d) is revised to read as follows:

§ 20.2203 Reports of exposures, radiation levels, and concentrations of radioactive material exceeding the constraints or limits.

* * * * *

(d) All licensees, other than those holding an operating license for a nuclear power plant, who make reports under paragraph (a) of this section shall submit the report in writing either by mail addressed to the U.S. Nuclear Regulatory Commission, ATTN: Document Control Desk, Washington, DC 20555-0001; by hand delivery to the NRC's offices at 11555 Rockville Pike, Rockville, Maryland; or, where practicable, by electronic submission, for example, Electronic Information Exchange, or CD-ROM. Electronic submissions must be made in a manner that enables the NRC to receive, read, authenticate, distribute, and archive the submission, and process and retrieve it a single page at a time. Detailed guidance on making electronic submissions can be obtained by visiting the NRC's Web site at http://www.nrc.gov/site-help/eie.html, by calling (301) 415-6030, by e-mail to EIE@nrc.gov, or by writing the Office of the Chief Information Officer, U.S. Nuclear Regulatory Commission, Washington, DC 20555-0001. A copy should be sent to the appropriate NRC Regional Office listed in appendix D to this part.

27. In § 20.2206, paragraph (c) is revised to read as follows:

§ 20.2206 Reports of individual monitoring.

* * * * *

(c) The licensee shall file the report required by § 20.2206(b), covering the preceding year, on or before April 30 of each year. The licensee shall submit the report to the REIRS Project Manager by an appropriate method listed in § 20.1007 or via the REIRS Web site at http://www.reirs.com.

28. Appendix D to part 20 is revised to read as follows:

APPENDIX D TO PART 20—UNITED STATES NUCLEAR REGULATORY COMMISSION REGIONAL OFFICES

| Address | Telephone (24 hour) | E-Mail
NRC Headquarters Operations Center | USNRC, Division of Incident Response Operations, Washington, DC 20555-0001 | (301) 816-5100 (301) 951-0550 (301) 816-5151 (fax) | H001@nrc.gov
Region I: Connecticut, Delaware, District of Columbia, Maine, Maryland, Massachusetts, New Hampshire, New Jersey, New York, Pennsylvania, Rhode Island, and Vermont | USNRC, Region I, 475 Allendale Road, King of Prussia, PA 19406-1415 | (610) 337-5000 (800) 432-1156 TDD: (301) 415-5575 | RidsRgn1MailCenter@nrc.gov
Region II: Alabama, Florida, Georgia, Kentucky, Mississippi, North Carolina, Puerto Rico, South Carolina, Tennessee, Virginia, Virgin Islands, and West Virginia | USNRC, Region II, Sam Nunn Atlanta Federal Center, Suite 23T85, 61 Forsyth Street, SW, Atlanta, GA 30303-8931 | (404) 562-4400 (800) 877-8510 TDD: (301) 415-5575 | RidsRgn2MailCenter@nrc.gov
Region III: Illinois, Indiana, Iowa, Michigan, Minnesota, Missouri, Ohio and Wisconsin | USNRC, Region III, 801 Warrenville Road, Lisle, IL 60532-4351 | (630) 829-9500 (800) 522-3025 TDD: (301) 415-5575 | RidsRgn3MailCenter@nrc.gov
Region IV: Alaska, Arizona, Arkansas, California, Colorado, Hawaii, Idaho, Kansas, Louisiana, Montana, Nebraska, Nevada, New Mexico, North Dakota, Oklahoma, Oregon, South Dakota, Texas, Utah, Washington, Wyoming, and the U.S. territories and possessions in the Pacific | USNRC, Region IV, 611 Ryan Plaza Drive, Suite 400, Arlington, TX 76011-4005 | (817) 860-8100 (800) 952-9677 TDD: (301) 415-5575 | RidsRgn4MailCenter@nrc.gov

29. In appendix G to part 20, the third undesignated paragraph under I.(c) is revised to read as follows:

APPENDIX G TO PART 20—REQUIREMENTS FOR TRANSFERS OF LOW-LEVEL RADIOACTIVE WASTE INTENDED FOR DISPOSAL AT LICENSED LAND DISPOSAL FACILITIES AND MANIFESTS

I. MANIFEST

* * * * *

(c) * * *

NRC Forms 540, 540A, 541, 541A, 542 and 542A, and the accompanying instructions, in hard copy, may be obtained by writing or calling the Office of the Chief Information Officer, U.S. Nuclear Regulatory Commission, Washington, DC 20555-0001, telephone (301) 415-5877, or by visiting the NRC's Web site at http://www.nrc.gov and selecting forms from the index found on the home page.

* * * * *

PART 21—REPORTING OF DEFECTS AND NONCOMPLIANCE

30. The authority citation for part 21 is revised to read as follows:

Authority: Sec. 161, 68 Stat. 948, as amended, sec. 234, 83 Stat. 444, as amended, sec. 1701, 106 Stat. 2951, 2953 (42 U.S.C. 2201, 2282, 2297f); secs. 201, as amended, 206, 88 Stat. 1242, as amended, 1246 (42 U.S.C. 5841, 5846); sec. 1704, 112 Stat. 2750 (44 U.S.C. 3504 note).

Section 21.2 also issued under secs. 135, 141, Pub. L. 97-425, 96 Stat. 2232, 2241 (42 U.S.C. 10155, 10161).

31. Section 21.5 is revised to read as follows:

§ 21.5 Communications.

Except where otherwise specified in this part, written communications and reports concerning the regulations in this part must be addressed to the NRC's Document Control Desk, and sent either by mail to the U.S. Nuclear Regulatory Commission, Washington, DC 20555-0001; by hand delivery to the NRC's offices at 11555 Rockville Pike, Rockville, Maryland; or, where practicable, by electronic submission, for example, Electronic Information Exchange, or CD-ROM. Electronic submissions must be made in a manner that enables the NRC to receive, read, authenticate, distribute, and archive the submission, and process and retrieve it a single page at a time. Detailed guidance on making electronic submissions can be obtained by visiting the NRC's Web site at http://www.nrc.gov/site-help/eie.html, by calling (301) 415-6030, by e-mail to EIE@nrc.gov, or by writing the Office of the Chief Information Officer, U.S. Nuclear Regulatory Commission, Washington, DC 20555-0001. The guidance discusses, among other topics, the formats the NRC can accept, the use of electronic signatures, and the treatment of nonpublic information. In the case of a licensee, a copy of the communication must also be sent to the appropriate Regional Administrator at the address specified in appendix D to part 20 of this chapter.

PART 25—ACCESS AUTHORIZATION FOR LICENSEE PERSONNEL

32. The authority citation for part 25 is revised to read as follows:

Authority: Secs. 145, 161, 68 Stat. 942, 948, as amended (42 U.S.C. 2165, 2201); sec. 201, 88 Stat. 1242, as amended (42 U.S.C. 5841); sec. 1704, 112 Stat. 2750 (44 U.S.C. 3504 note); E.O. 10865, as amended, 3 CFR 1959—1963 Comp., p. 398 (50 U.S.C. 401, note); E.O. 12829, 3 CFR, 1993 Comp., p. 570; E.O. 12958, 3 CFR, 1995 Comp., p. 333; E.O. 12968, 3 CFR, 1995 Comp., p. 396.

Appendix A also issued under 96 Stat. 1051 (31 U.S.C. 9701).

33. Section 25.9 is revised to read as follows:

§ 25.9 Communications.

Except where otherwise specified, communications and reports concerning the regulations in this part should be addressed to the Director, Division of Facilities and Security, Mail Stop T7-D57, and sent either by mail to the U.S. Nuclear Regulatory Commission, Washington, DC 20555-0001; by hand delivery to the NRC's offices at 11555 Rockville Pike, Rockville, Maryland; or, where practicable, by electronic submission, for example, Electronic Information Exchange, or CD-ROM. Electronic submissions must be made in a manner that enables the NRC to receive, read, authenticate, distribute, and archive the submission, and process and retrieve it a single page at a time. Detailed guidance on making electronic submissions can be obtained by visiting the NRC's Web site at http://www.nrc.gov/site-help/eie.html, by calling (301) 415-6030, by e-mail to EIE@nrc.gov, or by writing the Office of the Chief Information Officer, U.S. Nuclear Regulatory Commission, Washington, DC 20555-0001. The guidance discusses, among other topics, the formats the NRC can accept, the use of electronic signatures, and the treatment of nonpublic information.

PART 30—RULES OF GENERAL APPLICABILITY TO DOMESTIC LICENSING OF BYPRODUCT MATERIAL

34. The authority citation for part 30 is revised to read as follows:

Authority: Secs. 81, 82, 161, 182, 183, 186, 68 Stat. 935, 948, 953, 954, 955, as amended, sec. 234, 83 Stat. 444, as amended (42 U.S.C. 2111, 2112, 2201, 2232, 2233, 2236, 2282); secs. 201 as amended, 202, 206, 88 Stat. 1242, as amended, 1244, 1246 (42 U.S.C. 5841, 5842, 5846); sec. 1704, 112 Stat. 2750 (44 U.S.C. 3504 note).

Section 30.7 also issued under Pub. L. 95-601, sec. 10, 92 Stat. 2951 as amended by Pub. L. 102-486, sec. 2902, 106 Stat. 3123 (42 U.S.C. 5851). Section 30.34(b) also issued under sec. 184, 68 Stat. 954, as amended (42 U.S.C. 2234). Section 30.61 also issued under sec. 187, 68 Stat. 955 (42 U.S.C. 2237).

35. In § 30.6, paragraph (a)(3) is added, and paragraphs (a)(1) and (a)(2), the introductory text of paragraph (b), and the last sentences of paragraphs (b)(2)(i), (b)(2)(ii), (b)(2)(iii), and (b)(2)(iv) are revised, to read as follows:

§ 30.6 Communications.

(a) * * *

(1) By mail addressed: ATTN: Document Control Desk, Director, Office of Nuclear Material Safety and Safeguards, U.S. Nuclear Regulatory Commission, Washington, DC 20555-0001.

(2) By hand delivery to the NRC's offices at 11555 Rockville Pike, Rockville, Maryland.

(3) Where practicable, by electronic submission, for example, via Electronic Information Exchange, or CD-ROM. Electronic submissions must be made in a manner that enables the NRC to receive, read, authenticate, distribute, and archive the submission, and process and retrieve it a single page at a time. Detailed guidance on making electronic submissions can be obtained by visiting the NRC's Web site at http://www.nrc.gov/site-help/eie.html, by calling (301) 415-6030, by e-mail to EIE@nrc.gov, or by writing the Office of the Chief Information Officer, U.S. Nuclear Regulatory Commission, Washington, DC 20555-0001. The guidance discusses, among other topics, the formats the NRC can accept, the use of electronic signatures, and the treatment of nonpublic information.

(b) The Commission has delegated to the four Regional Administrators licensing authority for selected parts of its decentralized licensing program for nuclear materials as described in paragraph (b)(1) of this section. Any communication, report, or application covered under this licensing program must be submitted to the appropriate Regional Administrator. The Administrators' jurisdictions and mailing addresses are listed in paragraph (b)(2) of this section.

* * * * *

(2) * * *

(i) * * * All mailed or hand-delivered inquiries, communications, and applications for a new license or an amendment, renewal, or termination request of an existing license specified in paragraph (b)(1) of this section must use the following address: U.S. Nuclear Regulatory Commission, Region I, Nuclear Material Section B, 475 Allendale Road, King of Prussia, Pennsylvania 19406-1415; where e-mail is appropriate it should be addressed to RidsRgn1MailCenter@nrc.gov.

(ii) * * * All mailed or hand-delivered inquiries, communications, and applications for a new license or an amendment, renewal, or termination request of an existing license specified in paragraph (b)(1) of this section must use the following address: U.S. Nuclear Regulatory Commission, Region II, Material Licensing/Inspection Branch, Sam Nunn Atlanta Federal Center, Suite 23T85, 61 Forsyth Street, SW, Atlanta, GA 30303-8931; where e-mail is appropriate it should be addressed to RidsRgn2MailCenter@nrc.gov.

(iii) * * * All mailed or hand-delivered inquiries, communications, and applications for a new license or an amendment, renewal, or termination request of an existing license specified in paragraph (b)(1) of this section must use the following address: U.S. Nuclear Regulatory Commission, Region III, Material Licensing Section, 801 Warrenville Road, Lisle, Illinois 60532-4351; where e-mail is appropriate it should be addressed to RidsRgn3MailCenter@nrc.gov.

(iv) * * * All mailed or hand-delivered inquiries, communications, and applications for a new license or an amendment, renewal, or termination request of an existing license specified in paragraph (b)(1) of this section must use the following address: U.S. Nuclear Regulatory Commission, Region IV, Material Radiation Protection Section, 611 Ryan Plaza Drive, Suite 400, Arlington, Texas 76011-4005; where e-mail is appropriate it should be addressed to RidsRgn4MailCenter@nrc.gov.

36. In § 30.7, paragraph (e)(3) is revised to read as follows:

§ 30.7 Employee protection.

* * * * *

(e) * * *

(3) Copies of NRC Form 3 may be obtained by writing to the Regional Administrator of the appropriate U.S. Nuclear Regulatory Commission Regional Office listed in appendix D to part 20 of this chapter, by calling (301) 415-5877, via e-mail to forms@nrc.gov, or by visiting the NRC's Web site at http://www.nrc.gov and selecting forms from the index found on the home page.

* * * * *

37. In § 30.32, the first sentence of paragraph (a) is revised to read as follows:

§ 30.32 Application for specific licenses.

(a) A person may file an application on NRC Form 313, “Application for Material License,” in accordance with the instructions in § 30.6 of this chapter. * * *

* * * * *

38. In § 30.50, the third sentence of the introductory text of paragraph (c)(2) is revised to read as follows:

§ 30.50 Reporting requirements.

* * * * *

(c) * * *

(2) * * * These written reports must be sent to the NRC using an appropriate method listed in § 30.6(a); and a copy must be sent to the appropriate NRC Regional office listed in appendix D to part 20 of this chapter. * * *

* * * * *

39. In § 30.55, the third sentence of paragraph (c) is revised to read as follows:

§ 30.55 Tritium reports.

* * * * *

(c) * * * Copies of such written report shall be sent to the Director of the NRC's Office of Nuclear Material Safety and Safeguards, using an appropriate method listed in § 30.6(a). * * *

* * * * *

PART 31—GENERAL DOMESTIC LICENSES FOR BYPRODUCT MATERIAL

40. The authority citation for part 31 is revised to read as follows:

Authority: Secs. 81, 161, 183, 68 Stat. 935, 948, 954, as amended (42 U.S.C. 2111, 2201, 2233); secs. 201, as amended, 202, 88 Stat. 1242, as amended,1244 (42 U.S.C. 5841, 5842); sec. 1704, 112 Stat. 2750 (44 U.S.C. 3504 note).

41. In § 31.5, the introductory text of paragraph (c)(8)(ii), the third sentence of the introductory text of paragraph (c)(9)(i), and the second sentence of paragraph (c)(11) are revised to read as follows:

§ 31.5 Certain detecting, measuring, gauging, or controlling devices and certain devices for producing light or an ionized atmosphere.

* * * * *

(c) * * *

(8) * * *

(ii) Shall, within 30 days after the transfer of a device to a specific licensee or export, furnish a report to the Director of Nuclear Material Safety and Safeguards, ATTN: Document Control Desk/GLTS, using an appropriate method listed in § 30.6(a) of this chapter. The report must contain—

* * * * *

(9) * * *

(i) * * * Within 30 days of the transfer, the transferor shall report to the Director of Nuclear Material Safety and Safeguards, ATTN: Document Control Desk/GLTS, using an appropriate method listed in § 30.6(a) of this chapter—

* * * * *

(11) * * * If the general licensee cannot provide the requested information within the allotted time, it shall, within that same time period, request a longer period to supply the information by providing the Director of the Office of Nuclear Material Safety and Safeguards, by an appropriate method listed in § 30.6(a) of this chapter, a written justification for the request.

* * * * *

42. In § 31.11, paragraph (b)(1) is revised to read as follows:

§ 31.11 General license for use of byproduct material for certain in vitro clinical or laboratory testing.

* * * * *

(b) * * *

(1) Has filed NRC Form 483, “Registration Certificate—In Vitro Testing with Byproduct Material Under General License,” with the Director of Nuclear Material Safety and Safeguards, by an appropriate method listed in § 30.6(a), and has received from the Commission a validated copy of NRC Form 483 with a registration number assigned; or

* * * * *

PART 32—SPECIFIC DOMESTIC LICENSES TO MANUFACTURE OR TRANSFER CERTAIN ITEMS CONTAINING BYPRODUCT MATERIAL

43. The authority citation for part 31 is revised to read as follows:

Authority: Secs. 81, 161, 182, 183, 68 Stat. 935, 948, 953, 954, as amended (42 U.S.C. 2111, 2201, 2232, 2233); sec. 201, 88 Stat. 1242, as amended (42 U.S.C. 5841); sec. 1704, 112 Stat. 2750 (44 U.S.C. 3504 note).

44. In § 32.12, paragraph (a) is revised to read as follows:

§ 32.12 Same: Records and material transfer reports.

(a) Each person licensed under § 32.11 shall maintain records of transfer of material and file a report with the Director of Nuclear Material Safety and Safeguards by an appropriate method listed in § 30.6(a) of this chapter. A copy of the report must be sent to the appropriate NRC Regional Office listed in appendix D to part 20 of this chapter.

* * * * *

45. In § 32.16, paragraph (a) is revised to read as follows:

§ 32.16 Certain items containing byproduct material: Records and reports of transfer.

(a) Each person licensed under § 32.14 or § 32.17 shall maintain records of all transfers of nuclear material and file a report with the Director of Nuclear Material Safety and Safeguards by an appropriate method listed in § 30.6(a) of this chapter, with a copy to the appropriate NRC Regional Office listed in appendix D to part 20 of this chapter.

* * * * *

46. In § 32.20, paragraph (b) is revised to read as follows:

§ 32.20 Same: Records and material transfer reports.

* * * * *

(b) The licensee shall file a summary report stating the total quantity of each isotope transferred under the specific license with the Director of Nuclear Material Safety and Safeguards by an appropriate method listed in § 30.6(a) of this chapter, with a copy to the appropriate NRC Regional Office listed in appendix D to part 20 of this chapter.

* * * * *

47. In § 32.25, the introductory text of paragraph (c) is revised to read as follows:

§ 32.25 Conditions of licenses issued under § 32.22: Quality control, labeling, and reports of transfer.

* * * * *

(c) Maintain records and file reports with the Director of Nuclear Material Safety and Safeguards, by an appropriate method listed in § 30.6(a), with copies to the appropriate NRC Regional Office listed in appendix D to part 20 of this chapter.

* * * * *

48. In § 32.52, the first sentence of the introductory text of paragraph (a) is revised to read as follows:

§ 32.52 Same: Material transfer reports and records.

* * * * *

(a) The person shall report to the Director of Nuclear Material Safety and Safeguards, ATTN: GLTS, by an appropriate method listed in § 30.6(a), all transfers of such devices to persons for use under the general license in § 31.5 of this chapter and all receipts of devices from persons licensed under § 31.5 of this chapter. * * *

* * * * *

49. The first sentence of § 32.56 is revised to read as follows:

§ 32.56 Same: Material transfer reports.

Each person licensed under § 32.53 shall file an annual report with the Director of Nuclear Material Safety and Safeguards, by an appropriate method listed in § 30.6(a) of this chapter, which report must state the total quantity of tritium or promethium-147 transferred to persons generally licensed under § 31.7 of this chapter. * * *

50. In § 32.210, paragraph (b) is revised to read as follows:

§ 32.210 Registration of product information.

* * * * *

(b) The request for review must be sent to the NRC's Office of Nuclear Material Safety and Safeguards, Materials Safety and Inspection Branch, by an appropriate method listed in § 30.6(a) of this chapter.

* * * * *

PART 33—SPECIFIC DOMESTIC LICENSES OF BROAD SCOPE FOR BYPRODUCT MATERIAL

51. The authority citation for part 33 is revised to read as follows:

Authority: Secs. 81, 161, 182, 183, 68 Stat. 935, 948, 953, 954, as amended (42 U.S.C. 2111, 2201, 2232, 2233); sec. 201, 88 Stat. 1242, as amended (42 U.S.C. 5841); sec. 1704, 112 Stat. 2750 (44 U.S.C. 3504 note).

52. Section 33.12 is revised to read as follows:

§ 33.12 Applications for specific licenses of broad scope.

A person may file an application for specific license of broad scope on NRC Form 313, “Application for Material License,” in accordance with the provisions of § 30.32 of this chapter.

PART 34—LICENSES FOR INDUSTRIAL RADIOGRAPHY AND RADIATION SAFETY REQUIREMENTS FOR INDUSTRIAL RADIOGRAPHIC OPERATIONS

53. The authority citation for part 34 is revised to read as follows:

Authority: Secs. 81, 161, 182, 183, 68 Stat. 935, 948, 953, 954, as amended (42 U.S.C. 2111, 2201, 2232, 2233); sec. 201, 88 Stat. 1242, as amended (42 U.S.C. 5841). Section 34.45 also issued under sec. 206, 88 Stat. 1246 (42 U.S.C. 5846); sec. 1704, 112 Stat. 2750 (44 U.S.C. 3504 note).

54. Section 34.11 is revised to read as follows:

§ 34.11 Application for a specific license.

A person may file an application for specific license for use of sealed sources in industrial radiography on NRC Form 313, “Application for Material License,” in accordance with the provisions of § 30.32 of this chapter.

55. In § 34.27, the third sentence of paragraph (d) is revised to read as follows:

§ 34.27 Leak testing and replacement of sealed sources.

* * * * *

(d) * * * A report must be filed with the Director of Nuclear Material Safety and Safeguards, by an appropriate method listed in § 30.6(a) of this chapter, the report to be filed within 5 days of any test with results that exceed the threshold in this paragraph (d), and to describe the equipment involved, the test results, and the corrective action taken. * * *

* * * * *

56. In § 34.43, the second sentence of paragraph (a)(1) is revised to read as follows:

§ 34.43 Training.

(a) * * *

(1) * * * (An independent organization that would like to be recognized as a certifying entity shall submit its request to the Director, Office of Nuclear Material Safety and Safeguards, by an appropriate method listed in § 30.6(a) of this chapter.) or

* * * * *

57. In § 34.101, the introductory text of paragraph (a) is revised to read as follows:

§ 34.101 Notifications.

(a) In addition to the reporting requirements specified in § 30.50 and under other sections of this chapter, such as § 21.21, each licensee shall send a written report to the NRC's Office of Nuclear Material Safety and Safeguards, Division of Industrial and Medical Nuclear Safety, by an appropriate method listed in § 30.6(a) of this chapter, within 30 days of the occurrence of any of the following incidents involving radiographic equipment:

* * * * *

PART 35—MEDICAL USE OF BYPRODUCT MATERIAL

58. The authority citation for part 35 is revised to read as follows:

Authority: Secs. 81, 161, 182, 183, 68 Stat. 935, 948, 953, 954, as amended (42 U.S.C. 2111, 2201, 2232, 2233); sec. 201, 88 Stat. 1242, as amended (42 U.S.C. 5841); sec. 1704, 112 Stat. 2750 (44 U.S.C. 3504 note).

59. In § 35.14, paragraph (c) and the introductory text of paragraph (b) are revised to read as follows:

§ 35.14 Notifications.

* * * * *

(b) A licensee shall notify the Commission no later than 30 days after:

* * * * *

(c) The licensee shall send the documents required in this section to the appropriate address identified in § 30.6 of this chapter.

60. In § 35.3045, the introductory text of paragraph (d) is revised to read as follows:

§ 35.3045 Report and notification of a medical event.

* * * * *

(d) By an appropriate method listed in § 30.6(a) of this chapter, the licensee shall submit a written report to the appropriate NRC Regional Office listed in § 30.6 of this chapter within 15 days after discovery of the medical event.

* * * * *

61. In § 35.3047, the introductory text of paragraph (d) is revised to read as follows:

§ 35.3047 Report and notification of a dose to an embryo/fetus or a nursing child.

* * * * *

(d) By an appropriate method listed in § 30.6(a) of this chapter, the licensee shall submit a written report to the appropriate NRC Regional Office listed in § 30.6 of this chapter within 15 days after discovery of a dose to the embryo/fetus or nursing child that requires a report in paragraphs (a) or (b) in this section.

* * * * *

62. In § 35.3067, the second sentence is revised to read as follows:

§ 35.3067 Report of a leaking source.

* * * The report must be filed with the appropriate NRC Regional Office listed in § 30.6 of this chapter, by an appropriate method listed in § 30.6(a), with a copy to the Director, Office of Nuclear Material Safety and Safeguards. * * *

PART 39—LICENSES AND RADIATION SAFETY REQUIREMENTS FOR WELL LOGGING

63. The authority citation for part 39 is revised to read as follows:

Authority: Secs. 53, 57, 62, 63, 65, 69, 81, 82, 161, 182, 183, 186, 68 Stat. 929, 930, 932, 933, 934, 935, 948, 953, 954, 955, as amended, sec. 234, 83 Stat. 444, as amended (42 U.S.C. 2073, 2077, 2092, 2093, 2095, 2099, 2111, 2112, 2201, 2232, 2233, 2236, 2282); secs. 201, as amended, 202, 206, 88 Stat. 1242, as amended, 1244, 1246 (42 U.S.C. 5841, 5842, 5846); sec. 1704, 112 Stat. 2750 (44 U.S.C. 3504 note).

64. In § 39.77, paragraph (a) is revised to read as follows:

§ 39.77 Notification of incidents and lost sources; abandonment procedures for irretrievable sources.

(a) The licensee shall immediately notify the appropriate NRC Regional Office by telephone and subsequently, within 30 days, by confirmation in writing, using an appropriate method listed in § 30.6(a) of this chapter, if the licensee knows or has reason to believe that a sealed source has been ruptured. The written confirmation must designate the well or other location, describe the magnitude and extent of the escape of licensed materials, assess the consequences of the rupture, and explain efforts planned or being taken to mitigate these consequences.

* * * * *

PART 40—DOMESTIC LICENSING OF SOURCE MATERIAL

65. The authority citation for part 40 is revised to read as follows:

Authority: Secs. 62, 63, 64, 65, 81, 161, 182, 183, 186, 68 Stat. 932, 933, 935, 948, 953, 954, 955, as amended, secs. 11e(2), 83, 84, Pub. L. 95-604, 92 Stat. 3033, as amended, 3039, sec. 234, 83 Stat. 444, as amended (42 U.S.C. 2014(e)(2), 2092, 2093, 2094, 2095, 2111, 2113, 2114, 2201, 2232, 2233, 2236, 2282); sec. 274, Pub. L. 86-373, 73 Stat. 688 (42 U.S.C. 2021); secs. 201, as amended, 202, 206, 88 Stat. 1242, as amended, 1244, 1246 (42 U.S.C. 5841, 5842, 5846); sec. 275, 92 Stat. 3021, as amended by Pub. L. 97-415, 96 Stat. 2067 (42 U.S.C. 2022); sec. 193, 104 Stat. 2835, as amended by Pub. L. 104-134, 110 Stat. 1321, 1321-349 (42 U.S.C. 2243); sec. 1704, 112 Stat. 2750 (44 U.S.C. 3504 note).

Section 40.7 also issued under Pub. L. 95-601, sec. 10, 92 Stat. 2951 (42 U.S.C. 5851). Section 40.31(g) also issued under sec. 122, 68 Stat. 939 (42 U.S.C. 2152). Section 40.46 also issued under sec. 184, 68 Stat. 954, as amended (42 U.S.C. 2234). Section 40.71 also issued under sec. 187, 68 Stat. 955 (42 U.S.C. 2237).

66. In § 40.5, paragraph (a)(3) is added, and paragraphs (a)(1) and (a)(2), the introductory text of paragraph (b), and the last sentences of paragraphs (b)(2)(i), (b)(2)(ii), (b)(2)(iii), and (b)(2)(iv) are revised, to read as follows:

§ 40.5 Communications.

(a) * * *

(1) By mail addressed: ATTN: Document Control Desk, Director, Office of Nuclear Material Safety and Safeguards, or Director of Nuclear Security, Office of Nuclear Security and Incident Response, U.S. Nuclear Regulatory Commission, Washington, DC 20555-0001.

(2) By hand delivery to the NRC's offices at 11555 Rockville Pike, Rockville, Maryland.

(3) Where practicable, by electronic submission, for example, via Electronic Information Exchange, or CD-ROM. Electronic submissions must be made in a manner that enables the NRC to receive, read, authenticate, distribute, and archive the submission, and process and retrieve it a single page at a time. Detailed guidance on making electronic submissions can be obtained by visiting the NRC's Web site at http://www.nrc.gov/site-help/eie.html, by calling (301) 415-6030, by e-mail to EIE@nrc.gov, or by writing the Office of the Chief Information Officer, U.S. Nuclear Regulatory Commission, Washington, DC 20555-0001. The guidance discusses, among other topics, the formats the NRC can accept, the use of electronic signatures, and the treatment of nonpublic information.

(b) The Commission has delegated to the four Regional Administrators licensing authority for selected parts of its decentralized licensing program for nuclear materials as described in paragraph (b)(1) of this section. Any communication, report, or application covered under this licensing program must be submitted to the appropriate Regional Administrator. The administrators' jurisdictions and mailing addresses are listed in paragraph (b)(2) of this section.

* * * * *

(2) * * *

(i) * * * All mailed or hand-delivered inquiries, communications, and applications for a new license or an amendment or renewal of an existing license specified in paragraph (b)(1) of this section must use the following address: U.S. Nuclear Regulatory Commission, Region I, 475 Allendale Road, King of Prussia, Pennsylvania 19406-1415; where e-mail is appropriate it should be addressed to RidsRgn1MailCenter@nrc.gov.

(ii) * * * All mailed or hand-delivered inquiries, communications, and applications for a new license or an amendment or renewal of an existing license specified in paragraph (b)(1) of this section must use the following address: U.S. Nuclear Regulatory Commission, Region II Material Licensing/Inspection Branch, Sam Nunn Atlanta Federal Center, Suite 23T85, 61 Forsyth Street, Atlanta, Georgia 30303-8931; where e-mail is appropriate it should be addressed to RidsRgn2MailCenter@nrc.gov.

(iii) * * * All mailed or hand-delivered inquiries, communications, and applications for a new license or an amendment or renewal of an existing license specified in paragraph (b)(1) of this section must use the following address: U.S. Nuclear Regulatory Commission, Region III, Material Licensing Section, 801 Warrenville Road, Lisle, Illinois 60532-4351; where e-mail is appropriate it should be addressed to RidsRgn3MailCenter@nrc.gov.

(iv) * * * All mailed or hand-delivered inquiries, communications, and applications for a new license or an amendment or renewal of an existing license specified in paragraph (b)(1) of this section must use the following address: U.S. Nuclear Regulatory Commission, Region IV, Material Radiation Protection Section, 611 Ryan Plaza Drive, Suite 400, Arlington, Texas 76011-4005; where e-mail is appropriate it should be addressed to RidsRgn4MailCenter@nrc.gov.

67. In § 40.7, paragraph (e)(3) is revised to read as follows:

§ 40.7 Employee protection.

* * * * *

(e) * * *

(3) Copies of NRC Form 3 may be obtained by writing to the Regional Administrator of the appropriate U.S. Nuclear Regulatory Commission Regional Office listed in appendix D to part 20 of this chapter, by calling (301) 415-5877, via e-mail to forms@nrc.gov, or by visiting the NRC's Web site at http://www.nrc.gov and selecting forms from the index found on the home page.

* * * * *

68. In § 40.23, paragraphs (b)(1), (b)(2)(ix), (c), and (d) are revised to read as follows:

§ 40.23 General license for carriers of transient shipments of natural uranium other than in the form of ore or ore residue.

* * * * *

(b) * * *

(1) Persons generally licensed under paragraph (a) of this section, who plan to carry a transient shipment with scheduled stops at a United States port, shall notify the Director, Division of Nuclear Security, Office of Nuclear Security and Incident Response, using an appropriate method listed in § 40.5. The notification must be in writing and must be received at least 10 days before transport of the shipment commences at the shipping facility.

(2) * * *

(ix) For shipment between countries that are not party to the Convention on the Physical Protection of Nuclear Material (i.e., not listed in appendix F to part 73 of this chapter), a certification that arrangements have been made to notify the Director, Division of Nuclear Security when the shipment is received at the destination facility.

(c) Persons generally licensed under this section making unscheduled stops at United States ports, immediately after the decision to make an unscheduled stop, shall provide to the Director, Division of Nuclear Security the information required under paragraph (b) of this section.

(d) A licensee who needs to amend a notification may do so by telephoning the Division of Nuclear Security at (301) 415-6828.

69. In § 40.25, the first sentence of the introductory text of paragraph (c)(1) is revised to read as follows:

§ 40.25 General license for use of certain industrial products or devices.

* * * * *

(c) * * *

(1) Persons who receive, acquire, possess, or use depleted uranium pursuant to the general license established by paragraph (a) of this section shall file NRC Form 244, “Registration Certificate—Use of Depleted Uranium Under General License,” with the Director of the NRC's Division of Industrial and Medical Nuclear Safety, by an appropriate method listed in § 40.5, with a copy to the appropriate NRC Regional Administrator.* * *

* * * * *

70. In § 40.31, the first sentence of paragraph (a) is revised to read as follows:

§ 40.31 Application for specific license.

(a) A person may file an application for specific license on NRC Form 313, “Application for Material License,” in accordance with the instructions in § 40.5 of this chapter. * * *

* * * * *

71. In § 40.35, the first sentence of paragraph (e)(1) and the third sentence of paragraph (f) are revised to read as follows:

§ 40.35 Conditions of specific licenses issued pursuant to § 40.34.

* * * * *

(e)(1) Report to the Director of the Office of Nuclear Material Safety and Safeguards, by an appropriate method listed in § 40.5, all transfers of industrial products or devices to persons for use under the general license in § 40.25. * * *

* * * * *

(f) * * * The licensee shall furnish the change to the Director of the Office of Nuclear Material Safety and Safeguards, by an appropriate method listed in § 40.5, and to affected offsite response organizations, within six months after the change is made. * * *

72. In § 40.60, the third sentence of the introductory text of paragraph (c)(2) is revised to read as follows:

§ 40.60 Reporting requirements.

* * * * *

(c)* * *

(2) * * * These written reports must be sent to the NRC's Document Control Desk by an appropriate method listed in § 40.5, with a copy to the appropriate NRC regional office listed in appendix D to part 20 of this chapter. * * *

* * * * *

73. In § 40.64, the second sentence of paragraph (a), the last sentence of paragraph (b), and paragraph (c) are revised to read as follows:

§ 40.64 Reports.

(a) * * * Copies of the instructions may be obtained either by writing the U.S. Nuclear Regulatory Commission, Division of Nuclear Security, Office of Nuclear Security and Incident Response, Washington, DC 20555-0001, by e-mail to RidsNsirDns@nrc.gov, or by calling (301) 415-6828.* * *

(b) * * * Copies of the reporting instructions may be obtained either by writing to the U.S. Nuclear Regulatory Commission, Division of Nuclear Security, Office of Nuclear Security and Incident Response, Washington, DC 20555-0001, by e-mail to RidsNsirDns@nrc.gov, or by calling (301) 415-6828.

(c)(1) Except as specified in paragraph (d) of this section, each licensee who is authorized to possess uranium or thorium pursuant to a specific license shall notify the NRC Headquarters Operations Center by telephone, at the numbers listed in appendix A of part 73 of this chapter, of any incident in which an attempt has been made or is believed to have been made to commit a theft or unlawful diversion of more than 6.8 kilograms (kg) [15 pounds] of such material at any one time or more than 68 kg [150 pounds] of such material in any one calendar year.

(2) The licensee shall notify the NRC as soon as possible, but within 4 hours, of discovery of any incident in which an attempt has been made or is believed to have been made to commit a theft or unlawful diversion of such material. A copy of the written followup notification should also be made to the Director, Division of Nuclear Security, Office of Nuclear Security and Incident Response, by an appropriate method listed in § 40.5.

(3) The initial notification shall be followed within a period of sixty (60) days by a written followup notification submitted in accordance with § 40.5. A copy of the written followup notification shall also be sent to: ATTN: Document Control Desk, Director, Division of Nuclear Security, Office of Nuclear Security and Incident Response, U.S. Nuclear Regulatory Commission, Washington, DC 20555-0001.

(4) Subsequent to the submission of the written followup notification required by this paragraph, the licensee shall promptly update the written followup notification, in accordance with this paragraph, with any substantive additional information, which becomes available to the licensee, concerning an attempted or apparent theft or unlawful diversion of source material.

* * * * *

74. In § 40.65, the first sentence of paragraph (a)(1) is revised to read as follows:

§ 40.65 Effluent monitoring reporting requirements.

(a) * * *

(1) Within 60 days after January 1, 1976 and July 1, 1976, and within 60 days after January 1 and July 1 of each year thereafter, submit a report to the Director of the Office of Nuclear Material Safety and Safeguards, using an appropriate method listed in § 40.5, with a copy to the appropriate NRC Regional Office shown in appendix D to part 20 of this chapter; which report must specify the quantity of each of the principal radionuclides released to unrestricted areas in liquid and in gaseous effluents during the previous six months of operation, and such other information as the Commission may require to estimate maximum potential annual radiation doses to the public resulting from effluent releases. * * *

* * * * *

75. In § 40.66, the first sentence of paragraph (a) is revised to read as follows:

§ 40.66 Requirements for advance notice of export shipments of natural uranium.

(a) Each licensee authorized to export natural uranium, other than in the form of ore or ore residue, in amounts exceeding 500 kilograms, shall notify the Director, Division of Nuclear Security, Office of Nuclear Security and Incident Response, by an appropriate method listed in § 40.5. * * *

* * * * *

76. In § 40.67, the first sentence of paragraph (a) is revised to read as follows:

§ 40.67 Requirement for advance notice for importation of natural uranium from countries that are not party to the Convention on the Physical Protection of Nuclear Material.

(a) Each licensee authorized to import natural uranium, other than in the form of ore or ore residue, in amounts exceeding 500 kilograms, from countries not party to the Convention on the Physical Protection of Nuclear Material (see appendix F to part 73 of this chapter) shall notify the Director, Division of Nuclear Security, Office of Nuclear Security and Incident Response, using an appropriate method listed in § 40.5. * * *

* * * * *

PART 50—DOMESTIC LICENSING OF PRODUCTION AND UTILIZATION FACILITIES

77. The authority citation for part 50 is revised to read as follows:

Authority: Secs. 102, 103, 104, 105, 161, 182, 183, 186, 189, 68 Stat. 936, 937, 938, 948, 953, 954, 955, 956, as amended, sec. 234, 83 Stat. 444, as amended (42 U.S.C. 2132, 2133, 2134, 2135, 2201, 2232, 2233, 2236, 2239, 2282); secs. 201, as amended, 202, 206, 88 Stat. 1242, as amended, 1244, 1246 (42 U.S.C. 5841, 5842, 5846); sec. 1704, 112 Stat. 2750 (44 U.S.C. 3504 note).

Section 50.7 also issued under Pub. L. 95-601, sec. 10, 92 Stat. 2951 (42 U.S.C. 5851). Section 50.10 also issued under secs. 101, 185, 68 Stat. 955, as amended (42 U.S.C. 2131, 2235); sec. 102, Pub. L. 91-190, 83 Stat. 853 (42 U.S.C. 4332). Sections 50.13, 50.54(dd), and 50.103 also issued under sec. 108, 68 Stat. 939, as amended (42 U.S.C. 2138). Sections 50.23, 50.35, 50.55, and 50.56 also issued under sec. 185, 68 Stat. 955 (42 U.S.C. 2235). Sections 50.33a, 50.55a and appendix Q also issued under sec. 102, Pub. L. 91-190, 83 Stat. 853 (42 U.S.C. 4332). Sections 50.34 and 50.54 also issued under sec. 204, 88 Stat. 1245 (42 U.S.C. 5844). Sections 50.58, 50.91, and 50.92 also issued under Pub. L. 97-415, 96 Stat. 2073 (42 U.S.C. 2239). Section 50.78 also issued under sec. 122, 68 Stat. 939 (42 U.S.C. 2152). Sections 50.80-50.81 also issued under sec. 184, 68 Stat. 954, as amended (42 U.S.C. 2234). Appendix F also issued under sec. 187, 68 Stat. 955 (42 U.S.C 2237).

78. Section 50.4 is revised to read as follows:

§ 50.4 Written communications.

(a) General requirements. All correspondence, reports, applications, and other written communications from the applicant or licensee to the Nuclear Regulatory Commission concerning the regulations in this part or individual license conditions must be sent either by mail addressed: ATTN: Document Control Desk, U.S. Nuclear Regulatory Commission, Washington, DC 20555-0001; by hand delivery to the NRC's offices at 11555 Rockville Pike, Rockville, Maryland, between the hours of 8:15 a.m. and 4 p.m. eastern time; or, where practicable, by electronic submission, for example, via Electronic Information Exchange, e-mail, or CD-ROM. Electronic submissions must be made in a manner that enables the NRC to receive, read, authenticate, distribute, and archive the submission, and process and retrieve it a single page at a time. Detailed guidance on making electronic submissions can be obtained by visiting the NRC's Web site at http://www.nrc.gov/site-help/eie.html, by calling (301) 415-6030, by e-mail at EIE@nrc.gov, or by writing the Office of the Chief Information Officer, U.S. Nuclear Regulatory Commission, Washington, DC 20555-0001. The guidance discusses, among other topics, the formats the NRC can accept, the use of electronic signatures, and the treatment of nonpublic information. If the communication is on paper, the signed original must be sent. If a submission due date falls on a Saturday, Sunday, or Federal holiday, the next Federal working day becomes the official due date.

(b) Distribution requirements. Copies of all correspondence, reports, and other written communications concerning the regulations in this part or individual license conditions must be submitted to the persons listed below (addresses for the NRC Regional Offices are listed in appendix D to part 20 of this chapter).

(1) Applications for amendment of permits and licenses; reports; and other communications. All written communications (including responses to: generic letters, bulletins, information notices, regulatory information summaries, inspection reports, and miscellaneous requests for additional information) that are required of holders of operating licenses or construction permits issued pursuant to this part, must be submitted as follows, except as otherwise specified in paragraphs (b)(2) through (b)(7) of this section: to the NRC's Document Control Desk (if on paper, the signed original), with a copy to the appropriate Regional Office, and a copy to the appropriate NRC Resident Inspector, if one has been assigned to the site of the facility.

(2) Applications for permits and licenses, and amendments to applications. Applications for construction permits, applications for operating licenses and amendments to either type of application must be submitted as follows, except as otherwise specified in paragraphs (b)(3) through (b)(7) in this section.

(i) Applications for licenses for facilities described in § 50.21 (a) and (c) and amendments to these applications must be sent to the NRC's Document Control Desk, with a copy to the appropriate Regional Office. If the application or amendment is on paper, the submission to the Document Control Desk must be the signed original.

(ii) Applications for permits and licenses for facilities described in § 50.21(b) or § 50.22, and amendments to these applications must be sent to the NRC's Document Control Desk, with a copy to the appropriate Regional Office, and a copy to the appropriate NRC Resident Inspector, if one has been assigned to the site of the facility. If the application or amendment is on paper, the submission to the Document Control Desk must be the signed original.

(3) Acceptance review application. Written communications required for an application for determination of suitability for docketing under § 50.30(a)(6) must be submitted to the NRC's Document Control Desk, with a copy to the appropriate Regional Office. If the communication is on paper, the submission to the Document Control Desk must be the signed original.

(4) Security plan and related submissions. Written communications, as defined in paragraphs (b)(4)(i) through (iv) of this section, must be submitted to the NRC's Document Control Desk, with a copy to the appropriate Regional Office. If the communication is on paper, the submission to the Document Control Desk must be the signed original.

(i) Physical security plan under § 50.34;

(ii) Safeguards contingency plan under § 50.34;

(iii) Change to security plan, guard training and qualification plan, or safeguards contingency plan made without prior Commission approval under § 50.54(p);

(iv) Application for amendment of physical security plan, guard training and qualification plan, or safeguards contingency plan under § 50.90.

(5) Emergency plan and related submissions. Written communications as defined in paragraphs (b)(5)(i) through (iii) of this section must be submitted to the NRC's Document Control Desk, with a copy to the appropriate Regional Office, and a copy to the appropriate NRC Resident Inspector if one has been assigned to the site of the facility. If the communication is on paper, the submission to the Document Control Desk must be the signed original.

(i) Emergency plan under § 50.34;

(ii) Change to an emergency plan under § 50.54(q);

(iii) Emergency implementing procedures under appendix E.V of this part.

(6) Updated FSAR. An updated Final Safety Analysis Report (FSAR) or replacement pages, under § 50.71(e) must be submitted to the NRC's Document Control Desk, with a copy to the appropriate Regional Office, and a copy to the appropriate NRC Resident Inspector if one has been assigned to the site of the facility. Paper copy submissions may be made using replacement pages; however, if a licensee chooses to use electronic submission, all subsequent updates or submissions must be performed electronically on a total replacement basis. If the communication is on paper, the submission to the Document Control Desk must be the signed original. If the communications are submitted electronically, see Guidance for Electronic Submissions to the Commission.

(7) Quality assurance related submissions. (i) A change to the Safety Analysis Report quality assurance program description under § 50.54(a)(3) or § 50.55(f)(3), or a change to a licensee's NRC-accepted quality assurance topical report under § 50.54(a)(3) or § 50.55(f)(3), must be submitted to the NRC's Document Control Desk, with a copy to the appropriate Regional Office, and a copy to the appropriate NRC Resident Inspector if one has been assigned to the site of the facility. If the communication is on paper, the submission to the Document Control Desk must be the signed original.

(ii) A change to an NRC-accepted quality assurance topical report from nonlicensees (i.e., architect/engineers, NSSS suppliers, fuel suppliers, constructors, etc.) must be submitted to the NRC's Document Control Desk. If the communication is on paper, the signed original must be sent.

(8) Certification of permanent cessation of operations. The licensee's certification of permanent cessation of operations, under § 50.82(a)(1), must state the date on which operations have ceased or will cease, and must be submitted to the NRC's Document Control Desk. This submission must be under oath or affirmation.

(9) Certification of permanent fuel removal. The licensee's certification of permanent fuel removal, under § 50.82(a)(1), must state the date on which the fuel was removed from the reactor vessel and the disposition of the fuel, and must be submitted to the NRC's Document Control Desk. This submission must be under oath or affirmation.

(c) Form of communications. All paper copies submitted to meet the requirements set forth in paragraph (b) of this section must be typewritten, printed or otherwise reproduced in permanent form on unglazed paper. Exceptions to these requirements imposed on paper submissions may be granted for the submission of micrographic, photographic, or similar forms.

(d) Regulation governing submission. Licensees and applicants submitting correspondence, reports, and other written communications under the regulations of this part are requested but not required to cite whenever practical, in the upper right corner of the first page of the submission, the specific regulation or other basis requiring submission.

(e) Conflicting requirements. The communications requirements contained in this section and §§ 50.12, 50.30, 50.36, 50.36a. 50.44, 50.49, 50.54, 50.55, 50.55a, 50.59, 50.62, 50.71, 50.73, 50.82, 50.90, and 50.91 supersede and replace all existing requirements in any license conditions or technical specifications in effect on January 5, 1987. Exceptions to these requirements must be approved by the Office of the Chief Information Officer, Nuclear Regulatory Commission, Washington, DC 20555-0001, telephone (301) 415-7233, e-mail INFOCOLLECTS@nrc.gov.

79. In § 50.7, paragraph (e)(2) is revised to read as follows:

§ 50.7 Employee protection.

* * * * *

(e) * * *

(2) Copies of NRC Form 3 may be obtained by writing to the Regional Administrator of the appropriate U.S. Nuclear Regulatory Commission Regional Office listed in appendix D to part 20 of this chapter, by calling (301) 415-5877, via e-mail to forms@nrc.gov, or by visiting the NRC's Web site at http://www.nrc.gov and selecting forms from the index found on the home page.

* * * * *

80. In § 50.30, paragraph (a)(2) is revised to read as follows:

§ 50.30 Filing of application for licenses; oath or affirmation.

(a) * * *

(2) The applicant shall maintain the capability to generate additional copies of the general information and the safety analysis report, or part thereof or amendment thereto, for subsequent distribution in accordance with the written instructions of the Director, Office of Nuclear Reactor Regulation, or the Director, Office of Nuclear Material Safety and Safeguards, as appropriate.

* * * * *

81. In § 50.54, the second sentence of paragraph (s)(1) is revised to read as follows:

§ 50.54 Conditions of licenses.

* * * * *

(s)(1) * * * These plans must be forwarded to the Director of Nuclear Reactor Regulation, by appropriate method listed in § 50.4, with a copy to the Administrator of the appropriate NRC regional office. * * *

* * * * *

82. In § 50.55, paragraph (e)(6)(ii) is revised to read as follows:

§ 50.55 Conditions of construction permits.

* * * * *

(e) * * *

(6) * * *

(ii) Written notification submitted to the Document Control Desk, U.S. Nuclear Regulatory Commission, by an appropriate method listed in § 50.4, with a copy to the appropriate Regional Administrator at the address specified in appendix D to part 20 of this chapter and a copy to the appropriate NRC resident inspector within 30 days following receipt of information by the director or responsible corporate officer under paragraph (e)(1)(iii) of this section, on the identification of a defect or failure to comply.

* * * * *

83. In § 50.74, the introductory text is revised to read as follows:

§ 50.74 Notification of change in operator or senior operator status.

Each licensee shall notify the appropriate Regional Administrator as listed in appendix D to part 20 of this chapter within 30 days of the following in regard to a licensed operator or senior operator:

* * * * *

84. In appendix L to part 50, the last sentence of the introductory paragraph is revised to read as follows:

Appendix L to Part 50—Information Requested by the Attorney General for Antitrust Review of Facility Construction Permits and Initial Operating Licenses

Introduction. * * * This document shall be submitted prior to any other part of the facility license application as provided in § 50.33a and in accordance with § 2.101 of this chapter.

* * * * *

PART 51—ENVIRONMENTAL PROTECTION REGULATIONS FOR DOMESTIC LICENSING AND RELATED REGULATORY FUNCTIONS

85. The authority citation for part 51 is revised to read as follows:

Authority: Sec. 161, 68 Stat. 948, as amended, sec. 1701, 106 Stat. 2951, 2952, 2953, (42 U.S.C. 2201, 2297f); secs. 201, as amended, 202, 88 Stat. 1242, as amended, 1244 (42 U.S.C. 5841, 5842); sec. 1704, 112 Stat. 2750 (44 U.S.C. 3504 note). Subpart A also issued under National Environmental Policy Act of 1969, secs. 102, 104, 105, 83 Stat. 853-854, as amended (42 U.S.C. 4332, 4334, 4335); and Pub. L. 95-604, Title II, 92 Stat. 3033-3041; and sec. 193, Pub. L. 101-575, 104 Stat. 2835 (42 U.S.C. 2243). Sections 51.20, 51.30, 51.60, 51.80. and 51.97 also issued under secs. 135, 141, Pub. L. 97-425, 96 Stat. 2232, 2241, and sec. 148, Pub. L. 100-203, 101 Stat. 1330-223 (42 U.S.C. 10155, 10161, 10168). Section 51.22 also issued under sec. 274, 73 Stat. 688, as amended by 92 Stat. 3036-3038 (42 U.S.C. 2021) and under Nuclear Waste Policy Act of 1982, sec 121, 96 Stat. 2228 (42 U.S.C. 10141). Sections 51.43, 51.67, and 51.109 also under Nuclear Waste Policy Act of 1982, sec 114(f), 96 Stat. 2216, as amended (42 U.S.C. 10134(f)).

86. In § 51.40, the introductory text of paragraph (c) and paragraphs (c)(1) through (c)(4) are revised to read as follows:

§ 51.40 Consultation with NRC Staff.

* * * * *

(c) Questions concerning environmental matters should be addressed to the following NRC staff offices as appropriate:

(1) Utilization facilities: ATTN: Document Control Desk, Director, Office of Nuclear Reactor Regulation, U.S. Nuclear Regulatory Commission, Washington, DC 20555-0001, telephone (301) 415-1270, e-mail RidsNrrOd@nrc.gov.

(2) Production facilities: ATTN: Document Control Desk, Director, Office of Nuclear Material Safety and Safeguards, U.S. Nuclear Regulatory Commission, Washington, DC 20555-0001, telephone (301) 415-7800, e-mail RidsNmssOd@nrc.gov.

(3) Materials licenses: ATTN: Document Control Desk, Director, Office of Nuclear Material Safety and Safeguards, U.S. Nuclear Regulatory Commission, Washington, DC 20555-0001, telephone (301) 415-7800, e-mail RidsNmssOd@nrc.gov.

(4) Rulemaking: ATTN: Chief, Rules and Directives Branch, Office of Administration, U.S. Nuclear Regulatory Commission, Washington, DC 20555-0001, telephone (800) 368-5642, e-mail NRCREP@nrc.gov.

* * * * *

87. In § 51.45, the first sentence of paragraph (a) is revised to read as follows:

§ 51.45 Environmental report.

(a) General. As required by § 51.50, 51.53, 51.54, 51.60, 51.61, 51.62 or § 51.68, as appropriate, each applicant or petitioner for rulemaking shall submit with its application or petition for rulemaking one signed original of a separate document entitled “Applicant's” or “Petitioner's Environmental Report,” as appropriate. * * *

* * * * *

88. In § 51.50, the first sentence is revised to read as follows:

§ 51.50 Environmental report—construction permit stage.

Each applicant for a permit to construct a production or utilization facility covered by § 51.20 shall submit with its application a separate document, entitled “Applicant's Environmental Report—Construction Permit Stage,” which shall contain the information specified in § 51.45, 51.51 and 51.52. * * *

89. In § 51.53, the first sentence of paragraph (b), paragraph (c)(1), and the first sentence of paragraph (d) are revised to read as follows:

§ 51.53 Postconstruction environmental reports.

* * * * *

(b) Operating license stage. Each applicant for a license to operate a production or utilization facility covered by § 51.20 shall submit with its application a separate document entitled “Supplement to Applicant's Environmental Report—Operating License Stage,” which will update “Applicant's Environmental Report—Construction Permit Stage.” * * *

(c) Operating license renewal stage. (1) Each applicant for renewal of a license to operate a nuclear power plant under part 54 of this chapter shall submit with its application a separate document entitled “Applicant's Environmental Report—Operating License Renewal Stage.”

* * * * *

(d) Postoperating license stage. Each applicant for a license amendment authorizing decommissioning activities for a production or utilization facility either for unrestricted use or based on continuing use restrictions applicable to the site; and each applicant for a license amendment approving a license termination plan or decommissioning plan under § 50.82 of this chapter either for unrestricted use or based on continuing use restrictions applicable to the site; and each applicant for a license or license amendment to store spent fuel at a nuclear power reactor after expiration of the operating license for the nuclear power reactor shall submit with its application a separate document, entitled “Supplement to Applicant's Environmental Report—Post Operating License Stage,” which will update “Applicant's Environmental Report—Operating License Stage,” as appropriate, to reflect any new information or significant environmental change associated with the applicant's proposed decommissioning activities or with the applicant's proposed activities with respect to the planned storage of spent fuel. * * *

90. Section 51.55 is revised to read as follows:

§ 51.55 Environmental report—distribution.

(a) Each applicant for a license to construct and operate a production or utilization facility covered by paragraphs (b)(1), (b)(2), (b)(3), or (b)(4) of § 51.20, each applicant for renewal of an operating license for a nuclear power plant, each applicant for a license amendment authorizing the decommissioning of a production or utilization facility covered by § 51.20, and each applicant for a license or license amendment to store spent fuel at a nuclear power plant after expiration of the operating license for the nuclear power plant shall submit a copy to the Director of the Office of Nuclear Reactor Regulation, or a copy to the Director of the Office of Nuclear Material Safety and Safeguards, as appropriate, of an environmental report or any supplement to an environmental report. These reports must be sent either by mail addressed: ATTN: Document Control Desk; U.S. Nuclear Regulatory Commission, Washington, DC 20555-0001; by hand delivery to the NRC's offices at 11555 Rockville Pike, Rockville, Maryland, between the hours of 8:15 a.m. and 4:00 p.m. eastern time; or, where practicable, by electronic submission, for example, via Electronic Information Exchange, or CD-ROM. Electronic submissions must be made in a manner that enables the NRC to receive, read, authenticate, distribute, and archive the submission, and process and retrieve it a single page at a time. Detailed guidance on making electronic submissions can be obtained by visiting the NRC's Web site at http://www.nrc.gov/site-help/eie.html, by calling (301) 415-6030, by e-mail to EIE@nrc.gov, or by writing the Office of the Chief Information Officer, U.S. Nuclear Regulatory Commission, Washington, DC 20555-0001. The guidance discusses, among other topics, the formats the NRC can accept, the use of electronic signatures, and the treatment of nonpublic information. If the communication is on paper, the signed original must be sent. If a submission due date falls on a Saturday, Sunday, or Federal holiday, the next Federal working day becomes the official due date. The applicant shall maintain the capability to generate additional copies of the environmental report or any supplement to the environmental report for subsequent distribution to parties and Boards in the NRC proceedings; Federal, State, and local officials; and any affected Indian tribes, in accordance with written instructions issued by the Director of the Office of Nuclear Reactor Regulation or the Director of the Office of Nuclear Material Safety and Safeguards, as appropriate.

(b) Each applicant for a license to manufacture a nuclear power reactor, or for an amendment to a license to manufacture, seeking approval of the final design of the nuclear power reactor, pursuant to appendix M to part 52 of this chapter shall submit to the Commission an environmental report or any supplement to an environmental report in the manner specified in § 50.4. The applicant shall maintain the capability to generate additional copies of the environmental report or any supplement to the environmental report for subsequent distribution to parties and Boards in the NRC proceeding; Federal, State, and local officials; and any affected Indian tribes, in accordance with written instructions issued by the Director of Nuclear Reactor Regulation.

91. In § 51.60, the first sentence of paragraph (a) is revised to read as follows:

§ 51.60 Environmental report—material licenses.

(a) Each applicant for a license or other form of permission, or an amendment to or renewal of a license or other form of permission issued pursuant to parts 30, 32, 33, 34, 35, 36, 39, 40, 61, 70 and/or 72 of this chapter, and covered by paragraphs (b)(1) through (b)(5) of this section, shall submit with its application to: ATTN: Document Control Desk, Director, Nuclear Material Safety and Safeguards, a separate document, entitled “Applicant's Environmental Report” or “Supplement to Applicant's Environmental Report,” as appropriate. * * *

* * * * *

92. In § 51.61, the first sentence is revised to read as follows:

§ 51.61 Environmental report—independent spent fuel installation (ISFSI) or monitored retrievable storage installation (MRS) license.

Each applicant for issuance of a license for storage of spent fuel in an independent spent fuel storage installation (ISFSI) or for the storage of spent fuel and high-level radioactive waste in a monitored retrievable storage installation (MRS) pursuant to part 72 of this chapter shall submit with its application to: ATTN: Document Control Desk, Director, Office of Nuclear Material Safety and Safeguards, a separate document entitled “Applicant's Environmental Report—ISFSI License” or “Applicant's Environmental Report—MRS License,” as appropriate. * * *

93. In § 51.62, the first sentence of paragraph (a) is revised to read as follows:

§ 51.62 Environmental report—land disposal of radioactive waste licensed under 10 CFR part 61.

(a) Each applicant for issuance of a license for land disposal of radioactive waste pursuant to part 61 of this chapter shall submit with its application to: ATTN: Document Control Desk, Director of Nuclear Material Safety and Safeguards, a separate document, entitled “Applicant's Environmental Report—License for Land Disposal of Radioactive Waste.” * * *

* * * * *

94. Section 51.66 is revised to read as follows:

§ 51.66 Environmental report—distribution.

Each applicant for a license or other form of permission, or an amendment to or renewal of a license or other form of permission issued pursuant to parts 30, 32, 33, 34, 35, 36, 39, 40, 61, 70 and/or 72 of this chapter, and covered by paragraphs (b)(1) through (6) of § 51.60; or by § 51.61 or § 51.62 shall submit to the Director of Nuclear Material Safety and Safeguards an environmental report or any supplement to an environmental report in the manner specified in § 51.55(a). The applicant shall maintain the capability to generate additional copies of the environmental report or any supplement to the environmental report for subsequent distribution to Federal, State, and local officials and any affected Indian tribes in accordance with written instructions issued by the Director of Nuclear Material Safety and Safeguards.

95. Section 51.68 is revised to read as follows:

§ 51.68 Environmental report—rulemaking.

Petitioners for rulemaking requesting amendments of parts 30, 31, 32, 33, 34, 35, 36, 39, 40 or part 70 of this chapter concerning the exemption from licensing and regulatory requirements of or authorizing general licenses for any equipment, device, commodity or other product containing byproduct material, source material or special nuclear material shall submit with the petition a separate document entitled “Petitioner's Environmental Report,” which shall contain the information specified in § 51.45.

§ 51.69 [Removed]

96. Section 51.69 is removed.

97. In § 51.121, the introductory text and paragraphs (a) through (d) are revised to read as follows:

§ 51.121 Status of NEPA actions.

Individuals or organizations desiring information on the NRC's NEPA process or on the status of specific NEPA actions should address inquiries to:

(a) Utilization facilities: ATTN: Document Control Desk, Director, Office of Nuclear Reactor Regulation, U.S. Nuclear Regulatory Commission, Washington, DC 20555-0001, telephone (301) 415-1270, e-mail RidsNrrOd@nrc.gov.

(b) Production facilities: ATTN: Document Control Desk, Director, Office of Nuclear Material Safety and Safeguards, U.S. Nuclear Regulatory Commission, Washington, DC 20555-0001, telephone (301) 415-7800, e-mail RidsNmssOd@nrc.gov.

(c) Materials licenses: ATTN: Document Control Desk, Director, Office of Nuclear Material Safety and Safeguards, U.S. Nuclear Regulatory Commission, Washington, DC 20555-0001, telephone (301) 415-7800, e-mail RidsNmssOd@nrc.gov.

(d) Rulemaking: ATTN: Chief, Rules and Directives Branch, Office of Administration, U.S. Nuclear Regulatory Commission, Washington, DC 20555-0001, telephone (800) 368-5642, e-mail NRCREP@nrc.gov.

* * * * *

98. In § 51.123, the first sentence of paragraph (a) and the first sentence of paragraph (b) are revised to read as follows:

§ 51.123 Charges for environmental documents; distribution to public; distribution to governmental agencies.

(a) Distribution to public. Upon written request to the Office of the Chief Information Officer, U.S. Nuclear Regulatory Commission, Washington, DC 20555-0001, e-mail DISTRIBUTION@nrc.gov, and to the extent available, single copies of draft environmental impact statements and draft findings of no significant impact will be made available to interested persons without charge. * * *

(b) Distribution to governmental agencies. Upon written request to the Office of the Chief Information Officer, U.S. Nuclear Regulatory Commission, Washington, DC 20555-0001, e-mail DISTRIBUTION@nrc.gov, and to the extent available, copies of draft and final environmental impact statements and draft final findings of no significant impact will be made available in the number requested to Federal, State and local agencies, Indian Tribes, and State, regional, and metropolitan clearinghouses. * * *

* * * * *

PART 52—EARLY SITE PERMITS; STANDARD DESIGN CERTIFICATIONS; AND COMBINED LICENSES FOR NUCLEAR POWER PLANTS

99. The authority citation for part 52 is revised to read as follows:

Authority: Secs. 103, 104, 161, 182, 183, 186, 189, 68 Stat. 936, 948, 953, 954, 955, 956, as amended, sec. 234, 83 Stat. 444, as amended (42 U.S.C. 2133, 2201, 2232, 2233, 2236, 2239, 2282); secs. 201, 202, 206, 88 Stat. 1242, 1244, 1246, as amended (42 U.S.C. 5841, 5842, 5846); sec. 1704, 112 Stat. 2750 (44 U.S.C. 3504 note).

100. In appendix A to part 52, section III.A is revised to read as follows:

Appendix A to Part 52—Design Certification Rule for the U.S. Advanced Boiling Water Reactor

* * * * *

III. Scope and Contents

A. Tier 1, Tier 2, and the generic technical specifications in the U.S. ABWR Design Control Document, GE Nuclear Energy, Revision 4 dated March 1997, are approved for incorporation by reference by the Director of the Office of the Federal Register in accordance with 5 U.S.C. 552(a) and 1 CFR part 51. Copies of the generic DCD may be obtained from the National Technical Information Service, 5285 Port Royal Road, Springfield, VA 22161, Web site at http://www.ntis.gov. A copy is available for examination and copying at the NRC Public Document Room, 11555 Rockville Pike, Rockville, Maryland, telephone (301) 415-4737, e-mail pdr@nrc.gov. Copies are also available for examination at the NRC Library, 11545 Rockville Pike, Rockville, Maryland, telephone (301) 415-5610, e-mail LIBRARY@nrc.gov, and the Office of the Federal Register, 800 North Capitol Street, NW., Suite 700, Washington, DC, e-mail fedreg.info@nara.gov.

* * * * *

101. In appendix B to part 52, section III.A is revised to read as follows:

Appendix B to Part 52—Design Certification Rule for the System 80+ Design

* * * * *

III. Scope and Contents

A. Tier 1, Tier 2, and the generic technical specifications in the System 80+ Design Control Document, ABB-CE, with revisions dated January 1997, are approved for incorporation by reference by the Director of the Office of the Federal Register in accordance with 5 U.S.C. 552(a) and 1 CFR part 51. Copies of the generic DCD may be obtained from the National Technical Information Service, 5285 Port Royal Road, Springfield, VA 22161, Web site at http://www.ntis.gov. A copy is available for examination and copying at the NRC Public Document Room, 11555 Rockville Pike, Rockville, Maryland, telephone (301) 415-4737, e-mail pdr@nrc.gov. Copies are also available for examination at the NRC Library, 11545 Rockville Pike, Rockville, Maryland, telephone (301) 415-5610, e-mail LIBRARY@nrc.gov, and the Office of the Federal Register, 800 North Capitol Street, NW., Suite 700, Washington, DC, e-mail fedreg.info@nara.gov.

* * * * *

102. In appendix C to part 52, the third and fourth sentences of section III.A are revised to read as follows:

Appendix C to Part 52—Design Certification Rule for the AP600 Design

* * * * *

III. Scope and Contents

A. * * * A copy of the generic DCD is available for examination and copying at the NRC Public Document Room, 11555 Rockville Pike, Rockville, Maryland, telephone (301) 415-4737, e-mail pdr@nrc.gov. Copies are also available for examination at the NRC Library, 11545 Rockville Pike, Rockville, Maryland, telephone (301) 415-5610, e-mail LIBRARY@nrc.gov; and the Office of the Federal Register, 800 North Capitol Street, NW., Suite 700, Washington, DC, e-mail fedreg.info@nara.gov.

* * * * *

103. In appendix O to part 52, paragraph 2 is revised to read as follows:

Appendix O to Part 52—Standardization of Design: Staff Review of Standard Designs

* * * * *

2. The submittal for review of the standard design must be made in the same manner as provided in §§ 50.4 and 50.30 for license applications.

* * * * *

104. In appendix Q to part 52, the first sentence of paragraph 2 is revised to read as follows:

Appendix Q to Part 52—Pre-Application Early Review of Site Suitability Issues

* * * * *

2. The submittal for early review of site suitability issue(s) must be made in the same manner as provided in §§ 50.4 and 50.30 for license applications. * * *

* * * * *

PART 55—OPERATORS' LICENSES

105. The authority citation for part 55 is revised to read as follows:

Authority: Secs. 107, 161, 182, 68 Stat. 939, 948, 953, as amended, sec. 234, 83 Stat. 444, as amended (42 U.S.C. 2137, 2201, 2232, 2282); secs. 201, as amended, 202, 88 Stat. 1242, as amended, 1244 (42 U.S.C. 5841, 5842); sec. 1704, 112 Stat. 2750 (44 U.S.C. 3504 note).

Sections 55.41, 55.43, 55.45, and 55.59 also issued under sec. 306, Pub. L. 97-425, 96 Stat. 2262 (42 U.S.C. 10226). Section 55.61 also issued under secs. 186, 187, 68 Stat. 955 (42 U.S.C. 2236, 2237).

106. In § 55.5, paragraphs (a)(2), (b)(2), and (b)(3) are revised, and paragraph (a)(3) is added, to read as follows:

§ 55.5 Communications.

(a) * * *

(1) * * *

(2) By delivery in person to the NRC's offices at 11555 Rockville Pike, Rockville, Maryland, or

(3) Where practicable, by electronic submission, for example, via Electronic Information Exchange, or CD-ROM. Electronic submissions must be made in a manner that enables the NRC to receive, read, authenticate, distribute, and archive the submission, and process and retrieve it a single page at a time. Detailed guidance on making electronic submissions can be obtained by visiting the NRC's Web site at http://www.nrc.gov/site-help/eie.html, by calling (301) 415-6030, by e-mail to EIE@nrc.gov or by writing the Office of the Chief Information Officer, U.S. Nuclear Regulatory Commission, Washington, DC 20555-0001. The guidance discusses, among other topics, the formats the NRC can accept, the use of electronic signatures, and the treatment of nonpublic information.

(b) * * *

(2) Any application for a license or license renewal filed under the regulations in this part involving a nuclear power reactor licensed under 10 CFR part 50 and any related inquiry, communication, information, or report must be submitted to the Regional Administrator by an appropriate method listed in paragraph (a) of this section. The Regional Administrator or the Administrator's designee will transmit to the Director of Nuclear Reactor Regulation any matter that is not within the scope of the Regional Administrator's delegated authority.

(i) If the nuclear power reactor is located in Region I, submissions must be made to the Regional Administrator of Region I. Submissions by mail or hand delivery must be addressed to the Administrator at U.S. Nuclear Regulatory Commission, 475 Allendale Road, King of Prussia, Pennsylvania 19406-1415; where e-mail is appropriate it should be addressed to RidsRgn1MailCenter@nrc.gov.

(ii) If the nuclear power reactor is located in Region II, submissions must be made to the Regional Administrator of Region II. Submissions by mail or hand delivery must be addressed to the Administrator at U.S. Nuclear Regulatory Commission, Sam Nunn Atlanta Federal Center, Suite 23T85, 61 Forsyth Street, SW, Atlanta, GA 30303-8931; where e-mail is appropriate it should be addressed to RidsRgn2MailCenter@nrc.gov.

(iii) If the nuclear power reactor is located in Region III, submissions must be made to the Regional Administrator of Region III. Submissions by mail or hand delivery must be addressed to the Administrator at U.S. Nuclear Regulatory Commission, 801 Warrenville Road, Lisle, IL 60532-4351; where e-mail is appropriate it should be addressed to RidsRgn3MailCenter@nrc.gov.

(iv) If the nuclear power reactor is located in Region IV, submissions must be made to the Regional Administrator of Region IV. Submissions by mail or hand delivery must be addressed to the Administrator at U.S. Nuclear Regulatory Commission, 611 Ryan Plaza Drive, Suite 1000, Arlington, Texas 76011-4005; where e-mail is appropriate it should be addressed to RidsRgn4MailCenter@nrc.gov.

(3)(i) Any application for a license or license renewal filed under the regulations in this part involving a test and research reactor facility licensed under 10 CFR part 50 and any related inquiry, communication, information, or report must be submitted to the Office of Nuclear Reactor Regulation, Division of Regulatory Improvement Programs at the NRC's headquarters, by an appropriate method listed in paragraph (a) of this section.

(ii) For all test and research reactor facilities located in the NRC's Regions, submissions must be made to the Office of Nuclear Reactor Regulation, Director of the Division of Regulatory Improvement Programs at the NRC's headquarters, by an appropriate method listed in paragraph (a) of this section.

107. In § 55.23, the introductory text is revised to read as follows:

§ 55.23 Certification.

To certify the medical fitness of the applicant, an authorized representative of the facility licensee shall complete and sign NRC Form 396, “Certification of Medical Examination by Facility Licensee,” which can be obtained by writing the Office of the Chief Information Officer, U.S. Nuclear Regulatory Commission, Washington, DC 20555-0001, by calling (301) 415-5877, or by visiting the NRC's Web site at http://www.nrc.gov and selecting forms from the index found on the home page.

* * * * *

108. In § 55.31, paragraphs (a)(1) and (a)(2) are revised to read as follows:

§ 55.31 How to apply.

(a) * * *

(1) Complete NRC Form 398, “Personal Qualification Statement—Licensee,” which can be obtained by writing the Office of the Chief Information Officer, U.S. Nuclear Regulatory Commission, Washington, DC 20555-0001, by calling (301) 415-5877, or by visiting the NRC's Web site at http://www.nrc.gov and selecting forms from the index found on the home page;

(2) File an original of NRC Form 398, together with the information required in paragraphs (a)(3), (4), (5) and (6) of this section, with the appropriate Regional Administrator;

* * * * *

109. In § 55.57, paragraph (a)(2) is revised to read as follows:

§ 55.57 Renewal of licenses.

(a) * * *

(2) File an original of NRC Form 398 with the appropriate Regional Administrator specified in § 55.5(b).

* * * * *

PART 60—DISPOSAL OF HIGH-LEVEL RADIOACTIVE WASTES IN GEOLOGIC REPOSITORIES

110. The authority citation for part 60 is revised to read as follows:

Authority: Secs. 51, 53, 62, 63, 65, 81, 161, 182, 183, 68 Stat. 929, 930, 932, 933, 935, 948, 953, 954, as amended (42 U.S.C. 2071, 2073, 2092, 2093, 2095, 2111, 2201, 2232, 2233); secs. 202, 206, 88 Stat. 1244, 1246 (42 U.S.C. 5842, 5846); secs. 10 and 14, Pub. L. 95-601, 92 Stat. 2951 (42 U.S.C. 2021a and 5851); sec. 102, Pub. L. 91-190, 83 Stat. 853 (42 U.S.C. 4332); secs. 114, 121, Pub. L. 97-425, 96 Stat. 2213g, 2228, as amended (42 U.S.C. 10134, 10141), and Pub. L. 102-486, sec. 2902, 106 Stat. 3123 (42 U.S.C. 5851); sec. 1704, 112 Stat. 2750 (44 U.S.C. 3504 note).

111. In § 60.4, paragraph (a) is revised to read as follows:

§ 60.4 Communications and records.

(a) Except where otherwise specified, all communications and reports concerning the regulations in this part and applications filed under them should be sent by mail addressed: ATTN: Document Control Desk: Director, Office of Nuclear Material Safety and Safeguards, U.S. Nuclear Regulatory Commission, Washington, DC 20555-0001; by hand delivery to the NRC's offices at 11555 Rockville Pike, Rockville, Maryland; or, where practicable, by electronic submission, for example, via Electronic Information Exchange, or CD-ROM. Electronic submissions must be made in a manner that enables the NRC to receive, read, authenticate, distribute, and archive the submission, and process and retrieve it a single page at a time. Detailed guidance on making electronic submissions can be obtained by visiting the NRC's Web site at http://www.nrc.gov/site-help/eie.html, by calling (301) 415-6030, by e-mail to EIE@nrc.gov, or by writing the Office of the Chief Information Officer, U.S. Nuclear Regulatory Commission, Washington, DC 20555-0001. The guidance discusses, among other topics, the formats the NRC can accept, the use of electronic signatures, and the treatment of nonpublic information.

* * * * *

112. In § 60.9, paragraph (e)(2) is revised to read as follows:

§ 60.9 Employee protection.

* * * * *

(e) * * *

(2) Copies of NRC Form 3 may be obtained by writing to the Regional Administrator of the appropriate U.S. Nuclear Regulatory Commission Regional Office listed in appendix D to part 20 of this chapter, by calling (301) 415-5877, via e-mail to forms@nrc.gov, or by visiting the NRC's Web site at http://www.nrc.gov and selecting forms from the index found on the home page.

* * * * *

113. In § 60.22, paragraphs (a) and (b) are revised to read as follows:

§ 60.22 Filing and distribution of application.

(a) An application for a license to receive and possess source, special nuclear, or byproduct material at a geologic repository operations area at a site which has been characterized, and any amendments thereto, and an accompanying environmental impact statement and any supplements, must be signed by the Secretary of Energy or the Secretary's authorized representative and must be filed with the Director.

(b) DOE shall maintain the capability to generate additional copies for distribution in accordance with written instructions from the Director or the Director's designee.

* * * * *

114. In § 60.44, the fifth sentence of paragraph (b) is revised to read as follows:

§ 60.44 Changes, tests, and experiments.

* * * * *

(b) * * * The DOE shall furnish the report to the appropriate NRC Regional Office shown in appendix D to part 20 of this chapter, by an appropriate method listed in § 60.4(a), with a copy to the Director of the NRC's Office of Nuclear Material Safety and Safeguards. * * *

* * * * *

PART 61—LICENSING REQUIREMENTS FOR LAND DISPOSAL OF RADIOACTIVE WASTE

115. The authority citation for part 61 is revised to read as follows:

Authority: Secs. 53, 57, 62, 63, 65, 81, 161, 182, 183, 68 Stat. 930, 932, 933, 935, 948, 953, 954, as amended (42 U.S.C. 2073, 2077, 2092, 2093, 2095, 2111, 2201, 2232, 2233); secs. 202, 206, 88 Stat. 1244, 1246, (42 U.S.C. 5842, 5846); secs. 10 and 14, Pub. L. 95-601, 92 Stat. 2951 (42 U.S.C. 2021a and 5851) and Pub. L. 102-486, sec. 2902, 106 Stat. 3123, (42 U.S.C. 5851); sec. 1704, 112 Stat. 2750 (44 U.S.C. 3504 note).

116. Section 61.4 is revised to read as follows:

§ 61.4 Communications.

Except where otherwise specified, all communications and reports concerning the regulations in this part and applications filed under them should be sent by mail addressed: ATTN: Document Control Desk; Director, Office of Nuclear Material Safety and Safeguards, U.S. Nuclear Regulatory Commission, Washington, DC 20555-0001; by hand delivery to the NRC's Offices at 11555 Rockville Pike, Rockville, Maryland; or, where practicable, by electronic submission, for example, via Electronic Information Exchange, or CD-ROM. Electronic submissions must be made in a manner that enables the NRC to receive, read, authenticate, distribute, and archive the submission, and process and retrieve it a single page at a time. Detailed guidance on making electronic submissions can be obtained by visiting the NRC's Web site at http://www.nrc.gov/site-help/eie.html, by calling (301) 415-6030, by e-mail to EIE@nrc.gov, or by writing the Office of the Chief Information Officer, U.S. Nuclear Regulatory Commission, Washington, DC 20555-0001. The guidance discusses, among other topics, the formats the NRC can accept, the use of electronic signatures, and the treatment of nonpublic information.

117. In § 61.9, paragraph (e)(2) is revised to read as follows:

§ 61.9 Employee protection.

* * * * *

(e) * * *

(2) Copies of NRC Form 3 can be obtained by writing to the Regional Administrator of the appropriate U.S. Nuclear Regulatory Commission Regional Office listed in appendix D to part 20 of this chapter, by calling (301) 415-5877, via e-mail to forms@nrc.gov, or by visiting the NRC's Web site at http://www.nrc.gov and selecting forms from the index found on the home page.

* * * * *

118. In § 61.20, paragraphs (a) and (b) are revised to read as follows:

§ 61.20 Filing and distribution of application.

(a) An application for a license under this part, and any amendments thereto, must be filed with the Director, must be signed by the applicant or the applicant's authorized representative under oath or affirmation, and, if the document is in paper form, must be the signed original.

(b) The applicant shall maintain the capability to generate additional copies of the application for distribution in accordance with written instructions from the Director or the Director's designee.

* * * * *

119. In § 61.80, the first sentence of paragraph (i)(1) is revised to read as follows:

§ 61.80 Maintenance of records, reports, and transfers.

* * * * *

(i)(1) Each licensee authorized to dispose of waste materials received from other persons under this part shall submit annual reports to the Director of the Division of Waste Management in the NRC's Office of Nuclear Material Safety and Safeguards, by an appropriate method listed in § 60.4, with a copy to the appropriate NRC Regional Office shown in appendix D to part 20 of this chapter. * * *

* * * * *

PART 62—CRITERIA AND PROCEDURES FOR EMERGENCY ACCESS TO NON-FEDERAL AND REGIONAL LOW-LEVEL WASTE DISPOSAL FACILITIES

120. The authority citation for part 62 is revised to read as follows:

Authority: Secs. 81, 161, as amended, 68 Stat. 935, 948, 949, 950, 951, as amended (42 U.S.C. 2111, 2201); secs. 201, 209, as amended, 88 Stat. 1242, 1248, as amended (42 U.S.C. 5841, 5849); secs. 3, 4, 5, 6, 99 Stat. 1843, 1844, 1845, 1846, 1847, 1848, 1849, 1850, 1851, 1852, 1853, 1854, 1855, 1856, 1857 (42 U.S.C. 2021c, 2021d, 2021e, 2021f); sec. 1704, 112 Stat. 2750 (44 U.S.C. 3504 note).

121. Section 62.3 is revised to read as follows:

§ 62.3 Communications.

Except where otherwise specified, all communications and reports concerning the regulations in this part and applications filed under them should be sent by mail addressed: ATTN: Document Control Desk, Director, Office of Nuclear Material Safety and Safeguards, U.S. Nuclear Regulatory Commission, Washington, DC 20555-0001; by hand delivery to the NRC's offices at 11555 Rockville Pike, Rockville, Maryland; or, where practicable, by electronic submission, for example, via Electronic Information Exchange, or CD-ROM. Electronic submissions must be made in a manner that enables the NRC to receive, read, authenticate, distribute, and archive the submission, and process and retrieve it a single page at a time. Detailed guidance on making electronic submissions can be obtained by visiting the NRC's Web site at http://www.nrc.gov/site-help/eie.html, by calling (301) 415-6030, by e-mail to EIE@nrc.gov, or by writing the Office of the Chief Information Officer, U.S. Nuclear Regulatory Commission, Washington, DC 20555-0001. The guidance discusses, among other topics, the formats the NRC can accept, the use of electronic signatures, and the treatment of nonpublic information.

122. In § 62.11, the first sentence of paragraph (a) is revised to read as follows:

§ 62.11 Filing and distribution of a determination request.

(a) The person submitting a request for a Commission determination shall file a signed original of the request with the Commission at the address specified in § 62.3 of this part, with a copy also provided to the appropriate Regional Administrator at the address specified in appendix D to part 20 of this chapter. * * *

* * * * *

PART 63—DISPOSAL OF HIGH-LEVEL RADIOACTIVE WASTES IN A GEOLOGIC REPOSITORY AT YUCCA MOUNTAIN, NEVADA

123. The authority citation for part 63 is revised to read as follows:

Authority: Secs. 51, 53, 62, 63, 65, 81, 161, 182, 183, 68 Stat. 929, 930, 932, 933, 935, 948, 953, 954, as amended (42 U.S.C. 2071, 2073, 2092, 2093, 2095, 2111, 2201, 2232, 2233); secs. 202, 206, 88 Stat.1244, 1246 (42 U.S.C. 5842, 5846); secs. 10 and 14, Pub. L. 95-601, 92 Stat. 2951 (42 U.S.C. 2021a and 5851); sec. 102, Pub. L. 91-190, 83 Stat. 853 (42 U.S.C. 4332); secs. 114, 121, Pub. L. 97-425, 96 Stat. 2213g, 2238, as amended (42 U.S.C. 10134, 10141), and Pub. L. 102-486, sec. 2902, 106 Stat. 3123 (42 U.S.C. 5851); sec. 1704, 112 Stat. 2750 (44 U.S.C. 3504 note).

124. In § 63.2, the definition of Publicly Available Records System (PARS) Library is added to read as follows:

§ 63.2 Definitions.

* * * * *

Publicly Available Records System (PARS) Library means the electronic library generated by the NRC's Agencywide Documents Access and Management System (ADAMS) to provide access to public documents. PARS has full text documents which can be searched using specific fields and parameters. The public can search, download, print, create reports, and order documents online. The PARS Library contains publicly available documents created or received by NRC since November 1, 1999, as well as some older documents that the NRC has retrofit into the collection. PARS is accessible from the NRC Web site at http://www.nrc.gov/reading-rm.html.

* * * * *

125. In § 63.4, paragraph (a) is revised to read as follows:

§ 63.4 Communications and records.

(a) Except as otherwise specified, in this part or in subpart J of part 2 of this chapter, all communications and reports concerning the regulations in this part and applications filed under them should be sent to the NRC as follows:

(1) By mail addressed: ATTN: Document Control Desk; Director, Office of Nuclear Material Safety and Safeguards; U.S. Nuclear Regulatory Commission, Washington, DC 20555-0001;

(2) By hand delivery to the NRC's offices at 11555 Rockville Pike, Rockville, Maryland; ATTN: Document Control Desk: Director, Office of Nuclear Material Safety and Safeguards; or,

(3) Where practicable, by electronic submission, for example, via Electronic Information Exchange, or CD-ROM. Electronic submissions must be made in a manner that enables the NRC to receive, read, authenticate, distribute, and archive the submission, and process and retrieve it a single page at a time. Detailed guidance on making electronic submissions can be obtained by visiting the NRC's Web site at http://www.nrc.gov/site-help/eie.html, by calling (301) 415-6030, by e-mail to EIE@nrc.gov, or by writing the Office of the Chief Information Officer, U.S. Nuclear Regulatory Commission, Washington, DC 20555-0001. The guidance discusses, among other topics, the formats the NRC can accept, the use of electronic signatures, and the treatment of nonpublic information.

* * * * *

126. In § 63.9, paragraph (e)(2) is revised to read as follows:

§ 63.9 Employee protection.

(e) * * *

(2) Copies of NRC Form 3 may be obtained by writing to the Regional Administrator of the appropriate U.S. Nuclear Regulatory Commission Regional Office listed in appendix D to part 20 of this chapter, by calling (301) 415-5877, via e-mail to forms@nrc.gov, or by accessing the NRC Web site at http://www.nrc.gov and selecting forms from the index found on the home page.

* * * * *

127. In § 63.16, paragraph (f) is revised to read as follows:

§ 63.16 Review of site characterization activities.

* * * * *

(f) The NRC shall place all correspondence between DOE and NRC resulting from the requirements of this section, including the reports described in paragraph (b) of this section, in the Publicly Available Records System (PARS) Library.

* * * * *

128. In § 63.22, paragraphs (a), (b), and the first sentence of paragraph (d) are revised to read as follows:

§ 63.22 Filing and distribution of application.

(a) An application for a license to receive and possess source, special nuclear, or byproduct material at a geologic repository operations area at the Yucca Mountain site that has been characterized, any amendments to the application, and an accompanying environmental impact statement and any supplements, must be signed by the Secretary of Energy or the Secretary's authorized representative and must be filed with the Director in triplicate on paper and optical storage media.

(b) DOE shall submit 30 additional copies, on paper and optical storage media, of each portion of the application and any amendments, and each environmental impact statement and any supplements. DOE shall maintain the capability to generate additional copies for distribution in accordance with written instructions from the Director or the Director's designee.

* * * * *

(d) When an application, and any amendment to it is filed, copies on paper and optical storage media must be made available in appropriate locations near the proposed geologic repository operations areas at the Yucca Mountain site for inspection by the public. * * *

* * * * *

129. In § 63.44, paragraph (c)(2) is revised to read as follows:

§ 63.44 Changes, tests, and experiments.

* * * * *

(c) * * *

(2) No less frequently than every 24 months, DOE shall prepare a report containing a brief description of such changes, tests, and experiments, including a summary of the evaluation of each. These written reports must be sent to the NRC using an appropriate method listed in § 63.4; addressed: ATTN: Document Control Desk; Director, Office of Nuclear Material Safety and Safeguards; U.S. Nuclear Regulatory Commission, Washington, DC 20555-001; and DOE shall furnish the report to the appropriate NRC Regional Office shown in appendix D to part 20 of this chapter. Any report submitted under this paragraph must be made a part of the public record of the licensing proceedings.

* * * * *

130. In § 63.61, paragraph (c) is revised to read as follows:

§ 63.61 Provision of information.

* * * * *

(c) The NRC shall place communications by the Director under this section in the Publicly Available Records System (PARS) Library and furnish copies to DOE.

131. In § 63.63, paragraph (f) is revised to read as follows:

§ 63.63 Participation in license reviews.

* * * * *

(f) The NRC shall place all proposals submitted under this section, and responses to them, in the Publicly Available Records System (PARS) Library.

132. In § 63.73, paragraph (d) is revised to read as follows:

§ 63.73 Reports of deficiencies.

* * * * *

(d) The requisite notification must be as specified in the applicable regulation. By an appropriate method listed in § 63.4 of this chapter, written reports must be submitted to NRC addressed: ATTN: Document Control Desk; Director, Office of Nuclear Material Safety and Safeguards; U.S. Nuclear Regulatory Commission, Washington, DC 20555-001; and to the NRC onsite representative. DOE shall also furnish the report to the appropriate NRC Regional Office shown in appendix D to part 20 of this chapter.

133. In § 63.144, paragraph (b)(1) is revised to read as follows:

§ 63.144 Quality assurance program change.

* * * * *

(b) * * *

(1) By an appropriate method listed in § 63.4 of this chapter, the signed document must be submitted to the Nuclear Regulatory Commission, addressed: ATTN: Document Control Desk; Director, Office of Nuclear Material and Safeguards; U.S. Nuclear Regulatory Commission, Washington, DC 20555-0001, and one copy to the appropriate NRC Resident Inspector, if one has been assigned to the site or facility.

* * * * *

PART 70—DOMESTIC LICENSING OF SPECIAL NUCLEAR MATERIAL

134. The authority citation for part 70 is revised to read as follows:

Authority: Secs. 51, 53, 161, 182, 183, 68 Stat. 929, 930, 948, 953, 954, as amended, sec. 234, 83 Stat. 444, as amended (42 U.S.C. 2071, 2073, 2201, 2232, 2233, 2282, 2297f); secs. 201, as amended, 202, 204, 206, 88 Stat. 1242, as amended, 1244, 1245, 1246 (42 U.S.C. 5841, 5842, 5845, 5846). Sec. 193, 104 Stat. 2835, as amended by Pub. L. 104-134, 110 Stat. 1321, 1321-349 (42 U.S.C. 2243); sec. 1704, 112 Stat. 2750 (44 U.S.C. 3504 note).

Sections 70.1(c) and 70.20a(b) also issued under secs. 135, 141, Pub. L. 97-425, 96 Stat. 2232, 2241 (42 U.S.C. 10155, 10161). Section 70.7 also issued under Pub. L. 95-601, sec. 10, 92 Stat. 2951 (42 U.S.C. 5851). Section 70.21(g) also issued under sec. 122, 68 Stat. 939 (42 U.S.C. 2152). Section 70.31 also issued under sec. 57d, Pub. L. 93-377, 88 Stat. 475 (42 U.S.C. 2077). Sections 70.36 and 70.44 also issued under sec. 184, 68 Stat. 954, as amended (42 U.S.C. 2234). Section 70.81 also issued under secs. 186, 187, 68 Stat. 955 (42 U.S.C. 2236, 2237). Section 70.82 also issued under sec. 108, 68 Stat. 939, as amended (42 U.S.C. 2138).

135. In § 70.5, paragraphs (a)(1) and (a)(2), the introductory text of paragraph (b), and the last sentences of paragraphs (b)(2)(i), (b)(2)(ii), (b)(2)(iii), and (b)(2)(iv) are revised and paragraphs (a)(3) and (a)(4) are added, to read as follows:

§ 70.5 Communications.

(a) * * *

(1) By mail addressed to: ATTN: Document Control Desk, Director, Office of Nuclear Material Safety and Safeguards or Director, Division of Nuclear Security, Office of Nuclear Security and Incident Response, U.S. Nuclear Regulatory Commission, Washington, DC 20555-0001.

(2) By hand delivery to the Director, Office of Nuclear Material Safety and Safeguards or Director, Division of Nuclear Security, Office of Nuclear Security and Incident Response at the NRC's offices at 11555 Rockville Pike, Rockville, Maryland.

(3) Where practicable, by electronic submission, for example, via Electronic Information Exchange, and CD-ROM. Electronic submissions must be made in a manner that enables the NRC to receive, read, authenticate, distribute, and archive the submission, and process and retrieve it a single page at a time. Detailed guidance on making electronic submissions can be obtained by visiting the NRC's Web site at http://www.nrc.gov/site-help/eie.html, by calling (301) 415-6030, by e-mail to EIE@nrc.gov, or by writing the Office of the Chief Information Officer, U.S. Nuclear Regulatory Commission, Washington, DC 20555-0001. The guidance discusses, among other topics, the formats the NRC can accept, the use of electronic signatures, and the treatment of nonpublic information.

(4) Classified communications shall be transmitted to the NRC Headquarters' classified mailing address as specified in appendix A to part 73 of this chapter or delivered by hand in accordance with paragraph (a)(2) of this section.

(b) The Commission has delegated to the four Regional Administrators licensing authority for selected parts of its decentralized licensing program for nuclear materials as described in paragraph (b)(1) of this section. Any communication, report, or application covered under this licensing program must be submitted to the appropriate Regional Administrator. The Administrators' jurisdictions and mailing addresses are listed in paragraph (b)(2) of this section.

* * * * *

(2) * * *

(i) * * * All mailed or hand-delivered inquiries, communications, and applications for a new license or an amendment or renewal of an existing license specified in paragraph (b)(1) of this section must use the following address: U.S. Nuclear Regulatory Commission, Region I, Nuclear Material Section B, 475 Allendale Road, King of Prussia, Pennsylvania 19406-1415; where e-mail is appropriate it should be addressed to RidsRgn1MailCenter@nrc.gov.

(ii) * * * All mailed or hand-delivered inquiries, communications, and applications for a new license or an amendment or renewal of an existing license specified in paragraph (b)(1) of this section must use the following address: U.S. Nuclear Regulatory Commission, Region II, Material Licensing/Inspection Branch, Sam Nunn Atlanta Federal Center, Suite 23T85, 61 Forsyth Street, SW., Atlanta, GA 30303-8931; where e-mail is appropriate it should be addressed to RidsRgn2MailCenter@nrc.gov.

(iii) * * * All mailed or hand-delivered inquiries, communications, and applications for a new license or an amendment or renewal of an existing license specified in paragraph (b)(1) of this section must use the following address: U.S. Nuclear Regulatory Commission, Region III, Material Licensing Section, 801 Warrenville Road, Lisle, Illinois 60532-4351; where e-mail is appropriate it should be addressed to RidsRgn3MailCenter@nrc.gov.

(iv) * * * All mailed or hand-delivered inquiries, communications, and applications for a new license or an amendment or renewal of an existing license specified in paragraph (b)(1) of this section must use the following address: U.S. Nuclear Regulatory Commission, Region IV, Material Radiation Protection Section, 611 Ryan Plaza Drive, Suite 400, Arlington, Texas 76011-4005; where e-mail is appropriate it should be addressed to RidsRgn4MailCenter@nrc.gov.

136. In § 70.7, paragraph (e)(3) is revised to read as follows:

§ 70.7 Employee protection.

* * * * *

(e) * * *

(3) Copies of NRC Form 3 may be obtained by writing to the Regional Administrator of the appropriate U.S. Nuclear Regulatory Commission Regional Office listed in appendix D to part 20 of this chapter, by calling (301) 415-5877, via e-mail to forms@nrc.gov, or by accessing the NRC Web site at http://www.nrc.gov and selecting forms from the index found on the home page.

* * * * *

137. In § 70.20b, paragraphs (f)(1), (f)(2)(ii), and (f)(2)(iii) are revised to read as follows:

§ 70.20b General license for carriers of transient shipments of formula quantities of strategic special nuclear material, special nuclear material of moderate strategic significance, special nuclear material of low strategic significance, and irradiated reactor fuel.

* * * * *

(f)(1) Persons generally licensed under this section, who plan to carry transient shipments with scheduled stops at United States ports, shall notify in writing the Director, Division of Nuclear Security, Office of Nuclear Security and Incident Response, using an appropriate method listed in § 70.5(a). Classified notifications shall be sent to the NRC headquarters classified mailing address listed in appendix A to part 73 of this chapter.

(2) * * *

(ii) The NRC Headquarters Operations Center shall be notified by telephone at least 2 days before commencement of the shipment at the numbers listed in appendix A to part 73 of this chapter. Classified notifications shall be made by secure telephone.

(iii) The NRC Headquarters Operations Center shall be notified by telephone of schedule changes greater than ±6 hours at the numbers listed in appendix A to part 73 of this chapter. Classified notifications shall be made by secure telephone.

* * * * *

138. In § 70.21, paragraphs (a)(1) and (a)(2) are revised to read as follows:

§ 70.21 Filing.

(a)(1) A person may apply for a license to possess and use special nuclear material in a plutonium processing or fuel fabrication plant, or for a uranium enrichment facility license, by filing the application with the Director of the NRC's Office of Nuclear Material Safety and Safeguards in accordance with the instructions in § 70.5(a). If the application is on paper or CD-ROM, only one copy need be provided. If the application is to be submitted electronically, see guidance for electronic submissions to the Commission.

(2) A person may apply for any other license issued under this part, by filing the application in accordance with the instructions in § 70.5(a). If the application is on paper, only one copy need be provided. If the application is to be submitted electronically, see guidance for electronic submissions to the Commission.

* * * * *

139. In § 70.32, the second sentence of the introductory text of paragraph (c)(2), the last sentences of paragraphs (d), (e), and (g), and the third sentence of paragraph (i) are revised to read as follows:

§ 70.32 Conditions of licenses.

* * * * *

(c) * * *

(2) * * * Licensees located in all four Regions as indicated in appendix A of part 73 of this chapter shall furnish to the Director, Division of Nuclear Security, Office of Nuclear Security and Incident Response, using an appropriate method listed in § 70.5(a), a report containing a description of each change within:

* * * * *

(d) * * * Within two months after each change, a report containing a description of the change must be furnished to the Director of the NRC's Office of Nuclear Material Safety and Safeguards, using an appropriate method listed in § 70.5(a); and a copy must be sent to the appropriate NRC Regional Office shown in appendix A to part 73 of this chapter.

(e) * * * The licensee shall maintain records of changes to the plan made without prior Commission approval, for three years from the effective date of the change, and shall, within two months after the change is made, furnish a report containing a description of each change to the Director, Division of Nuclear Security, Office of Nuclear Security and Incident Response; the report may be sent using an appropriate method listed in § 70.5(a), and a copy of the report must be sent to the appropriate NRC Regional Office shown in appendix A to part 73 of this chapter.

* * * * *

(g) * * * The licensee shall maintain each change to the plan made without prior approval as a record during the period for which possession of a formula quantity of special nuclear material is authorized under a license and retain the superseded portion for 3 years after the effective date of the change, and shall, within 60 days after the change is made, furnish a report containing a description of each change to the Director of Nuclear Material Safety and Safeguards; the report may be sent using an appropriate method listed in § 70.5(a), and a copy of the report must be sent to the Regional Administrator of the appropriate NRC Regional Office as specified in appendix A to part 73 of this chapter.

* * * * *

(i) * * * Within six months after each change is made, the licensee shall, using an appropriate method listed in § 70.5(a), furnish the Director, Division of Nuclear Security, Office of Nuclear Security and Incident Response, a copy of each change, with copies to the appropriate NRC Regional Office specified in appendix D to part 20 of this chapter and to affected offsite response organizations. * * *

* * * * *

140. In § 70.50, the third sentence of the introductory text of paragraph (c)(2) is revised to read as follows:

§ 70.50 Reporting requirements.

* * * * *

(c) * * *

(2) * * * These written reports must be sent to the NRC's Document Control Desk, using an appropriate method listed in § 70.5(a), with a copy to the appropriate NRC regional office listed in appendix D to part 20 of this chapter. * * *

* * * * *

141. Section 70.59 is revised to read as follows:

§ 70.59 Effluent monitoring reporting requirements.

Within 60 days after January 1 and July 1 of each year, and using an appropriate method listed in § 70.5(a), each licensee authorized to possess and use special nuclear material for processing and fuel fabrication, scrap recovery, conversion of uranium hexafluoride, or in a uranium enrichment facility shall submit a report addressed: ATTN: Document Control Desk, Director, Office of Nuclear Material Safety and Safeguards, U.S. Nuclear Regulatory Commission, Washington, DC 20555-0001, with a copy to the appropriate NRC Regional Office shown in appendix D to part 20 of this chapter. The report must specify the quantity of each of the principal radionuclides released to unrestricted areas in liquid and gaseous effluents during the previous six months of operation, and such other information as the Commission may require to estimate maximum potential annual radiation doses to the public resulting from effluent releases. If quantities of radioactive materials released during the reporting periods are significantly above the licensee's design objectives previously reviewed as part of the licensing action, the report must cover this specifically. On the basis of these reports and any additional information the Commission may obtain from the licensee or others, the Commission may from time to time require the licensee to take such action as the Commission deems appropriate.

PART 71—PACKAGING AND TRANSPORTATION OF RADIOACTIVE MATERIAL

142. The authority citation for part 71 is revised to read as follows:

Authority: Secs. 53, 57, 62, 63, 81, 161, 182, 183, 68 Stat. 930, 932, 933, 935, 948, 953, 954, as amended, sec. 1701, 106 Stat. 2951, 2952, 2953 (42 U.S.C. 2073, 2077, 2092, 2093, 2111, 2201, 2232, 2233, 2297f); secs. 201, as amended, 202, 206, 88 Stat. 1242, as amended, 1244, 1246 (42 U.S.C. 5841, 5842, 5846); sec. 1704, 112 Stat. 2750 (44 U.S.C. 3504 note).

Section 71.97 also issued under sec. 301, Pub. L. 96-295, 94 Stat. 789-790.

143. In § 71.1, paragraph (a) is revised to read as follows:

§ 71.1 Communications and records.

(a) Except where otherwise specified, all communications and reports concerning the regulations in this part and applications filed under them should be sent by mail addressed: ATTN: Document Control Desk, Director, Spent Fuel Project Office, Office of Nuclear Material Safety and Safeguards, U.S. Nuclear Regulatory Commission, Washington, DC 20555-0001, by hand delivery to the NRC's offices at 11555 Rockville Pike, Rockville, Maryland; or, where practicable, by electronic submission, for example, via Electronic Information Exchange, or CD-ROM. Electronic submissions must be made in a manner that enables the NRC to receive, read, authenticate, distribute, and archive the submission, and process and retrieve it a single page at a time. Detailed guidance on making electronic submissions can be obtained by visiting the NRC's Web site at http://www.nrc.gov/site-help/eie.html, by calling (301) 415-6030, by e-mail to EIE@nrc.gov, or by writing the Office of the Chief Information Officer, U.S. Nuclear Regulatory Commission, Washington, DC 20555-0001. The guidance discusses, among other topics, the formats the NRC can accept, the use of electronic signatures, and the treatment of nonpublic information.

* * * * *

144. In § 71.12, paragraph (c)(3) is revised to read as follows:

§ 71.12 General license: NRC-approved package.

* * * * *

(c) * * *

(3) Before the licensee's first use of the package, submits in writing to: ATTN: Document Control Desk, Director, Spent Fuel Project Office, Office of Nuclear Material Safety and Safeguards, using an appropriate method listed in § 71.1(a), the licensee's name and license number and the package identification number specified in the package approval.

* * * * *

145. In § 71.95, the introductory text is revised to read as follows:

§ 71.95 Reports.

Using an appropriate method listed in § 71.1(a), the licensee shall report to: ATTN: Document Control Desk, Director, Spent Fuel Project Office, Office of Nuclear Material Safety and Safeguards within 30 days—

* * * * *

146. In § 71.97, the introductory text of paragraph (c)(3) is revised to read as follows:

§ 71.97 Advance notification of shipment of irradiated reactor fuel and nuclear waste.

* * * * *

(c) * * *

(3) A notification delivered by any other means than mail must reach the office of the governor or of the governor's designee at least 4 days before the beginning of the 7-day period during which departure of the shipment is estimated to occur.

* * * * *

147. In § 71.101, the last sentence of paragraph (c) is revised to read as follows:

§ 71.101 Quality assurance requirements.

* * * * *

(c) * * * Using an appropriate method listed in § 71.1(a), each licensee shall file a description of its quality assurance program, including a discussion of which requirements of this subpart are applicable and how they will be satisfied, by submitting the description to: ATTN: Document Control Desk, Director, Spent Fuel Project Office, Office of Nuclear Material Safety and Safeguards.

* * * * *

r

PART 72—LICENSING REQUIREMENTS FOR THE INDEPENDENT STORAGE OF SPENT NUCLEAR FUEL, HIGH-LEVEL RADIOACTIVE WASTE, AND REACTOR-RELATED GREATER THAN CLASS C WASTE

148. The authority citation for part 72 is revised to read as follows:

Authority: Secs. 51, 53, 57, 62, 63, 65, 69, 81, 161, 182, 183, 184, 186, 187, 189, 68 Stat. 929, 930, 932, 933, 934, 935, 948, 953, 954, 955, as amended; sec. 234, 83 Stat. 444, as amended (42 U.S.C. 2071, 2073, 2077, 2092, 2093, 2095, 2099, 2111, 2201, 2232, 2233, 2234, 2236, 2237, 2238, 2282); sec. 274, Pub. L. 86-373, 73 Stat. 688, as amended (42 U.S.C. 2021); sec. 201, as amended; 202, 206, 88 Stat. 1242, as amended; 1244, 1246 (42 U.S.C. 5841, 5842, 5846); Pub. L. 95-601, sec. 10, 92 Stat. 2951, as amended by Pub. L. 102-486, sec. 7902, 106 Stat. 3123 (42 U.S.C. 5851); sec. 102, Pub. L. 91-190, 83 Stat. 853 (42 U.S.C. 4332); secs. 131, 132, 133, 135, 137, 141, Pub. L. 97-425, 96 Stat. 2229, 2230, 2232, 2241; sec. 148, Pub. L. 100-203, 101 Stat. 1330-235 (42 U.S.C. 10151, 10152, 10153, 10155, 10157, 10161, 10168); sec. 1704, 112 Stat. 2750 (44 U.S.C. 3504 note).

Section 72.44(g) also issued under secs. 142(b) and 148(c), (d), Pub. L. 100-203, 101 Stat. 1330-232, 1330-236 (42 U.S.C. 10162(b), 10168(c), (d)). Section 72.46 also issued under sec. 189, 68 Stat. 955 (42 U.S.C. 2239); sec. 134, Pub. L. 97-425, 96 Stat. 2230 (42 U.S.C. 10154). Section 72.96(d) also issued under sec. 145(g), Pub. L. 100-203, 101 Stat. 1330-235 (42 U.S.C. 10165(g)). Subpart J also issued under secs. 2(2), 2(15), 2(19), 117(a), 141(h), Pub. L. 97-425, 96 Stat. 2202, 2203, 2204, 2222, 2224 (42 U.S.C. 10101, 10137(a), 10161(h)). Subparts K and L are also issued under sec. 133, 98 Stat. 2230 (42 U.S.C. 10153) and sec. 218(a), 96 Stat. 2252 (42 U.S.C. 10198).

149. Section 72.4 is revised to read as follows.

§ 72.4 Communications.

Except where otherwise specified, all communications and reports concerning the regulations in this part and applications filed under them should be sent by mail addressed: ATTN: Document Control Desk, Director, Spent Fuel Project Office, Office of Nuclear Material Safety and Safeguards, U.S. Nuclear Regulatory Commission, Washington, DC 20555-0001; by hand delivery to the NRC's offices at One White Flint North, 11555 Rockville Pike, Rockville, Maryland between 7:30 a.m. and 4:15 p.m. eastern time; or, where practicable, by electronic submission, for example, via Electronic Information Exchange, or CD-ROM. Electronic submissions must be made in a manner that enables the NRC to receive, read, authenticate, distribute, and archive the submission, and process and retrieve it a single page at a time. Detailed guidance on making electronic submissions can be obtained by visiting the NRC's Web site at http://www.nrc.gov/site-help/eie.html, by calling (301) 415-6030, by e-mail to EIE@nrc.gov, or by writing the Office of the Chief Information Officer, U.S. Nuclear Regulatory Commission, Washington, DC 20555-0001. The guidance discusses, among other topics, the formats the NRC can accept, the use of electronic signatures, and the treatment of nonpublic information. If the submission deadline date falls on a Saturday, or Sunday, or a Federal holiday, the next Federal working day becomes the official due date.

150. In § 72.10, paragraph (e)(2) is revised to read as follows:

§ 72.10 Employee protection.

* * * * *

(e) * * *

(2) Copies of NRC Form 3 may be obtained by writing to the Regional Administrator of the appropriate U.S. Nuclear Regulatory Commission Regional Office listed in appendix D to part 20 of this chapter, by calling (301) 415-5877, via e-mail to forms@nrc.gov, or by visiting the NRC's Web site at http://www.nrc.gov and selecting forms from the index found on the home page.

* * * * *

151. In § 72.16, paragraphs (a) and (c) are revised to read as follows:

§ 72.16 Filing of application for specific license.

(a) Place of filing. Each application for a license, or amendment thereof, under this part should be filed with the Director of the NRC's Spent Fuel Project Office, Office of Nuclear Material Safety and Safeguards in accordance with § 72.4.

* * * * *

(c) Copies of application on paper or CD-ROM. If the application is on paper, it must be the signed original. The applicant shall maintain the capability to generate additional copies for distribution in accordance with instruction from the Director or the Director's designee.

* * * * *

152. In § 72.44, the third sentence of paragraph (f) is revised to read as follows:

§ 72.44 License conditions.

* * * * *

(f) * * * Within six months after any change is made, the licensee shall submit, in accordance with § 72.4, a report containing a description of any changes made in the plan addressed to Director, Spent Fuel Project Office, Office of Nuclear Material Safety and Safeguards, U.S. Nuclear Regulatory Commission, with a copy to the appropriate NRC Regional Office shown in appendix D to part 20 of this chapter. * * *

* * * * *

153. In § 72.70, paragraphs (c)(1) and (c)(2) are revised to read as follows:

§ 72.70 Safety analysis report updating.

* * * * *

(c)(1) The update of the FSAR must be filed in accordance with § 72.4. If the update is filed on paper, it should be filed on a page-replacement basis; if filed electronically, it should be filed on a full replacement basis. See Guidance for Electronic Submissions to the Commission at http://www.nrc.gov/site-help/eie.html.

(2) A paper update filed on a page-replacement basis must include a list that identifies the current pages of the FSAR following page replacement. If the update is filed electronically on a full replacement basis, it must include a list of changed pages.

* * * * *

154. In § 72.76, the second sentence of paragraph (a) is revised to read as follows:

§ 72.76 Material status reports.

(a) * * * Copies of these instructions may be obtained either by writing the U.S. Nuclear Regulatory Commission, Division of Nuclear Security, Office of Nuclear Security and Incident Response, Washington, DC 20555-0001, by e-mail to RidsNsirDns@nrc.gov, or by calling (301) 415-7298. * * *

* * * * *

155. In § 72.78, the second sentence of paragraph (a) is revised to read as follows:

§ 72.78 Nuclear material transfer reports.

(a) * * * Copies of these instructions may be obtained either by writing the U.S. Nuclear Regulatory Commission, Division of Nuclear Security, Office of Nuclear Security and Incident Response, Washington, DC 20555-0001, by e-mail to RidsNsirDns@nrc.gov, or by calling (301) 415-7298. * * *

* * * * *

156. In § 72.186, the second sentence of paragraph (b) is removed and two sentences are added in its place to read as follows:

§ 72.186 Change to physical security and safeguards contingency plans.

* * * * *

(b) * * * The licensee shall maintain records of changes to any such plan made without prior approval for a period of three years from the date of the change, and shall, within two months after the change is made, submit a report addressed to Director, Spent Fuel Project Office, Office of Nuclear Material Safety and Safeguards, U.S. Nuclear Regulatory Commission, in accordance with § 72.4, containing a description of each change. A copy of the report must be sent to the Regional Administrator of the appropriate NRC Regional Office specified in appendix A to part 73 of this chapter.

157. In § 72.248, paragraphs (c)(1) and (c)(2) are revised to read as follows:

§ 72.248 Safety analysis report updating.

* * * * *

(c)(1) The update of the FSAR must be filed in accordance with § 72.4. If the update is filed on paper, then it should be filed on a page-replacement basis; if filed electronically, it should be filed on a full replacement basis. See Guidance for Electronic Submissions to the Commission at http://www.nrc.gov/site-help/eie.html.

(2) A paper update filed on a page-replacement basis must include a list that identifies the current pages of the FSAR following page replacement. If the update is filed electronically on a full replacement basis, it must include a list of changed pages.

* * * * *

PART 73—PHYSICAL PROTECTION OF PLANTS AND MATERIALS

158. The authority citation for part 73 is revised to read as follows:

Authority: Secs. 53, 161, 68 Stat. 930, 948, as amended, sec. 147, 94 Stat. 780 (42 U.S.C. 2073, 2167, 2201); sec. 201, as amended, 204, 88 Stat. 1242, as amended, 1245, sec. 1701, 106 Stat. 2951, 2952, 2953 (42 U.S.C. 5841, 5844, 2297f); sec. 1704, 112 Stat. 2750 (44 U.S.C. 3504 note).

Section 73.1 also issued under secs. 135, 141, Pub. L. 97-425, 96 Stat. 2232, 2241 (42 U.S.C. 10155, 10161). Section 73.37(f) also issued under sec. 301, Pub. L. 96-295, 94 Stat. 789 (42 U.S.C. 5841 note). Section 73.57 is issued under sec. 606, Pub. L. 99-399, 100 Stat. 876 (42 U.S.C. 2169).

159. Section 73.4 is revised to read as follows:

§ 73.4 Communications.

Except where otherwise specified, all communications and reports concerning the regulations in this part and applications filed under them should be sent as follows:

(a) By mail addressed to: ATTN: Document Control Desk, Director, Office of Nuclear Reactor Regulation, Director, Office of Nuclear Material Safety and Safeguards, or Director, Division of Nuclear Security, Office of Nuclear Security and Incident Response, as appropriate, U.S Nuclear Regulatory Commission, Washington, DC 20555-0001;

(b) By hand delivery to the NRC's offices at 11555 Rockville Pike, Rockville, Maryland;

(c) Where practicable, by electronic submission, for example, Electronic Information Exchange, or CD-ROM. Electronic submissions must be made in a manner that enables the NRC to receive, read, authenticate, distribute, and archive the submission, and process and retrieve it a single page at a time. Detailed guidance on making electronic submissions can be obtained by visiting the NRC's Web site at http://www.nrc.gov/site-help/eie.html, by calling (301) 415-6030, by e-mail to EIE@nrc.gov, or by writing the Office of the Chief Information Officer, U.S. Nuclear Regulatory Commission, Washington, DC 20555-0001. The guidance discusses, among other topics, the formats the NRC can accept, the use of electronic signatures, and the treatment of nonpublic information.

(d) Classified communications shall be transmitted to the NRC Headquarters' classified mailing address as specified in appendix A to part 73 of this chapter or delivered by hand in accordance with this paragraph.

160. In § 73.57, paragraphs (a)(2), and (a)(3), the first and second sentences of paragraph (d)(1), the second and fourth sentences of paragraph (d)(2), the second and third sentences of paragraph (d)(3), and paragraphs (d)(4) and (f)(5) are revised to read as follows:

§ 73.57 Requirements for criminal history checks of individuals granted unescorted access to a nuclear power facility or access to Safeguards Information by power reactor licensees.

(a) * * *

(2) Each applicant for a license to operate a nuclear power reactor under part 50 of this chapter shall submit fingerprints for those individuals who have or will have access to Safeguards Information.

(3) Prior to receiving its operating license, each applicant for a license to operate a nuclear power reactor pursuant to part 50 of this chapter may submit fingerprints for those individuals who will require unescorted access to the nuclear power facility.

* * * * *

(d) * * *

(1) For the purpose of complying with this section, licensees shall, using an appropriate method listed in § 73.4, submit to the NRC's Division of Facilities and Security, Mail Stop T-6E46, one completed, legible standard fingerprint card (Form FD-258, ORIMDNRCOOOZ) or, where practicable, other fingerprint record for each individual requiring unescorted access to the nuclear power facility or access to Safeguards Information, to the Director of the NRC's Division of Facilities and Security, marked for the attention of the Division's Criminal History Check Section. Copies of these forms may be obtained by writing the Office of the Chief Information Officer, U.S. Nuclear Regulatory Commission, Washington, DC 20555-0001, by calling (301) 415-5877, or by e-mail to forms@nrc.gov. Guidance on what alternative formats might be practicable is referenced in § 73.4. * * *

(2) * * * Any Form FD-258 or other fingerprint record containing omissions or evident errors will be returned to the licensee for corrections. * * * The one free resubmission must have the FBI Transaction Control Number reflected on the resubmission. * * *

(3) * * * Licensees shall submit payment with the application for the processing of fingerprints through corporate check, certified check, cashier's check, money order, or electronic payment, made payable to “U.S. NRC” (for guidance on making electronic payments, contact the Security Branch, Division of Facilities and Security, at (301) 415-7404). The amount of the fee is the user fee for processing fingerprints submitted by the Nuclear Regulatory Commission on behalf of nuclear power plants charged by the FBI for each fingerprint card or other fingerprint record. * * *

(4) The Commission will forward to the submitting licensee all data received from the FBI as a result of the licensee's application(s) for criminal history checks, to include the FBI fingerprint record.

* * * * *

(f) * * *

(5) The licensee shall retain all fingerprint and criminal history records received from the FBI, or a copy if the individual's file has been transferred, on an individual (including data indicating no record) for 1 year after termination or denial of unescorted access to the nuclear power facility or access to Safeguards Information.

161. In § 73.72, paragraphs (a)(1), (a)(4), and (a)(5) are revised to read as follows:

§ 73.72 Requirement for advance notice of shipment of formula quantities of strategic special nuclear material, special nuclear material of moderate strategic significance, or irradiated reactor fuel.

(a) * * *

(1) Notify in writing the Director, Division of Nuclear Security, Office of Nuclear Security and Incident Response, using any appropriate method listed in § 73.4. Classified notifications shall be sent to the NRC headquarters classified mailing address listed in appendix A to this part.

* * * * *

(4) The NRC Headquarters Operations Center shall be notified by telephone at least 2 days before commencement of the shipment at the phone numbers listed in appendix A to this part. Classified notifications shall be made by secure telephone.

(5) The NRC Headquarters Operations Center shall be notified by telephone of schedule changes greater than ± 6 hours at the numbers listed in appendix A to this part. Classified notifications shall be made by secure telephone.

* * * * *

162. In § 73.73, paragraphs (a)(1) and (b) are revised to read as follows:

§ 73.73 Requirement for advance notice and protection of export shipments of special nuclear material of low strategic significance.

(a) * * *

(1) Notify in writing the Director, Division of Nuclear Security, Office of Nuclear Security and Incident Response, using any appropriate method listed in § 73.4;

* * * * *

(b) A licensee who needs to amend a written advance notification required by paragraph (a) of this section may notify the NRC Headquarters Operations Center by telephone at the numbers listed in appendix A to this part.

163. In § 73.74, paragraphs (a)(1) and (b) are revised to read as follows:

§ 73.74 Requirement for advance notice and protection of import shipments of nuclear material from countries that are not party to the Convention on the Physical Protection of Nuclear Material.

(a) * * *

(1) Notify in writing the Director, Division of Nuclear Security, Office of Nuclear Security and Incident Response, using any appropriate method listed in § 73.4;

* * * * *

(b) A licensee who needs to amend a written advance notification required by paragraph (a) of this section may notify the NRC Headquarters Operations Center by telephone at the numbers listed in appendix A to this part.

* * * * *

164. Appendix A to part 73 is revised to read as follows:

Appendix A to Part 73—U.S. Nuclear Regulatory Commission Offices and Classified Mailing Addresses

| Address | Telephone (24 hour) | E-Mail
NRC Headquarters Operations Center | USNRC, Division of Incident Response Operations, Washington, DC 20555-0001 | (301) 816-5100, (301) 951-0550, (301) 816-5151 (fax) | H001@nrc.gov
Region I: Connecticut, Delaware, District of Columbia, Maine, Maryland, Massachusetts, New Hampshire, New Jersey, New York, Pennsylvania, Rhode Island, and Vermont | USNRC, Region I, 475 Allendale Road, King of Prussia, PA 19406-1415 | (610) 337-5000, (800) 432-1156, TDD: (301) 415-5575 | RidsRgn1MailCenter@nrc.gov
Region II: Alabama, Florida, Georgia, Kentucky, Mississippi, North Carolina, Puerto Rico, South Carolina, Tennessee, Virginia, Virgin Islands, and West Virginia | USNRC, Region II, Sam Nunn Atlanta Federal Center, Suite 23T85, 61 Forsyth Street, SW, Atlanta, GA 30303-8931 | (404) 562-4400, (800) 877-8510, TDD: (301) 415-5575 | RidsRgn2Mail Center@nrc.gov
Region III: Illinois, Indiana, Iowa, Michigan, Minnesota, Missouri, Ohio and Wisconsin | USNRC, Region III, 801 Warrenville Road, Lisle, IL 60532-4351 | (630) 829-9500, (800) 522-3025, TDD: (301) 415-5575 | RidsRgn3MailCenter@nrc.gov
Region IV: Alaska, Arizona, Arkansas, California, Colorado, Hawaii, Idaho, Kansas, Louisiana, Montana, Nebraska, Nevada, New Mexico, North Dakota, Oklahoma, Oregon, South Dakota, Texas, Utah, Washington, Wyoming, and the U.S. territories and possessions in the Pacific | USNRC, Region IV, 611 Ryan Plaza Drive, Suite 400, Arlington, TX 76011-4005 | (817) 860-8100, (800) 952-9677, TDD: (301) 415-5575 | RidsRgn4MailCenter@nrc.gov

Classified Mailing Addresses
| Address
NRC Headquarters | U.S. NRC, Caller Box 2500, Rockville, MD 20852.
Region I | U.S. NRC, 475 Allendale Road, King of Prussia, PA 19406.
Region II | U.S. NRC, Region II, P.O. Box 2257, Atlanta, GA 30303
Region III | U.S. NRC, Region III, 801 Warrenville Road, Lisle, IL 60532-4351.
Region IV | U.S. NRC, Region IV, 611 Ryan Plaza Drive, Suite 4000, Arlington, TX 76011.

I. Classified mail shall be transmitted in accordance with § 95.39 of this chapter to the appropriate NRC classified mailing address listed in this appendix.

II. Classified documents may be hand delivered to the NRC to the appropriate NRC street address listed in this appendix. Hand delivered classified documents shall be transmitted in accordance with § 95.39 of this chapter.

PART 74—MATERIAL CONTROL AND ACCOUNTING OF SPECIAL NUCLEAR MATERIAL

165. The authority citation for part 74 is revised to read as follows:

Authority: Secs. 53, 57, 161, 182, 183, 68 Stat. 930, 932, 948, 953, 954, as amended, sec. 234, 83 Stat. 444, as amended, sec. 1701, 106 Stat. 2951, 2952, 2953 (42 U.S.C. 2073, 2077, 2201, 2232, 2233, 2282, 2297f); secs. 201, as amended, 202, 206, 88 Stat. 1242, as amended, 1244, 1246 (42 U.S.C. 5841, 5842, 5846); sec. 1704, 112 Stat. 2750 (44 U.S.C. 3504 note).

166. In § 74.6, paragraphs (a) and (b) are revised and paragraph (c) is added to read as follows:

§ 74.6 Communications.

* * * * *

(a) By mail addressed to: ATTN: Document Control Desk, Director of Nuclear Material Safety and Safeguards, U.S. Nuclear Regulatory Commission, Washington, DC 20555-0001.

(b) By hand delivery to the NRC's offices at 11555 Rockville Pike, Rockville, Maryland.

(c) Where practicable, by electronic submission, for example, via Electronic Information Exchange, or CD-ROM. Electronic submissions must be made in a manner that enables the NRC to receive, read, authenticate, distribute, and archive the submission, and process and retrieve it a single page at a time. Detailed guidance on making electronic submissions can be obtained by visiting the NRC's Web site at http://www.nrc.gov/site-help/eie.html, by calling (301) 415-6030, by e-mail to EIE@nrc.gov, or by writing the Office of the Chief Information Officer, U.S. Nuclear Regulatory Commission, Washington, DC 20555-0001. The guidance discusses, among other topics, the formats the NRC can accept, the use of electronic signatures, and the treatment of nonpublic information.

167. In § 74.15, the third sentence in paragraph (a) is revised to read as follows:

§ 74.15 Nuclear material transfer reports.

(a) * * * Copies of these instructions (NUREG/BR-0006 and NMMSS Report D-24 “Personal Computer Data Input for NRC Licensees”) may be obtained either by writing the U.S. Nuclear Regulatory Commission, Division of Fuel Cycle Safety and Safeguards, Washington, DC 20555-0001, by e-mail to RidsNmssFcss@nrc.gov, or by calling (301) 415-7213. * * *

* * * * *

168. In § 74.17, the last sentences of paragraphs (a) and (b) are revised to read as follows:

§ 74.17 Special nuclear material physical inventory summary report.

(a) * * * Using an appropriate method listed in § 74.6, the licensee shall report the inventory results by plant and total facility to the Director of the NRC's Office of Nuclear Material Safety and Safeguards.

(b) * * * Using an appropriate method listed in § 74.6, the licensee shall report the inventory results by plant and total facility to the Director of the NRC's Office of Nuclear Material Safety and Safeguards.

* * * * *

169. In § 74.59, paragraph (f)(1)(iii) is revised to read as follows:

§ 74.59 Quality assurance and accounting requirements.

* * * * *

(f) * * *

(1) * * *

(iii) Investigate and report, by an appropriate method listed in § 74.6, to the Director, Office of Nuclear Material Safety and Safeguards, any difference that exceeds three times the standard deviation determined from the sequential analysis;

* * * * *

PART 75—SAFEGUARDS ON NUCLEAR MATERIAL—IMPLEMENTATION OF US/IAEA AGREEMENT

170. The authority citation for part 75 is revised to read as follows:

Authority: Secs. 53, 63, 103, 104, 122, 161, 68 Stat. 930, 932, 936, 937, 939, 948, as amended (42 U.S.C. 2073, 2093, 2133, 2134, 2152, 2201); sec. 201, 88 Stat. 1242, as amended (42 U.S.C. 5841); sec. 1704, 112 Stat. 2750 (44 U.S.C. 3504 note).

Section 75.4 also issued under secs. 135, 141, Pub. L. 97-425, 96 Stat. 2232, 2241 (42 U.S.C. 10155, 10161).

171. In § 75.6, paragraph (c) is revised to read as follows:

§ 75.6 Maintenance of records and delivery of information, reports, and other communications.

* * * * *

(c) Except where otherwise specified, all communications and reports concerning the regulations in this part and applications filed under them should be sent by mail addressed: ATTN: Document Control Desk; Director, Office of Nuclear Reactor Regulation (or Director, Nuclear Materials Safety and Safeguards, as appropriate), U.S. Nuclear Regulatory Commission, Washington, DC 20555-0001; by hand delivery to the NRC's offices at 11555 Rockville Pike, Rockville, Maryland; or, where practicable, by electronic submission, for example, via Electronic Information Exchange, or CD-ROM. Electronic submissions must be made in a manner that enables the NRC to receive, read, authenticate, distribute, and archive the submission, and process and retrieve it a single page at a time. Detailed guidance on making electronic submissions can be obtained by visiting the NRC's Web site at http://www.nrc.gov/site-help/eie.html, by calling (301) 415-6030, by e-mail to EIE@nrc.gov, or by writing the Office of the Chief Information Officer, U.S. Nuclear Regulatory Commission, Washington, DC 20555-0001. The guidance discusses, among other topics, the formats the NRC can accept, the use of electronic signatures, and the treatment of nonpublic information.

* * * * *

PART 76—CERTIFICATION OF GASEOUS DIFFUSION PLANTS

172. The authority citation for part 76 is revised to read as follows:

Authority: Sec. 161, 68 Stat. 948, as amended, secs. 1312, 1701, as amended, 106 Stat. 2932, 2951, 2952, 2953, 110 Stat. 1321-349 (42 U.S.C. 2201, 2297b-11, 2297f); secs. 201, as amended, 204, 206, 88 Stat. 1244, 1245, 1246 (42 U.S.C. 5841, 5842, 5845, 5846). Sec. 234(a), 83 Stat. 444, as amended by Pub. L. 104-134, 110 Stat. 1321, 1321-349 (42 U.S.C. 2243(a)); sec. 1704, 112 Stat. 2750 (44 U.S.C. 3504 note).

Section 76.7 also issued under Pub. L. 95-601. sec. 10, 92 Stat 2951 (42 U.S.C. 5851). Section 76.22 is also issued under sec.193(f), as amended, 104 Stat. 2835, as amended by Pub. L. 104-134, 110 Stat. 1321, 1321-349 (42 U.S.C. 2243(f)). Section 76.35(j) also issued under sec. 122, 68 Stat. 939 (42 U.S.C. 2152).

173. Section 76.5 is revised to read as follows:

§ 76.5 Communications.

Except where otherwise specified, all communications and reports concerning the regulations in this part and applications filed under them should be sent as follows:

(a) By mail addressed to: ATTN: Document Control Desk, Director, Division of Nuclear Security, Office of Nuclear Security and Incident Response, U.S Nuclear Regulatory Commission, Washington, DC 20555-0001;

(b) By hand delivery to the NRC's offices at 11555 Rockville Pike, Rockville, Maryland; or

(c) Where practicable, by electronic submission, for example, Electronic Information Exchange, or CD-ROM. Electronic submissions must be made in a manner that enables the NRC to receive, read, authenticate, distribute, and archive the submission, and process and retrieve it a single page at a time. Detailed guidance on making electronic submissions can be obtained by visiting the NRC's Web site at http://www.nrc.gov/site-help/eie.html, by calling (301) 415-6030, by e-mail to EIE@nrc.gov, or by writing the Office of the Chief Information Officer, U.S. Nuclear Regulatory Commission, Washington, DC 20555-0001. The guidance discusses, among other topics, the formats the NRC can accept, the use of electronic signatures, and the treatment of nonpublic information.

(d) Classified communications shall be transmitted in accordance with § 95.39 of this chapter to the NRC Headquarters' classified mailing address listed in appendix A to part 73 of this chapter or delivered by hand in accordance with § 95.39 of this chapter to the NRC Headquarters' street address listed in appendix A to part 73 of this chapter.

174. In § 76.7, paragraph (e)(3) is revised to read as follows:

§ 76.7 Employee protection.

* * * * *

(e) * * *

(3) Copies of NRC Form 3 may be obtained by writing to the NRC Region III Office listed in appendix D to part 20 of this chapter, by calling (301) 415-5877, via e-mail to forms@nrc.gov, or by accessing the NRC Website at http://www.nrc.gov and selecting forms from the index found on the home page.

* * * * *

175. In § 76.33, paragraph (a)(1) is revised to read as follows:

§ 76.33 Application procedures.

(a) * * *

(1) An application for a certificate of compliance must be tendered by filing the application with the Director of the NRC's Office of Nuclear Material Safety and Safeguards, with copies sent to the NRC Region III Office and appropriate resident inspector, in accordance with § 76.5. If the application is to be submitted electronically, see Guidance for Electronic Submission to the Commission at http://www.nrc.gov/site-help/eie.html.

* * * * *

176. In § 76.120, the third sentence of the introductory text of paragraph (d)(2) is revised to read as follows:

§ 76.120 Reporting requirements.

* * * * *

(d) * * *

(2) * * * These written reports must be sent to the NRC by an appropriate method listed in § 76.5. * * *

* * * * *

PART 81—STANDARD SPECIFICATIONS FOR THE GRANTING OF PATENT LICENSES

177. The authority citation for part 81 is revised to read as follows:

Authority: Sec. 156, 161, 68 Stat. 947, 948, as amended (42 U.S.C. 2186, 2201); sec. 201, 88 Stat. 1242, as amended (42 U.S.C. 5841); sec. 1704, 112 Stat. 2750 (44 U.S.C. 3504 note).

178. Section 81.3 is revised to read as follows:

§ 81.3 Communications.

All communications concerning the regulations in this part, including applications for licenses, should be sent to the NRC either by mail addressed to the U.S. Nuclear Regulatory Commission, Washington, DC 20555-0001; by hand delivery to the NRC's offices at 11555 Rockville Pike, Rockville, Maryland; or, where practicable, by electronic submission, for example, via Electronic Information Exchange, or CD-ROM. Electronic submissions must be made in a manner that enables the NRC to receive, read, authenticate, distribute, and archive the submission, and process and retrieve it a single page at a time. Detailed guidance on making electronic submissions can be obtained by visiting the NRC's Web site at http://www.nrc.gov/site-help/eie.html, by calling (301) 415-6030, by e-mail to EIE@nrc.gov, or by writing the Office of the Chief Information Officer, U.S. Nuclear Regulatory Commission, Washington, DC 20555-0001. The guidance discusses, among other topics, the formats the NRC can accept, the use of electronic signatures, and the treatment of nonpublic information.

PART 95—FACILITY SECURITY CLEARANCE AND SAFEGUARDING OF NATIONAL SECURITY INFORMATION AND RESTRICTED DATA

179. The authority citation for part 95 is revised to read as follows:

Authority: Secs. 145, 161, 193, 68 Stat. 942, 948, as amended (42 U.S.C. 2165, 2201); sec. 201, 88 Stat. 1242, as amended (42 U.S.C. 5841); sec. 1704, 112 Stat. 2750 (44 U.S.C. 3504 note); E.O. 10865, as amended, 3 CFR 1959-1963 Comp., p. 398 (50 U.S.C. 401, note); E.O. 12829, 3 CFR, 1993 Comp., p. 570; E.O. 12958, as amended, 3 CFR, 1995 Comp., p. 333; E.O. 12968, 3 CFR, 1995 Comp., p. 391.

180. Section 95.9 is revised to read as follows:

§ 95.9 Communications.

Except where otherwise specified, all communications and reports concerning the regulations in this part should be submitted as follows:

(a) By mail addressed to: ATTN: Document Control Desk, Director, Division of Nuclear Security, Office of Nuclear Security and Incident Response, U.S Nuclear Regulatory Commission, Washington, DC 20555-0001;

(b) By hand delivery to the NRC's offices at 11555 Rockville Pike, Rockville, Maryland; or

(c) Where practicable, by electronic submission, for example, Electronic Information Exchange, or CD-ROM. Electronic submissions must be made in a manner that enables the NRC to receive, read, authenticate, distribute, and archive the submission, and process and retrieve it a single page at a time. Detailed guidance on making electronic submissions can be obtained by visiting the NRC's Web site at http://www.nrc.gov/site-help/eie.html, by calling (301) 415-6030, by e-mail to EIE@nrc.gov, or by writing the Office of the Chief Information Officer, U.S. Nuclear Regulatory Commission, Washington, DC 20555-0001. The guidance discusses, among other topics, the formats the NRC can accept, the use of electronic signatures, and the treatment of nonpublic information.

(d) Classified communications shall be transmitted in accordance with § 95.39 of this chapter to the NRC Headquarters' classified mailing address listed in appendix A to part 73 of this chapter or delivered by hand in accordance with § 95.39 of this chapter to the NRC Headquarters' street address listed in appendix A to part 73 of this chapter.

181. In § 95.19, the second sentence of the introductory text of paragraph (a) is revised to read as follows:

§ 95.19 Changes to security practices and procedures.

(a) * * * A written description of the proposed change must be furnished to the CSA and the NRC Regional Administrator of the cognizant Regional Office listed in appendix A to part 73 of this chapter, and, if the NRC is not the CSA, also to the Director, Division of Nuclear Security, Office of Nuclear Security and Incident Response; the communications to NRC personnel should be by an appropriate method listed in § 95.9. * * *

* * * * *

182. In § 95.45, the second sentence of paragraph (a) is revised to read as follows:

§ 95.45 Changes in classification.

(a) * * * Requests for downgrading or declassifying any NRC classified information should be forwarded to the NRC's Division of Nuclear Security, Nuclear Security and Incident Response, using an appropriate method listed in § 95.9. * * *

* * * * *

PART 100—REACTOR SITE CRITERIA

183. The authority citation for part 100 is revised to read as follows:

Authority: Secs. 103, 104, 161, 182, 68 Stat. 936, 937, 948, 953, as amended (42 U.S.C. 2133, 2134, 2201, 2232); sec. 201, as amended, 202, 88 Stat. 1242, as amended, 1244 (42 U.S.C. 5841, 5842); sec. 1704, 112 Stat. 2750 (44 U.S.C. 3504 note).

184. Section 100.4 is revised to read as follows:

§ 100.4 Communications.

Except where otherwise specified, all communications and reports concerning the regulations in this part and applications filed under them should be sent by mail addressed to: ATTN: Document Control Desk, Director, Office of Nuclear Reactor Regulation, U.S. Nuclear Regulatory Commission, Washington, DC 20555-0001; by hand delivery to the NRC's offices at 11555 Rockville Pike, Rockville, Maryland; or, where practicable, by electronic submission, for example, via Electronic Information Exchange, or CD-ROM. Electronic submissions must be made in a manner that enables the NRC to receive, read, authenticate, distribute, and archive the submission, and process and retrieve it a single page at a time. Detailed guidance on making electronic submissions can be obtained by visiting the NRC's Web site at http://www.nrc.gov/site-help/eie.html, by calling (301) 415-6030, by e-mail to EIE@nrc.gov, or by writing the Office of the Chief Information Officer, U.S. Nuclear Regulatory Commission, Washington, DC 20555-0001. The guidance discusses, among other topics, the formats the NRC can accept, the use of electronic signatures, and the treatment of nonpublic information. Copies should be sent to the appropriate Regional Office and Resident Inspector.

PART 110—EXPORT AND IMPORT OF NUCLEAR EQUIPMENT AND MATERIAL

185. The authority citation for part 110 is revised to read as follows:

Authority: Secs. 51, 53, 54, 57, 63, 64, 65, 81, 82, 103, 104, 109, 111, 126, 127, 128, 129, 161, 181, 182, 183, 187, 189, 68 Stat. 929, 930, 931, 932, 933, 936, 937, 948, 953, 954, 955, 956, as amended (42 U.S.C. 2071, 2073, 2074, 2077, 2092-2095, 2111, 2112, 2133, 2134, 2139, 2139a, 2141, 2154-2158, 2201, 2231-2233, 2237, 2239); sec. 201, 88 Stat. 1242, as amended (42 U.S.C. 5841); sec. 5, Pub. L. 101-575, 104 Stat. 2835 (42 U.S.C. 2243); sec. 1704, 112 Stat. 2750 (44 U.S.C. 3504 note).

Sections 110.1(b)(2) and 110.1(b)(3) also issued under Pub. L. 96-92, 93 Stat. 710 (22 U.S.C. 2403). Section 110.11 also issued under sec. 122, 68 Stat. 939 (42 U.S.C. 2152) and secs. 54c and 57d, 88 Stat. 473, 475 (42 U.S.C. 2074). Section 110.27 also issued under sec. 309(a), Pub. L. 99-440. Section 110.50(b)(3) also issued under sec. 123, 92 Stat. 142 (42 U.S.C. 2153). Section 110.51 also issued under sec. 184, 68 Stat. 954, as amended (42 U.S.C. 2234). Section 110.52 also issued under sec. 186, 68 Stat. 955 (42 U.S.C. 2236). Sections 110.80-110.113 also issued under 5 U.S.C. 552, 554. Sections 110.130-110.135 also issued under 5 U.S.C. 553. Sections 110.2 and 110.42(a)(9) also issued under sec. 903, Pub. L. 102-496 (42 U.S.C. 2151 et seq.).

186. Section 110.4 is revised to read as follows:

§ 110.4 Communications.

Except where otherwise specified in this part, all communications and reports concerning the regulations in this part should be addressed to the Deputy Director of the NRC's Office of International Programs, either by telephone to (301) 415-2344; by mail to the U.S. Nuclear Regulatory Commission, Washington, DC 20555-0001; by hand delivery to the NRC's offices at 11555 Rockville Pike, Rockville, Maryland; or, where practicable, by electronic submission, for example, via Electronic Information Exchange, or CD-ROM. Electronic submissions must be made in a manner that enables the NRC to receive, read, authenticate, distribute, and archive the submission, and process and retrieve it a single page at a time. Detailed guidance on making electronic submissions can be obtained by visiting the NRC's Web site at http://www.nrc.gov/site-help/eie.html, by calling (301) 415-6030, by e-mail to EIE@nrc.gov, or by writing the Office of the Chief Information Officer, U.S. Nuclear Regulatory Commission, Washington, DC 20555-0001. The guidance discusses, among other topics, the formats the NRC can accept, the use of electronic signatures, and the treatment of nonpublic information.

187. In § 110.31, paragraph (a) is revised to read as follows:

§ 110.31 Application for a specific license.

(a) A person shall file an application for a specific license to export or import with the Deputy Director of the NRC's Office of International Programs, using an appropriate method listed in § 110.4.

* * * * *

188. In § 110.131, paragraph (a) is revised to read as follows:

§ 110.131 Petition for rulemaking.

(a) A petition for rulemaking should be addressed to the Secretary of the Commission, for the attention of the Secretary's Rulemakings and Adjudications Staff. The petition should be sent using an appropriate method listed in § 110.4.

* * * * *

PART 140—FINANCIAL PROTECTION REQUIREMENTS AND INDEMNITY AGREEMENTS

189. The authority citation for part 140 is revised to read as follows:

Authority: Secs. 161, 170, 68 Stat. 948, 71 Stat. 576, as amended (42 U.S.C. 2201, 2210); secs. 201, as amended, 202, 88 Stat. 1242, as amended, 1244 (42 U.S.C. 5841, 5842); sec. 1704, 112 Stat. 2750 (44 U.S.C. 3504 note).

190. § 140.5 is revised to read as follows:

§ 140.5 Communications.

Except where otherwise specified, all communications and reports concerning the regulations in this part and applications filed under them should be sent by mail addressed to: ATTN: Document Control Desk, Director, Office of Nuclear Reactor Regulation (or Director, Office of Nuclear Material Safety and Safeguards, as appropriate), U.S. Nuclear Regulatory Commission, Washington, DC 20555-0001; by hand delivery to the NRC's offices at 11555 Rockville Pike, Rockville, Maryland; or, where practicable, by electronic submission, for example, via Electronic Information Exchange, or CD-ROM. Electronic submissions must be made in a manner that enables the NRC to receive, read, authenticate, distribute, and archive the submission, and process and retrieve it a single page at a time. Detailed guidance on making electronic submissions can be obtained by visiting the NRC's Web site at http://www.nrc.gov/site-help/eie.html, by calling (301) 415-6030, by e-mail to EIE@nrc.gov, or by writing the Office of the Chief Information Officer, U.S. Nuclear Regulatory Commission, Washington, DC 20555-0001. The guidance discusses, among other topics, the formats the NRC can accept, the use of electronic signatures, and the treatment of nonpublic information.

191. In § 140.6, the first sentence of paragraph (a) is revised to read as follows:

§ 140.6 Reports.

(a) In the event of bodily injury or property damage arising out of or in connection with the possession or use of the radioactive material at the location or in the course of transportation, or in the event any claim is made therefor, written notice containing particulars sufficient to identify the licensee and reasonably obtainable information with respect to the time, place, and circumstances thereof, or to the nature of the claim, shall be furnished by or for the licensee to the Director of the Office of Nuclear Reactor Regulation, or the Director of the Office of Nuclear Material Safety and Safeguards, as appropriate, using an appropriate method listed in § 140.5, but in any case as promptly as practicable. * * *

* * * * *

PART 150—EXEMPTIONS AND CONTINUED REGULATORY AUTHORITY IN AGREEMENT STATES AND IN OFFSHORE WATERS UNDER SECTION 274

192. The authority citation for part 150 is revised to read as follows:

Authority: Sec. 161, 68 Stat. 948, as amended, sec. 274, 73 Stat. 688 (42 U.S.C. 2201, 2021); sec. 201, 88 Stat. 1242, as amended (42 U.S.C. 5841); sec. 1704, 112 Stat. 2750 (44 U.S.C. 3504 note).

Sections 150.3, 150.15, 150.15a, 150.31, 150.32 also issued under secs. 11e(2), 81, 68 Stat. 923, 935, as amended, secs. 83, 84, 92 Stat. 3033, 3039 (42 U.S.C. 2014e(2), 2111, 2113, 2114). Section 150.14 also issued under sec. 53, 68 Stat. 930, as amended (42 U.S.C. 2073). Section 150.15 also issued under secs. 135, 141, Pub. L. 97-425, 96 Stat. 2232, 2241 (42 U.S.C. 10155, 10161). Section 150.17a also issued under sec. 122, 68 Stat. 939 (42 U.S.C. 2152). Section 150.30 also issued under sec. 234, 83 Stat. 444 (42 U.S.C. 2282).

193. Section 150.4 is revised to read as follows:

§ 150.4 Communications.

Except where otherwise specified in this part, all communications and reports concerning the regulations in this part should be sent by mail addressed: ATTN: Document Control Desk, Director, Office of Nuclear Material Safety and Safeguards, and sent either by mail to the U.S. Nuclear Regulatory Commission, Washington, DC 20555-0001; by hand delivery to the NRC's offices at 11555 Rockville Pike, Rockville, Maryland; or, where practicable, by electronic submission, for example, via Electronic Information Exchange, or CD-ROM. Electronic submissions must be made in a manner that enables the NRC to receive, read, authenticate, distribute, and archive the submission, and process and retrieve it a single page at a time. Detailed guidance on making electronic submissions can be obtained by visiting the NRC's Web site at http://www.nrc.gov/site-help/eie.html, by calling (301) 415-6030, by e-mail to EIE@nrc.gov, or by writing the Office of the Chief Information Officer, U.S. Nuclear Regulatory Commission, Washington, DC 20555-0001. The guidance discusses, among other topics, the formats the NRC can accept, the use of electronic signatures, and the treatment of nonpublic information.

194. In § 150.16, the fourth sentence of paragraph (a) and paragraph (b)(2) are revised to read as follows:

§ 150.16 Submission to Commission of nuclear material transfer reports.

(a) * * * Copies of these instructions may be obtained either by writing the U.S. Nuclear Regulatory Commission, Division of Fuel Cycle Safety and Safeguards, Washington, DC 20555-0001, by e-mail to RidsNmssFcss@nrc.gov, or by calling (301) 415-7213. * * *

(b) * * *

(2) Within 15 days, the licensee shall follow the initial report with a written report that sets forth the details of the incident. The report must be sent by an appropriate method listed in § 150.4 of this part to the Director of the NRC's Office of Nuclear Material Safety and Safeguards, with a copy to the appropriate NRC Regional Office, shown in appendix A to part 73 of this chapter.

* * * * *

195. In § 150.17, the second sentence of paragraph (a), the last sentence of paragraph (b), and paragraph (c) are revised to read as follows:

§ 150.17 Submission to Commission of source material transfer reports.

(a) * * * Copies of the instructions may be obtained either by writing the U.S. Nuclear Regulatory Commission, Division of Nuclear Security, Office of Nuclear Security and Incident Response, Washington, DC 20555-0001, by e-mail to RidsNsirDns@nrc.gov, or by calling (301) 415-6828. * * *

(b) * * * Copies of the reporting instructions may be obtained by writing the U.S. Nuclear Regulatory Commission, Division of Nuclear Security, Office of Nuclear Security and Incident Response, Washington, DC 20555-0001, by e-mail to RidsNsirDns@nrc.gov, or by calling (301) 415-6828.

(c)(1) Except as specified in paragraph (d) of this section, each licensee who is authorized to possess uranium or thorium pursuant to a specific license shall notify the NRC Headquarters Operations Center by telephone, at the numbers listed in appendix A to part 73 of this chapter, of any incident in which an attempt has been made or is believed to have been made to commit a theft or unlawful diversion of more than 6.8 kilograms (kg) [15 pounds] of such material at any one time or more than 68 kg [150 pounds] of such material in any one calendar year.

(2) The licensee shall notify the NRC as soon as possible, but within 4 hours, of discovery of any incident in which an attempt has been made or is believed to have been made to commit a theft or unlawful diversion of such material.

(3) The initial notification shall be followed within a period of sixty (60) days by a written followup notification submitted in accordance with § 150.4. A copy of the written followup notification shall also be sent to the appropriate NRC Regional Office as shown in appendix A to part 73 of this chapter and to Director, Division of Nuclear Security, Office of Nuclear Security and Incident Response, U.S. Nuclear Regulatory Commission.

(4) Subsequent to the submission of the written followup notification required by this paragraph, the licensee shall promptly update the written followup notification, in accordance with this paragraph, with any substantive additional information, which becomes available to the licensee, concerning an attempted or apparent theft or unlawful diversion of source material.

* * * * *

196. In § 150.19, the second and third sentences of paragraph (c) are revised to read as follows:

§ 150.19 Submission to Commission of tritium reports.

* * * * *

(c) * * * The initial report must be followed within a period of fifteen days by a written report that sets forth the details of the incident and its consequences. The report must be submitted to the Director, Office of Nuclear Material Safety and Safeguards, using an appropriate method listed in § 150.4, with a copy to the appropriate NRC Regional Office as shown in appendix A to part 73 of this chapter. * * *

* * * * *

197. In § 150.20, the first sentence of the introductory text of paragraph (b)(1) and paragraph (b)(1)(iii) are revised to read as follows:

§ 150.20 Recognition of Agreement State licenses.

* * * * *

(b) * * *

(1) Shall, at least 3 days before engaging in each activity for the first time in a calendar year, file a submittal containing an NRC Form 241, “Report of Proposed Activities in Non-Agreement States,” a copy of its Agreement State specific license, and the appropriate fee as prescribed in § 170.31 of this chapter with the Regional Administrator of the U.S. Nuclear Regulatory Commission Regional Office listed on the NRC Form 241 and in appendix D to part 20 of this chapter for the Region in which the Agreement State that issued the license is located. * * *

* * * * *

(iii) Within 3 days after the notification, files an NRC Form 241, a copy of the Agreement State license, and the fee payment.

* * * * *

PART 170—FEES FOR FACILITIES, MATERIALS, IMPORT AND EXPORT LICENSES AND OTHER REGULATORY SERVICES UNDER THE ATOMIC ENERGY ACT OF 1954, AS AMENDED

198. The authority citation for part 170 is revised to read as follows:

Authority: sec. 9701, Pub. L. 97-258, 96 Stat. 1051 (31 U.S.C. 9701); sec. 301, Pub. L. 92-314, 86 Stat. 227 (42 U.S.C. 2201w); sec. 201, Pub. L. 93-438, 88 Stat. 1242, as amended (42 U.S.C. 5841); sec. 205a, Pub. L. 101-576, 104 Stat. 2842, as amended (31 U.S.C. 901, 902); sec. 1704, 112 Stat. 2750 (44 U.S.C. 3504 note).

199. Section 170.5 is revised to read as follows:

§ 170.5 Communications.

All communications concerning the regulations in this part should be addressed to the NRC's Chief Financial Officer, either by mail to the U.S. Nuclear Regulatory Commission, Washington, DC 20555-0001; by hand delivery to the NRC's offices at 11555 Rockville Pike, Rockville, Maryland; or, where practicable, by electronic submission, for example, via Electronic Information Exchange, or CD-ROM. Electronic submissions must be made in a manner that enables the NRC to receive, read, authenticate, distribute, and archive the submission, and process and retrieve it a single page at a time. Detailed guidance on making electronic submissions can be obtained by visiting the NRC's Web site at http://www.nrc.gov/site-help/eie.html, by calling (301) 415-6030, by e-mail to EIE@nrc.gov, or by writing the Office of the Chief Information Officer, U.S. Nuclear Regulatory Commission, Washington, DC 20555-0001. The guidance discusses, among other topics, the formats the NRC can accept, the use of electronic signatures, and the treatment of nonpublic information.

PART 171—ANNUAL FEES FOR REACTOR LICENSES AND FUEL CYCLE LICENSES AND MATERIALS LICENSES, INCLUDING HOLDERS OF CERTIFICATES OF COMPLIANCE, REGISTRATIONS, AND QUALITY ASSURANCE PROGRAM APPROVALS AND GOVERNMENT AGENCIES LICENSED BY THE NRC

200. The authority citation for part 171 is revised to read as follows:

Authority: Sec. 7601, Pub. L. 99-272, 100 Stat. 146, as amended by sec. 5601, Pub. L. 100-203, 101 Stat. 1330, as amended by sec. 3201, Pub. L. 101-239, 103 Stat. 2132, as amended by sec. 6101, Pub. L. 101-508, 104 Stat. 1388, as amended by sec. 2903a, Pub. L. 102-486, 106 Stat. 3125 (42 U.S.C. 2213, 2214); sec. 301, Pub. L. 92-314, 86 Stat. 227 (42 U.S.C. 2201w); sec. 201, Pub. L. 93-438, 88 Stat. 1242, as amended (42 U.S.C. 5841); sec. 1704, 112 Stat. 2750 (44 U.S.C. 3504 note).

201. Section 171.9 is revised to read as follows:

§ 171.9 Communications.

All communications concerning the regulations in this part should be addressed to the NRC's Chief Financial Officer, either by mail to the U.S. Nuclear Regulatory Commission, Washington, DC 20555-0001; by hand delivery to the NRC's offices at 11555 Rockville Pike, Rockville, Maryland; or, where practicable, by electronic submission, for example, via Electronic Information Exchange, or CD-ROM. Electronic submissions must be made in a manner that enables the NRC to receive, read, authenticate, distribute, and archive the submission, and process and retrieve it a single page at a time. Detailed guidance on making electronic submissions can be obtained by visiting the NRC's Web site at http://www.nrc.gov/site-help/eie.html, by calling (301) 415-6030, by e-mail to EIE@nrc.gov, or by writing the Office of the Chief Information Officer, U.S. Nuclear Regulatory Commission, Washington, DC 20555-0001. The guidance discusses, among other topics, the formats the NRC can accept, the use of electronic signatures, and the treatment of nonpublic information.

Dated at Rockville, Maryland, this 30th day of September, 2003.
For the Nuclear Regulatory Commission.
Annette Vietti-Cook,
Secretary of the Commission.

Note: This appendix will not appear in the Code of Federal Regulations.

Appendix A—United States Nuclear Regulatory Commission (NRC) Guidance for Electronic Submissions to the Commission

Index

1.0 Introduction

1.1 Background

1.2 Scope

1.3 Applicable Transactions

1.3.1 Exceptions to Electronic Submission

1.3.2 Electronic Forms and Payments

1.3.3 Submissions Requiring Oath or Affirmation

1.3.4 10 CFR Part 2 Submissions

1.3.5 Freedom of Information Act and Privacy Act Requests

2.0 Parameters for Electronic Files Submitted to the NRC

2.1 File Formats

2.2 Naming Conventions

2.3 File Size Limitations

2.4 Security/Access Settings

2.5 Resolution

2.6 Settings for Creating PDF Formatted Text and Graphic Files

2.7 Use of Color

2.8 Files with Special Printing Requirements

2.9 File Linkages

2.10 Viruses

2.11 Macros

2.12 Copyrighted information

2.13 Copies

2.14 Segmentation of Large Documents

2.15 Sensitive or Non-Public Documents

3.0 Guidance for EIE Submissions

3.1 Who Can Participate

3.2 What Can Be Submitted

3.3 How to Register

3.4 What is Needed to Participate

3.5 How to Obtain a Digital Signature Certificate

3.6 How to Obtain Software Plug-ins

3.7 How to Submit Documents

3.8 Where to Submit Documents

3.9 Sensitive or Non-Public Documents

3.10 Additional User Assistance (references and contact information)

4.0 Guidance for CD-ROM Submissions

4.1 Who Can Participate

4.2 What Can be Submitted

4.3 How to Submit CD-ROMs to the NRC

4.3.1 Sensitive or Non-Public Documents

4.3.2 Oath or Affirmation

4.3.3 Living Documents

4.3.4 CD-ROM File Format

4.3.5 Packaging/Labeling

4.3.6 Copies

4.3.7 Rejection of Submissions

4.4 Where to Submit the CD-ROMs

4.5 Additional User Assistance (references and contact information)

5.0 E-mail Submissions

5.1 Who Can Participate

5.2 What Can be Submitted

5.3 Rejection of Submissions

5.4 How to Send E-mail

5.5 Where to Submit E-mail

6.0 Facsimile Submissions

6.1 Who Can Participate

6.2 What Can be Submitted

6.3 How to Send Facsimiles (Faxes)

6.4 Where to Submit Facsimiles (Faxes)

6.5 Facsimile Locations and User Assistance

7.0 Additional Resources

7.1 User Assistance

7.2 References

1.0 Introduction

1.1 Background

On October 10, 2003, the Nuclear Regulatory Commission (NRC) promulgated a final rule on electronic submission of information to the agency. This rule modified many NRC regulations to explicitly authorize electronic communications with the agency. The final rule stated that the NRC would issue specific guidance on acceptable procedures for electronic submissions. That guidance is contained in this document. This guidance document is the controlling source of information on electronic submissions to the NRC and supersedes NRC Regulatory Issue Summary 2001-05, Guidance on Submitting Documents to the NRC by Electronic Information Exchange or on CD-ROM, and the August 10, 2001, letter issued to certain fuel cycle facilities extending to them the option of electronic submissions in many instances. The NRC plans to update this guidance periodically to reflect changes in technology and agency experience by posting the latest version of the document on NRC's Web site at http://www.nrc.gov. While the Commission encourages the submission of electronic documents, submission of paper documents remains acceptable.

1.2 Scope

This guidance document governs the electronic submission of documents to the NRC. It includes the required procedures for corresponding electronically with the NRC via the Internet using Electronic Information Exchange (EIE), by CD-ROM, or by e-mail. It also includes procedures for corresponding by facsimile (fax). It does not address outgoing NRC communications.

NRC's Electronic Information Exchange (EIE) allows NRC to exchange information related to official agency business with its customers and other Federal agencies across the Internet. The EIE system uses a public key infrastructure and digital signaturing technology to authenticate documents and validate the identity of the person submitting the information. That is, the system ensures that the exchanged information is secure and that the person submitting the material is, in fact, who is indicated. It requires the use of digital signatures and certain software plug-ins. Procedures for acquiring a digital signature for communicating with the NRC via EIE can be found at Section 3.5, and procedures for acquiring the required software can be found at Section 3.6.

The NRC has enhanced its EIE system capabilities with a robust engine for facilitating the transmission process. The NRC encourages its user community to use EIE and evaluate its enhanced capabilities.

1.3 Applicable Transactions

Documents or other information submitted under oath or affirmation, or other documents where secure transfer is either required or appropriate, should be submitted over the Internet using EIE or submitted on CD-ROM. While e-mail and facsimiles are not appropriate for most submissions required by NRC regulations, they may be used for certain other correspondence and communications with the NRC, such as rulemaking petitions and comments on rulemaking proceedings, communications with States and other Federal agencies, requests for enforcement actions under 10 CFR 2.206, and Freedom of Information Act (FOIA) requests and appeals, but not for information covered under the Privacy Act.

E-mail may be addressed to either specific individuals named as contacts in Federal Register Notices or other agency communications, or to the office specified in the regulation or communication specific to the document(s) being submitted; to addresses the NRC Web site provides for individual program offices or specific agency functions or services; or to the Office of Public Affairs. Individual program offices may be contacted through the NRC Web site at http://www.nrc.gov by selecting specific contact pages from “Contact Us” on the home page. The Office of Public Affairs may be reached through the “Contact Us” on the home page or at OPA@nrc.gov (use upper case where indicated). The sender will not receive an e-mail confirmation of receipt of the submission except for those communications using EIE.

1.3.1 Exceptions to Electronic Submission

A. All communications with the NRC may be submitted electronically via the Internet using Electronic Information Exchange except for the following:

1. Classified Information (i.e., National Security Information and Restricted Data), and Safeguards Information. This information may only be submitted electronically on CD-ROM.

2. “Immediate” or “prompt” notifications to the NRC that NRC regulations require be made by telephone or telefax up to one week before or after an event (e.g., 10 CFR 30.50 or 30.55(c)).

3. Notice of filing of bankruptcy petition, whether voluntary or involuntary (e.g., 10 CFR 30.34(h)(1)).

4. Hearing requests, and documents pertaining to hearings or associated appeals, including, but not limited to, those associated with hearings conducted under 10 CFR parts 2, 4, 10, 12, 13, 14, 16, 19, 25, 76, 81, 110, 140, and 150. Separate rules or guidance addressing procedures for electronic communications in hearings will be issued in the future for public comment. (Nothing in this guidance document precludes presiding officers from their current practice of authorizing electronic communications on a case-by-case basis.)

5. Documents served on the NRC as a participant in Federal Court proceedings or in non-NRC administrative proceedings (such as administrative proceedings before the Merit Systems Protection Board, unless electronic submission is authorized by rule or order issued by a Federal Court or Agency).

6. NRC contractor proposals or invoices submitted in response to specific contractual requirements. (Because Federal Acquisition Regulation guidance as contained in Section 30 of the Office of Federal Procurement Policy Act [41 U.S.C. 426] allows the Federal Government to use electronic commerce whenever practical, guidance for electronic submittal of proposals and invoices will be addressed in individual procurements. Further guidance for submission of these documents will be issued at a later date.)

7. Financial assurance instruments to meet decommissioning cost requirements and prescribed by regulation at 10 CFR 30.35(e) and (f); 10 CFR 40.36(d) and (e); and 10 CFR 70.25(e) and (f) (including surety bonds, letters of credit, lines of credit, and insurance).

8. Documents with special printing requirements. (See section 2.8). This information may only be submitted electronically on CD-ROM.

9. Segmented documents or files larger than 50 megabytes (MB). (See section 2.14.) This information may only be submitted electronically on CD-ROM.

B. All communications with the NRC may be submitted electronically on CD-ROM except for the following:

1. “Immediate” or “prompt” notifications to the NRC that NRC regulations require be made by telephone or telefax up to one week before or after an event (e.g., 10 CFR 30.50 or 30.55(c)).

2. Notice of filing of bankruptcy petition, whether voluntary or involuntary (e.g., 10 CFR 30.34(h)(1)).

3. Hearing requests, and documents pertaining to hearings or associated appeals, including, but not limited to, those associated with hearings conducted under 10 CFR parts 2, 4, 10, 12, 13, 14, 16, 19, 25, 76, 81, 110, 140, and 150. Separate rules or guidance addressing procedures for electronic communications in hearings will be issued in the future for public comment. (Nothing in this guidance document precludes presiding officers from their current practice of authorizing electronic communications on a case-by-case basis.)

4. Documents served on the NRC as a participant in Federal Court proceedings or in non-NRC administrative proceedings (such as administrative proceedings before the Merit Systems Protection Board, unless electronic submission is authorized by rule or order issued by a Federal Court or Agency).

5. NRC contractor proposals or invoices submitted in response to specific contractual requirements. (Because Federal Acquisition Regulation guidance as contained in section 30 of the Office of Federal Procurement Policy Act [41 U.S.C. 426] allows the Federal Government to use electronic commerce whenever practical, guidance for electronic submittal of proposals and invoices will be addressed in individual procurements. Further guidance for submission of these documents will be issued at a later date.)

6. Financial assurance instruments to meet decommissioning cost requirements and prescribed by regulation at 10 CFR 30.35(e) and (f); 10 CFR 40.36(d) and (e); and 10 CFR 70.25(e) and (f) (including surety bonds, letters of credit, lines of credit, and insurance).

1.3.2 Electronic Forms and Payments

Each for m referred to in the NRC regulations can be found on the NRC Web site at http://www.nrc.gov in PDF format for viewing and printing by selecting “Forms” from the index found on the home page and selecting the specific form required.

Financial payments required by regulations can be submitted electronically. Copies of NRC Form 628 to establish financial authorization electronically can be found at the NRC Web site at http://www.nrc.gov by selecting “Forms” from the index found on the home page. Payments by credit card of civil penalties, part 171 annual fees, part 170 licensing and inspection fees, and other fees, may be done by completing the authorization form included with the invoice or civil penalty. A copy of the form may be printed from the NRC Web site at http://www.nrc.gov by selecting “Forms” from the index found on the home page and selecting “NRC Form 629, Authorization for Payment by Credit Card.”

1.3.3 Submissions Requiring Oath or Affirmation

Submissions requiring oath or affirmation may be submitted electronically using EIE or on CD-ROM. (See sections 3.7 and 4.3.2 of this guidance document.) These include the following:

1. Documents that by statute must be submitted under oath or affirmation (e.g., pursuant to section 182 of the Atomic Energy Act of 1954, as amended, 42 U.S.C. 2232). Generally, oath or affirmation requirements apply to applications for a license, amendments to a license, some licensee responses to Notices of Violation (NOV), and certain letters of transmittal. NRC's regulations in 10 CFR parts 2 and 50 implement these statutory requirements; certain regulations require an oath or affirmation for submission of documents (see, e.g., 10 CFR 50.54(f) and 10 CFR 50.30(b)).

2. Documents that must be sent by certified mail (e.g., 10 CFR part 30, appendix A II. C. 2).

1.3.4 10 CFR Part 2 Submissions

Rulemaking petitions, comments filed in rulemaking proceedings (10 CFR part 2, subpart H), and requests for enforcement action under 10 CFR 2.206 may be submitted via EIE, CD-ROM, or e-mail. Other documents submitted pursuant to 10 CFR part 2, subpart B, “Procedure for Imposing Requirements By Order, or for Modification, Suspension, or Revocation of a License, or for Imposing Civil Penalties,” may be submitted via EIE or CD-ROM. Submission of all other documents covered under part 2 are excluded from the scope of this guidance document. Separate rules or guidance addressing procedures for electronic communications in hearings will be issued in the future for public comment.

1.3.5 Freedom of Information Act and Privacy Act Requests

All Freedom of Information Act (FOIA) and Privacy Act requests and appeals may be submitted electronically by EIE, CD-ROM, facsimile, or e-mail. However, e-mail requests may not reveal personal privacy information.

2.0 Parameters for Electronic Files Submitted to the NRC

Unless otherwise noted, all electronic documents submitted to the NRC, including all enclosures or attachments that are documents, should meet the file format specifications delineated in this section. Note: any electronic file that can be converted to PDF format (spreadsheets, slide presentations, etc.) Is considered a document by the NRC and is subject to these specifications.

Submittals may also contain other forms of electronic information including data files, computer models, and video or audio clips that are not considered documents. These files are not required to conform to the file format specifications established for documents.

2.1 File Formats

Electronic materials should be submitted in PDF or otherwise meet the specifications delineated in this section.

The following table defines the particular PDF output file formats and their use when submitting electronic documents to the NRC:

Preferred PDF Output File Format
File format | Version | Filename extension | Recommended use
Adobe® Acrobat Portable Document Format (PDF) Formatted Text and Graphics (Formerly known as PDF Normal). Options should be set according to the settings described in Section 2.6 | Current or 2 previous | pdf | Textual documents converted from native applications only *,**.
Adobe® Acrobat PDF Searchable Image (Exact) [formerly known as PDF Original Image with Hidden Text]. Options should be set according to the settings described in Section 2.6 | Current or 2 previous | pdf | Textual documents converted from scanned documents.
Adobe® Acrobat PDF Image Only. Options should be set according to the settings described in Section 2.6 | Current or 2 previous | pdf | Preferred format for graphic-, image-, and forms-oriented documents (not for capture of text).
* Textual documents scanned from original paper copies converted to PDF Formatted Text and Graphics result in capture of only a text file that contains OCR conversion errors. This inaccurate representation of the original document is not acceptable for capture by the NRC as an archival record. If the native format of a document is not available for creating a PDF file, the NRC recommends that Searchable Image (Exact) PDF be generated from a scanned image of the document. This will create a PDF file that contains a 100% accurate representation of the original document which will be acceptable for transfer to the National Archives.
** Adobe® PDF Formatted Text and Graphics files that contain embedded images of text will not be accepted. These files are usually a result of cutting and pasting images of text, instead of the text itself, from one document to another while creating documents using word processing applications. This practice results in a picture of the text being created that is not full text searchable. However, images of text that are intended as a graphical representation only and are not meant to convey the information contained in the text will be accepted.

Note: Adobe has recently established a fourth PDF output file format (PDF Searchable Image (Compact)) that uses compression techniques to reduce file sizes of images. This is not an acceptable format for submission to the NRC because it uses lossy compression techniques that do not result in a true and accurate representation of the original document.

Images originally created in a Tagged Image File Format (TIFF) that are primarily graphic-oriented in nature may be converted to PDF for submission to NRC using the PDF Image Only format as described above.

The NRC recommends that the results of spreadsheet applications be converted to one of the acceptable PDF file formats. The NRC staff may also require spreadsheet data to perform additional calculations/analyses. Spreadsheet data may be submitted using the following acceptable formats.

File format | Version | Filename EXTENSION | Preferred Use
Microsoft® Excel | Current or 2 previous | xls | Spreadsheet calculations.
Corel® QuattroPro | Current or 2 previous | wb3 | Spreadsheet calculations.
Lotus® 1-2-3 | Current or 2 previous | wk3/wk4 | Spreadsheet calculations.

When submitting an electronic file using one of the acceptable formats, do not change the default, three-character extension for the file (e.g., a document prepared as “license_amendment.pdf” should be submitted with the “.pdf” file extension and a document prepared as a Microsoft Excel spreadsheet should be submitted with the “.xls” file extension).

2.2 Naming Conventions

Documents submitted to the NRC must:

• Conform to ISO 9660 format, including following the Joliet Extension.

• Have filenames that are limited to 49 characters (including the “.” and the three-character filename extension).

• Retain the default three-character file extension associated with the format in which the document was created (Example: for files created to conform to Adobe's Portable Document Format, “.pdf”; for files created using Microsoft Excel, “.xls”).

• Include a three-digit numeric prefix (e.g., 001, 002, 003) in the filename that designates the correct order of the files contained in the submission, followed by the name of the file (Example: “001filename of first document.pdf”).

• Filenames should be based on the logical breakpoint used for segmentation of the document (e.g., chapter, section, etc.) as described in Section 2.14.

File Naming Example Table
Document title | File name
Multiple File Documents
Chapter 1, Section 1 Estimate of Long-Term Geo-chemical Behavior | 001_1.1 Estimate of Long-Term Geochem Behavior.pdf.
Chapter 2, Section 2 Estimate of Long-Term Geo-chemical Behavior | 002_2.2 Estimate of Long-Term Geochem Behavior.pdf.
Appendix A Estimate of Long-Term Geo-chemical Behavior | 003_Ap A Estimate—Long-Term Geochem Behavior.pdf.
Single File Documents
Attachment II, CAL-EBS-NU-000017 Rev 003 Calculation, Radiolytic Specie Generation from Internal Waste Package Criticality | 001_Att 2 CAL-EBS-NU-00017 R003.pdf.
List and Schedule for Model Validation Reports related to Criticality | 001_List_Sched for MVRs related to Criticality.pdf.

2.3 File Size Limitations

Large-size files create challenges for both the NRC staff and the public when viewing or downloading the documents. Therefore, the NRC requests that submitters make every effort to limit the size of each file to 50MB. If a document exceeds 50MB, it should be created using logical breaks in the document (e.g., file broken up into individual chapters—see section 2.14).

Additionally, small-size files are problematic as well. Large volumes of files require significant resources to capture and profile in electronic document management systems. Therefore, the NRC encourages submitters to combine files that are components of larger documents to create 50MB files that can be more economically and efficiently managed.

The maximum size of a document submittal to the NRC depends on the method of transmission. For example, submitters may use EIE to submit PDF files and/or accepted spreadsheet files (see section 3.2) that do not exceed 50MB, including all attachments. Submitters should use the CD-ROM transmission method in all other cases unless e-mail or facsimile is an appropriate option. (See sections 5.2 and 6.2.) The use of compression techniques (zipped files, downsized files, etc.) is not allowed for electronic files submitted to the NRC because they use lossy compression techniques that do not result in a true and accurate representation of the original document. The table below summarizes the size limitations based on the method of file transmission:

Method of transmission | Size limitations
Electronic Information Exchange (EIE) | Less than or equal to 50MB*.
CD-ROM | 50MB or less per individual file on CD **, * * *
E-mail | Less than or equal to 10MB +.
* Total, combined size of message and attachments comprised of PDF file(s) and accepted spreadsheet format file(s). Note: Oversize drawings and other files with special printing requirements (Section 2.8), regardless of the file size, should be provided on CD-ROM.
** The total CD capacity may be used but submitters are urged to limit individual files to 50MB or less.
* * * In some cases a single page document or object (e.g., oversize color drawing) may exceed the 50MB file size limit. Submission of oversize files (in excess of the 50MB limit) are allowed in these instances.

2.4 Security/Access Settings

Submissions should not contain any security settings, password protections, or any other attributes that will preclude full NRC access to and use of the files. NRC's internal security and archival processes will maintain the integrity of the materials that are submitted.

2.5 Resolution

To comply with NARA Standards, PDF documents should be created using the following resolution guidelines:

• Bi-tonal (black and white) PDF resolution, not less than 300 dots per inch (dpi)

• Color PDF resolution, not less than 300 dpi

• Grayscale PDF resolution, not less than 300 dpi

Adobe® Acrobat “downsampling” (an optimization option available in Adobe Acrobat) may result in images with resolutions less than acceptable for submission to the NRC. Therefore, its use is not recommended.

2.6 Settings for Creating PDF Formatted Text and Graphic Files

Adobe® Acrobat 5.0 provides four default optimizations when creating PDFs. These are eBook, Press, Print, and Screen. The NRC has reviewed these optimizations and has established a custom optimization that strikes a balance between print and screen optimizations. This custom optimization provides adequate retrieval response time for viewing online while providing sufficient clarity and resolution for printing. The settings established for this custom optimization are listed below and should be used on all submittals to the NRC. The settings are specific to Adobe® Acrobat 5.0. However, when PDF creation software other than Adobe® Acrobat 5.0 is used, the PDF creation software should be configured with values equivalent to those listed below. All fonts should be embedded in the PDF file to ensure compliance with NARA guidelines.

Settings
Options | Recommendation Optimal on 5.0
General Options:
Compatibility | 5.0
Optimize for Fast Web | X
Embed Thumbnails
Auto-Rotate
Binding | Left
Resolution (dpi) | 300
Compression:
Color Images | Bicubic Downsampling (NOT SELECTED)
For images above | 300 dpi
Compression | Zip
Quality | 8-bit
Grayscale | Bicubic Downsampling (NOT SELECTED)
For images above | 300 dpi
Compression | Zip
Quality | 8-bit
Monochrome | Bicubic Downsampling (NOT SELECTED)
For images above | 450 dpi
Compression | CCITT—Group 4
Anti-Alias to Gray | Not Selected
Compress Text & Line Art | Selected
Font:
Embed All Fonts ¹ | X
Subset embedded fonts when percent of characters used is less than 100%
When Embedding Fails | Warn & Continue
Color:
Setting File | None
Color Management Policy | Tag Everything for Color Management
Intent | Default
Gray | None
RGB | SRGB IEC61966-2.1
CMYK | U.S. Web Coated (SWOP)v2
Preserve Overprint Settings | X
Preserve Under Color Removal | X
Transfer Function | Preserve
Preserve Halftone
Advanced Options:
Prologue.ps & Epilogue.ps
Allow PS to Override Job Options | X
Preserve Level 2 Semantics | X
Save Job Ticket | X
Illustrator Mode | X
Gradients to Smooth Shades | X
ASCII Format
Process DSC Comments | X
Log DSC Warnings
Resize for EPS | X
Preserve EPS Info | X
OPI Comments | X
Preserve Doc Info from DSC | X
¹ You must check the license(s) for any font(s) you intend to embed, to verify that embedding is allowed. In some cases, the program will warn you if a font is not licensed for embedding, but this varies by vendor. Fonts must be embedded to comply with NARA guidelines.

2.7 Use of Color

The NRC discourages the use of color because it significantly increases file size. If the use of color adds no value to the understanding of the information presented, its use should be avoided. If color is required to make the document understandable, its limited use is acceptable. Examples of color documents that meet this criteria are graphs, bar-charts, and engineering drawings that depend exclusively on the differences in color to understand the information and data being presented.

2.8 Files With Special Printing Requirements

Documents that contain electronic files with special printing requirements, such as requiring the use of a plotter or other special equipment to print, oversize drawings or graphics that require a paper size larger than 11 inches by 17 inches, or other enhancements such as 3D images, etc., may only be submitted electronically via CD-ROM as separate files. If special software components (e.g., printer drivers) are necessary, include those components, their configuration parameters, and any hardware configuration requirements on the same CD-ROM.

2.9 File Linkages

Files containing objects (e.g., pictures, tables, spreadsheets, and images of text) using link protocols such as Object Linking and Embedding (OLE), Dynamic Data Exchange (DDE), or any other object linking between electronic files are not practicable for the NRC to accept because the relationships among links in multiple file submissions are lost when captured in ADAMS or other agency electronic recordkeeping systems. However, links within a single electronic PDF file are acceptable.

2.10 Viruses

Files received by the NRC will be checked for viruses prior to acceptance. Any submission identified as having a virus will be rejected and returned to the submitter with an explanation of why the submittal was rejected.

2.11 Macros

Macros in files such as Microsoft® Excel are sometimes detected as viruses. Therefore, the use of macros should be limited because a file identified as having a virus will be rejected and returned to the submitter with an explanation of why the submittal was rejected.

2.12 Copyrighted Information

Submitting information electronically to the NRC shall be deemed to constitute authority for the NRC to place a copy of the information on its public document database and for the NRC to reproduce and distribute sufficient copies to carry out its official responsibilities. NRC use of the information specified herein does not constitute authority for others to use the information outside applicable requirements of copyright law.

2.13 Copies

Licensees and vendors submitting documents via EIE do not need to send confirming hard copies of the electronic documents. In instances where the NRC requires a paper copy for accessibility or other reasons, it will make every effort to produce the copy using NRC resources. However, in those instances where the agency is unable to successfully generate an accurate paper copy from the electronic submittal, the NRC may require a paper copy from the submitter. This will be handled on a case-by-case basis.

Many NRC regulations require submission of copies of documents to multiple NRC locations (e.g., Headquarters, Regional Offices, etc.). This practice continues for submissions that are made on CD-ROM. However, only a single copy of the CD-ROM is required to be submitted to each location. Submissions made via EIE do not require submission to multiple locations.

2.14 Segmentation of Large Documents

Submitters should use the CD-ROM method of transmission (Section 4.0) for documents with file sizes greater than 50MB. Divide the document into file segments of 50MB or less at logical breakpoints such as:

a. Chapters.

b. Sections.

c. Subsections.

d. Appendices.

e. Exhibits or attachments.

f. Charts, tables, or formulae.

g. For large transcripts, the end of a witness' testimony or session recess.

If the recommended file size cannot be achieved, consider moving the graphics (which are often large files) to an appendix or attachment. Any graphic or other large object that exceeds the 50MB limit and that cannot logically be divided should not be segmented.

Note: Oversize drawings and other files with special printing requirements (Section 2.8), regardless of the file size, should be provided on CD-ROM.

Additionally, small-size files are problematic as well. Large volumes of files require significant resources to capture and profile in electronic document management systems. Therefore, the NRC encourages submitters to combine files that are components of larger documents to create larger files that can be more economically and efficiently managed.

When CD-ROMs are submitted, use electronic folders to organize the contents at the chapter level consistent with the file name guidance outlined in Section 2.2. The numeric portion of the file name should be sequential across all folders. This means:

• Each chapter must have its own folder which should then contain all files associated with that Chapter, including sections, subsections, and graphics (either embedded within those sections/subsections or provided separately).

• The sections/subsections should be placed in logical sequential order within a folder.

• Separate folders may be created for appendices, exhibits, or attachments. Each item should have the file name reflect the folder where it resides, if practical, in conjunction with complying with the file name guidance in Section 2.2.

If multiple CD-ROMs are submitted, place the Table of Contents for the entire submission on each CD-ROM in a multi-set submission.

2.15 Sensitive or Non-Public Documents

Documents containing information that is deemed sensitive unclassified, specifically Proprietary Information (e.g., trade secrets, privileged, or confidential commercial or financial information), personal privacy information, or other Official Use Only information, may be submitted electronically via EIE or on CD-ROM. Documents containing Classified Information (i.e., National Security Information and Restricted Data) and Safeguards Information may be submitted electronically only on CD-ROM, but not via EIE or e-mail. (See sections 3.9 and 4.3.1.)

3.0 Guidance for EIE Submissions

3.1 Who Can Participate

Applicants, licensees, external entities (including Federal, State, and local governments), vendors and members of the public who submit documents to the NRC may do so via EIE. The EIE is designed to ensure that electronic documents can be transmitted via the Internet in a secure and unalterable manner. Submittals such as those that are required to be submitted under oath or affirmation may be safely transmitted via EIE. Applicants, licensees, vendors, etc., must designate individuals who will have the responsibility for originating, signing, or sending documents to the NRC in compliance with regulatory requirements.

3.2 What Can Be Submitted

Documents may be submitted via EIE except as noted in section 1.3.1.A. and must qualify according to the following criteria:

• The file format is PDF and/or an acceptable spreadsheet format—See Section 2.1, and

• The entire submission is less than 50MB.

3.3 How To Register

The NRC provides for overall administration of the EIE process through the designated Local Registration Authority (LRA). The LRA creates and maintains an Authorized Certificate List (ACL) consisting of authorized internal and external EIE participants. Each participant must send an ACL containing the name and e-mail addresses of individuals who will be submitting digitally signed documents to the NRC. The ACL must be sent to the NRC in a signed paper form to the following address: Local Registration Authority (T6 C30), Electronic Information Exchange, U.S. Nuclear Regulatory Commission, Washington, DC 20555-0001.

Upon receipt of the ACL, the NRC will e-mail to each individual named a unique personal identification number (PIN) to be used in applying for a digital certificate. Once received, the digital certificate will then enable individual users to digitally sign documents and submit them in a secure manner. The PIN number will be sent approximately 3 to 5 business days after receipt of the ACL. Participants may add or delete names from the ACL by written notification to the NRC using the above address. The LRA will use the ACL to validate authorized individuals requesting digital signature certificates. The LRA may be contacted via e-mail at EIE@nrc.gov.

3.4 What Is Needed To Participate

Participating individuals in the EIE initiative may use their existing workstations with standard desktop configuration. The recommended workstation configuration requires a Pentium 133 MHZ (or higher) with a minimum of 32 MB of RAM, 20 MB of available disk space, and access to the World Wide Web (Web) through an Internet Service Provider (ISP). The operating system should be either Windows NT/2000 or Windows 95 (or higher). In addition, each workstation must be equipped with browser software, consisting of either Netscape Navigator or Communicator (version 4.6 or higher) or Microsoft Internet Explorer (version 5.0 or higher). Other browser types, such as AOL or Mosaic, are not currently supported for use in the EIE system.

To utilize EIE, each individual must obtain a digital signature certificate (Digital ID) in order to digitally sign and submit the form used to transmit documents and to access the EIE external server to retrieve documents as needed. (See Section 3.5 of this guidance document.) Additionally, there is a software plug-in that must be downloaded and installed. Each process and step required to set up a computer or workstation to use EIE is described in the sections below. The processes and steps described are specific to both Netscape Navigator/Communicator 4.6 or higher and Microsoft Internet Explorer 5.0 or higher.

3.5 How To Obtain a Digital Signature Certificate

To obtain a Digital ID, authorized participants must first complete and submit an enrollment form. VeriSign, Inc. acts as the NRC's Certificate Authority (CA) and provides the NRC with a Digital Certificate (ID) enrollment page on its Web site. The NRC provides VeriSign Onsite Digital Certificates (ID's) at no cost to participants. The steps for obtaining a Digital Certificate are provided on the EIE home page at http://www.nrc.gov/site-help/eie.html. After accessing the EIE home page, click on the “Request/Retrieve Certificate” hyperlink and follow the step-by-step prompts.

3.6 How To Obtain Software Plug-ins

To utilize the EIE system, users must download and install one software plug-in. The software plug-in can be obtained from the EIE home page on the NRC Web site at http://www.nrc.gov/site-help/eie.html. The specific plug-in required is the Internet Form Viewer, which is a required plug-in regardless of the browser used. To successfully download and install the plug-in, simply go to the EIE home page and click on the “EIE Start Up” hyperlink and follow the step-by-step procedures provided.

3.7 How To Submit Documents

Documents eligible for submission to the NRC are restricted to specific formats. No documents with special attributes (e.g., documents with special printing requirements, such as requiring the use of a plotter or other special equipment to print, or other enhancements such as 3D images, etc.) will be accepted via EIE. The acceptable formats for electronic submission via EIE are listed in section 2.1 above. The submission of documents to the NRC using EIE will require the use of the NRC's EIE form. The EIE form is a document based on Extensible Mark-up Language (XML). It allows participants to sign, enclose, submit, and verify documents via the Internet. The document to be submitted or transmitted must be presented as an enclosure to the form. The form can be accessed by going to the NRC Web site at http://www.nrc.gov/site-help/eie.html. Once there, select either the “Submit” or “Retrieve” hyperlink to access the form.

Once the form is displayed, users will need to fill in the fields on the form and attach the document(s) for submission to the NRC. Once the fields have been filled in and the intended documents are attached, the form must be digitally signed.

Documents submitted electronically using EIE do not need to be digitally signed by the author(s). They may be digitally signed by the person who transmits them, but the author(s) are accountable for the content of the document(s) submitted. Generally, the persons who will digitally sign documents and transmit them electronically to the NRC are the same persons who currently dispatch licensing documents through the mail to the NRC. Licensees and vendors submitting documents via EIE do not need to send confirming hard copies of the electronic documents.

NRC regulations require that some documents be filed under oath or affirmation. There are currently two acceptable methods for providing this oath using the EIE processes.

1. Documents requiring oath or affirmation may use EIE to digitally sign the affirmation on the document. Using this process, the document must conclude with a statement to this effect: “I declare under penalty of perjury that the foregoing is true and correct. Executed on [date]”.

The electronic document must be digitally signed by the person affirming this statement. This person may then transmit the document directly to the NRC using EIE or may forward the document to someone else for transmission to the NRC. In the latter case, the transmitter must also sign the document to authorize the electronic transmission.

Except as set forth below, multiple documents requiring individual digital signatures by different persons cannot be sent in a single EIE transmission. The current EIE process only allows two persons to digitally sign a single transmission. Therefore, the NRC recommends that the method described below in item 2 be used for submissions that require multiple oath and affirmations.

Note: When digitally signing a document, the submitter is actually digitally signing the transmission form, not the document. Signing the form is the equivalent of signing the document.

2. Oath or affirmation affidavits may also be created in hard copy and physically signed. The original paper copy may then be scanned to create a PDF Searchable Image (Exact) file of the original signature page. This page, with the rest of the PDF file of the entire attachment, may then be submitted via EIE.

Note: Although there are other methods available to electronically sign documents using wordprocessing and other software, these are not currently acceptable for use in signing documents for submission to the NRC because they do not provide the levels of authentication, certification, and non-repudiation that are present in the EIE process.

Documents transmitted to the NRC electronically using EIE will be time- and date-stamped when the last bit of the transmittal is received by the EIE server. The time and date of the transmission will become part of the record in the NRC's Agencywide Documents Access and Management System (ADAMS). The transmitter will be e-mailed a notice of receipt of the document. The notice will include the time and date the transmission was received at the NRC.

Submission of documents via EIE satisfies agency submittal requirements. The submitter need not send additional copies to NRC regions or other agency offices.

For more detailed information and step-by-step procedures on how to submit documents to the NRC using EIE, see the “EIE Submittal Procedures” on NRC's Web site at http://www.nrc.gov/site-help/eie.html.

3.8 Where To Submit Documents

Documents submitted using EIE are automatically sent to the NRC Document Processing Center for processing into ADAMS. No additional information is necessary, except for submissions intended for a Region. Submissions intended for the Regions should have the Region(s) listed in the comment box contained on the submission form.

3.9 Sensitive or Non-Public Documents

Documents containing information that is deemed sensitive unclassified, specifically Proprietary Information (e.g. trade secrets, privileged, or confidential commercial or financial information), personal privacy information, or other Official Use Only information, may be submitted electronically via EIE. Documents containing Classified Information (i.e., National Security Information and Restricted Data) and Safeguards Information may not be submitted electronically via EIE.

Submissions made via EIE that contain non-public information must be clearly marked with the appropriate designation (i.e., Proprietary Information, Privacy Act Information, or Official Use Only Information). When submitting documents via EIE that contain both publicly and non-publicly available files, all of the files should be clearly marked.

3.10 Additional User Assistance (References and Contact Information)

Additional information, as well as detailed user guides can be obtained from NRC's Web site at http://www.nrc.gov/site-help/eie.html.

Should you have any questions, please contact the Local Registration Authority (LRA) at 301-415-6030 or by e-mail at EIE@nrc.gov.

4.0 Guidance for CD-ROM Submissions

4.1 Who Can Participate

This guidance is intended for licensees, applicants, external entities (including Federal, State, and Local governments), vendors, and members of the public who submit documents to the NRC.

4.2 What Can Be Submitted

Documents may be submitted via CD-ROM except as noted in section 1.3.1.B. above. As mentioned in Section 1, there are also documents that should only be submitted using CD-ROM, such as large documents exceeding 50MB and documents that contain special printing requirements. Documents containing Classified Information (i.e., National Security Information and Restricted Data) and Safeguards Information may only be submitted electronically on CD-ROM and not via EIE or e-mail.

4.3 How To Submit CD-ROMs to the NRC

Each electronic submission made on CD-ROM must be transmitted by a signed letter in paper format (see transmittal letter example below). On the first page of the transmittal letter, submitters should include the following information, if applicable:

• Organization or Individual Name/Address (Author).

• Docket Number (050-00XXX, 030,XXXXX, 110,XXXXX).

• Subject Line (a non-sensitive, brief, descriptive narrative of the subject of the submission that should include any relevant regulation upon which the submission is based).

• Any requests for withholding from public disclosure in accordance with 10 CFR 2.790.

On the last page of the transmittal letter, submitters should provide:

• The name, mailing and e-mail addresses, and phone number of a contact person who can resolve discrepancies, if any, in document submissions.

• A complete listing of the document components (electronic files and/or physical objects) that make up the submission. The components should be listed in the order in which they appear in the document. CD-ROM submissions that require multiple CD-ROMs to transmit all of the document components should indicate the total number of CD-ROMs included in the submission.

Each of the listed components should indicate the following information:

• The file name (as defined in Section 2.2, including file extension).

• The size of the file.

• Sensitivity level (e.g., publicly available, proprietary, classified, etc.).

• A non-sensitive description of all non-document components (e.g., digital image, etc.) in the format illustrated by the example below.

In addition, If there are any special instructions regarding the use of the CD-ROM (e.g., how to open the files, access the publication, etc.), include them as part of the transmittal letter.

For electronic submissions via CD-ROMs that contain Classified Information (i.e., National Security Information and Restricted Data), sensitive unclassified information, or non-public documents, additional requirements apply as described in sections 4.3.1 and 4.3.5.

Transmittal Letter Example

Author

United States Department of Energy

Office of the General Counsel

Hearing Division

Washington, DC 20585

September 18, 2005

[Docket WM-00011 (PRE)]

United States Nuclear Regulatory Commission

Atomic Safety and Licensing Board

Attn: Document Control Desk

11555 Rockville Pike

Rockville, MD 20852

Subject

Enclosed is DOE's Response to Interrogatories Related to Quality Control Procedures.

Request to Withhold From Public Disclosure

The file named “004 Figure 371 Plan View Main Excavation.pdf” contains business proprietary information and the USDOE requests that this file be withheld from public disclosure.

Contact

Name: Saranne Smith

Mailing Address: Hearing Division, US Department of Energy, Washington, DC 20585

E-Mail Address: SESSmith@usdoe.gov

Phone Number: 202-555-1111

Document Components:

A total of two (2) CD-ROMs are included in this submission. The CD-ROM labeled “DOE03-001 Evaluation Quality Control Parts 1, 2, and 3—Non-publicly Available” contains the following four (4) files:

001 Evaluation Quality Control (1 of 3).pdf 48,321,678 bytes, publicly available

002 Evaluation Quality Control (2 of 3).pdf 47,421,178 bytes, publicly available

003 Evaluation Quality Control (3 of 3).pdf 49,223,167 bytes, publicly available

004 Figure 371 Plan View Main Excavation.pdf 101,175,297 bytes, proprietary

The CD-ROM labeled “DOE03-002 Evaluation Quality Control Parts 1, 2, and 3—Publicly Available” contains the following three (3) files:

001 Evaluation Quality Control (1 of 3).pdf 48,321,678 bytes, publicly available

002 Evaluation Quality Control (2 of 3).pdf 47,421,178 bytes, publicly available

003 Evaluation Quality Control (3 of 3).pdf 49,223,167 bytes, publicly available

Non-Document Description Example

Figure 371 Plan View Main Excavation

This single page, over-sized engineering drawing is referenced in “Evaluation Quality Control” part 2 of 3. The drawing is done in 6 colors and is useful when printed using 24″ by 36″ paper stock or viewed on a large high resolution monitor using PDF reader software. It has been scanned at 300 dpi resolution and output in PDF 1.3 using the Image Only option. Figure 371 is one of four (4) files on the CD-ROM labeled “DOE03-001 Evaluation Quality Control Parts 1, 2, and 3—Non-publicly Available” and is located as the fourth file on the CD-ROM.

Sincerely,

J. Doe, Attorney for DOE

cc: Provide list of parties served

4.3.1 Sensitive or Non-Public Documents

Documents containing information that is deemed sensitive unclassified, specifically Proprietary Information (e.g. trade secrets, privileged, or confidential commercial or financial information), personal privacy information, or other Official Use Only information, may be submitted electronically on CD-ROM. Documents containing Classified Information (i.e., National Security Information and Restricted Data) and Safeguards Information may also be submitted electronically on CD-ROM.

Submissions made on CD-ROM must be accompanied by a transmittal letter (see section 4.3) that contains information regarding the sensitivity level of the transmitted documents. This letter should contain a listing of each file contained in the submission, with a description and the sensitivity for each file clearly marked.

When submitting documents via CD-ROM that contain both publicly and non-publicly available files, all of the files should be included on a CD-ROM. In addition, a separate CD-ROM must be provided that contains only the publicly available files. Each CD-ROM must be clearly labeled indicating its availability. Files contained on CD-ROMs labeled as “Publicly Available” will be released to the public.

CD-ROMs containing Classified Information must be processed and produced on systems approved under the provisions of 10 CFR 95.49. Each CD-ROM must be clearly labeled as containing classified information.

The mailing package containing CD-ROMs with documents containing Proprietary, personal privacy, or Official Use Only Information must be marked and transmitted in accordance with the requirements set forth in 10 CFR 2.790(b). Packages containing Safeguards Information must comply with the requirements of 10 CFR 73.21(e), 73.21(g), and 73.21(h), as appropriate. CD-ROMs containing Classified Information (i.e., National Security Information or Restricted Data) must be packaged and submitted to the NRC in accordance with the requirements contained in 10 CFR 95.37, 95.39, and 95.41.

4.3.2 Oath or Affirmation

NRC regulations require that some documents be filed under oath or affirmation. There are currently two acceptable methods for providing this oath if such a document is submitted on CD-ROM.

1. Documents requiring oath or affirmation submitted on CD-ROM must include the following statement on either the transmittal letter or the first page of the document contained on the CD-ROM and must contain the signature of the person swearing to the accuracy of the information submitted: “I declare under penalty of perjury that the foregoing is true and correct. Executed on [date]”.

If the oath or affirmation is submitted on the transmittal letter, it must contain the original signature of the person swearing to the accuracy of the information. If submitted as part of the document contained on the CD-ROM, the page containing the signature must be provided as a scanned PDF Searchable Image (Exact) file along with the PDF version of the entire document being submitted.

2. Oath or affirmation affidavits may also be created in hard copy and physically signed. The original paper copy may either be submitted along with the transmittal letter and CD-ROM, or can be scanned to create a PDF Searchable Image (Exact) file of the original signature page which may be submitted on the CD-ROM with the rest of the PDF file of the entire attachment. NOTE: The transmittal letter should indicate that a separate affidavit is being provided as part of the submittal package.

4.3.3 Living Documents

Many large documents historically submitted to the NRC have been maintained as living documents and have used a page-replacement approach for update. Paper submissions can still use this approach for providing updates to living documents.

In the electronic environment, this approach is not practicable. Consequently, if a submitter chooses to make electronic submission of these documents, all subsequent updates must be submitted as total replacements. The updated version must include a list of changed pages and each changed page must include both a change indicator for the area changed (for example, a bold line vertically drawn in the margin adjacent to the portion actually changed) and a page change identification including either the date of change, change number, or both.

4.3.4 CD-ROM File Format

The acceptable file formats are stated in Section 2.1. However, for text-oriented documents, the preferred file formats are Portable Document Format (PDF) Formatted Text and Graphics and PDF Searchable Image (Exact). PDF Image Only is preferred for submission of graphic\image documents. PDF files should be scanned at the resolutions stated in Section 2.5 of this document.

Large documents made up of multiple files, folders, etc., often require the inclusion of a search engine on the CD-ROM to facilitate navigation, search, and retrieval of the document. The inclusion of the search engine enables the user to access the material contained on the CD-ROM without having to rely on other software in the user's resident environment. The NRC encourages the inclusion of these search engines to facilitate the use of the materials in stand-alone mode. However, only those products that do not require the end-user to purchase a license to use the products are acceptable.

4.3.5 Packaging/Labeling

When submitting documents that contain both publicly and non-publicly available files, all of the files should be included on a CD-ROM. In addition, a separate CD-ROM must be provided that contains only the publicly available files. Each CD-ROM must be clearly labeled indicating its availability. CD-ROMs labeled as “Publicly Available” will be released to the public (sent to the Public Document Room, where they are available for inspection and copying). The mailing package containing CD-ROMs with documents comprised of Proprietary, personal privacy, or Official Use Only Information must be marked and transmitted in accordance with the requirements set forth in 10 CFR 2.790(b). Packages containing Safeguards Information must comply with the requirements of 10 CFR 73.21(e), 73.21(g), and 73.21(h), as appropriate. CD-ROMs containing Classified Information (i.e., National Security Information or Restricted Data) must be packaged and submitted to the NRC in accordance with the requirements contained in 10 CFR 95.37, 95.39, and 95.41.

Subsequent to the events of September 11, 2001, much of the incoming mail addressed to the Federal government is irradiated prior to delivery. Irradiation of CD-ROMs containing electronic information may result in damage to the media and its contents. Therefore, packages containing CD-ROM submissions should be clearly marked “CONTENTS CONTAIN CD-ROMs. DO NOT IRRADIATE.”

4.3.6 Copies

Many NRC regulations require submission of copies of documents to multiple NRC locations (e.g., Headquarters, Regional Offices, etc.). This practice continues for submissions that are made on CD-ROM. However, only a single copy of the CD-ROM is required to be submitted to each location.

4.3.7 Rejection of Submissions

It is not practicable for the NRC to accept:

• Any submission that contains a virus.

• Files submitted that are compressed.

• File formats other than those listed in Section 2.1, except submittals may also contain other forms of electronic information including data files, computer models, and video or audio clips.

• CD-ROMs that contain both publicly and non-publicly available files on a single CD, unless a second CD with only publicly available information is also provided.

• CD-ROMs containing OLE (Object Linking and Embedding), DDE (Dynamic Data Exchange), or any other object linking.

• Any inconsistencies, including omissions, between the transmittal letter and the files or physical objects received.

4.4 Where To Submit the CD-ROMs

Send CD-ROMs with transmittal letter to the mailing address specified in the regulation, order, or other document governing the submission of that particular application, report or correspondence. CD-ROMs containing Classified Information (i.e., National Security Information and Restricted Data) must be marked in accordance with 10 CFR 95.37 and mailed to the appropriate NRC Classified mailing address. (See 10 CFR part 73, appendix A for a listing of addresses.)

4.5 Additional User Assistance (References and Contact Information)

Information can be found by visiting the NRC's Web site at http://www.nrc.gov/site-help/eie.html. Under the heading “Related Information,” find the section “CD-ROM Submittal Procedures.”

For assistance or to discuss problems with making CD-ROM submissions of electronic filings, contact the Document Processing Services Section at 301-415-2488 during the NRC's normal business hours (7:30 a.m. to 4:15 p.m. eastern time) or e-mail EIE@nrc.gov.

5.0 E-Mail Submissions

5.1 Who Can Participate

This guidance is intended for licensees, applicants, external entities (including Federal, State, and local governments), vendors and members of the public who submit documents to the NRC.

5.2 What Can Be Submitted

Documents (except for communications with States and other Federal agencies) submitted by e-mail, including the text of the e-mail, should contain only information that could be made available to the public and may be used for:

• Rulemaking petitions and comments in rulemaking proceedings.

• Requests for enforcement action under 10 CFR 2.206, which may be sent to 2206PETITIONS@NRC.GOV.

• All Freedom of Information Act (FOIA) and Privacy Act requests and appeals may be submitted electronically by e-mail. However, e-mail requests may not reveal personal privacy information.

• Responses to Federal Register Notices or other agency communications where NRC has provided a specific e-mail address.

Multiple document attachments are acceptable, but the e-mail cannot exceed the 10MB size limitation, and the e-mail must include the required information as listed in section 5.4.

In addition, the NRC provides a listing of contacts on the NRC Web site at http://www.nrc.gov that can be used for a variety of e-mail communications to the agency by selecting “Contact Us” from the home page. Documents can be submitted by e-mail for the purposes identified on the Web site, and should be sent to the specific e-mail address provided for each form of communication.

5.3 Rejection of Submissions

File submissions that do not meet the parameters outlined in this document, especially as outlined in Section 2.0, will be rejected and will require re-submission. If the e-mail (with attachments) exceeds the 10MB size requirement or contains a virus, the sender will receive an automated “Undelivered Mail” notice stating the reason for the delivery rejection.

If the documents do not comply with other file parameters outlined in section 2.0 (e.g., unknown file format, compressed files, incorrect naming convention, corrupt/unreadable file or if it contains macros identified as potential viruses), the intended recipient may notify the addressee to re-submit the document(s). Finally, the body of the e-mail message/text must include the required information as listed in section 5.4.

5.4 How To Send E-Mail

Files sent via e-mail must be sent as an attachment to the e-mail message in order to retain the original formatting of the document(s). The e-mail message must include the name of a contact person who can respond to questions about the submission, along with the contact person's daytime phone number, mailing, and e-mail address. The e-mail must also identify/describe each document attached to the e-mail message. The format used to generate each of the identified file(s) must also be listed.

5.5 Where To Submit E-Mail

E-mail may be addressed to either specific individuals named as contacts or to the office specified in the regulation or communication specific to the document(s) being submitted, to addresses the NRC Web site provides for individual program offices or specific agency functions or services, or to the Office of Public Affairs. Individual program offices may be contacted by using the addresses found at the NRC Web site at http://www.nrc.gov, and selecting “Contact Us” from the home page. The Office of Public Affairs may also be contacted through the “Contact Us” page or at OPA@nrc.gov. The Office of the Secretary of the Commission may be contacted at 2206PETITIONS@NRC.GOV for 2.206 petitions (use upper case where indicated). The sender will not be e-mailed a confirmation of receipt of the submission.

6.0 Facsimile (Fax) Submissions

6.1 Who Can Participate

This guidance is intended for licensees, applicants, external entities (including Federal, State, and local governments), vendors and members of the public who submit documents to the NRC.

6.2 What Can Be Submitted

Documents (except for communications with States and other Federal agencies) submitted by fax should contain only information that could be made available to the public and may be used for:

• Rulemaking petitions and comments in rulemaking proceedings.

• Requests for enforcement action under 10 CFR 2.206.

• All Freedom of Information Act (FOIA) and Privacy Act requests and appeals may be submitted electronically by facsimile. However, requests submitted by fax may not reveal personal privacy information.

• Responses to Federal Register Notices or other agency communications where NRC has provided for response by fax.

• Responses to NRC licensing-related questions.

• Information from export/import license applicants and licensees.

6.3 How To Send Facsimiles (Faxes)

Faxes must include the name of a contact person who can respond to questions about the submission, along with the contact person's daytime phone number and mailing or e-mail address.

6.4 Where To Submit Facsimiles (Faxes)

The NRC has established centralized receipt points (see listing of fax locations provided in section 6.5) for official submissions transmitted by fax at each of the Regional Offices and at NRC Headquarters. All official transmissions should be sent to one of these official receipt points to ensure that they are captured as official records of the agency.

6.5 Facsimile Locations and User Assistance

Location | Fax No. | User Assistance and Verification
Headquarters (24-Hour Operation) | 301-415-7010 or 301-415-7020 | 301-415-7000.
Office of International Programs | 301-415-2395 | 301-415-1787.
Freedom of Information Act and Privacy Act Officer | 301-415-5130 | 301-415-7169.
Region 1 | 610-337-5324 | 610-337-5270.
Region 2 | 404-562-4900 | 404-562-4827.
Region 3 | 630-515-9915 | 630-829-9556.
Region 4 | 817-860-8210 | 817-860-8100.

7.0 Additional Resources

7.1 User Assistance

To obtain general information about accessing documents filed electronically (viewing, printing, and downloading), contact the NRC Public Document Room (PDR) during business hours.

You may contact the PDR librarians by any of the following means:

Telephone: 1-800-397-4209 or 301-415-4737.

TTY (hearing impaired): 1-800-635-4512.

Facsimile: 301-415-3548.

E-mail: pdr@nrc.gov.

U.S. Mail: Public Document Room, (O1F13), U.S. Nuclear Regulatory Commission, Washington, DC 20555-0001.

Onsite at the PDR: One White Flint North, 11555 Rockville Pike (first floor), Rockville MD.

Hours of PDR operation:

Reading Room: 7:45 a.m.—4:15 p.m. eastern time, Federal workdays.

Telephone Service: 8:30 a.m.—4:15 p.m., eastern time, Federal workdays.

7.2 References

NRC, EIE Web site; http://www.nrc.gov/site-help/eie.html.

The Code of Federal Regulations, Title 10—Energy http://www.nrc.gov. Select “Code of Federal Regulations” from the Index found on the home page.

Freedom of Information Act, 5 U.S.C. 552.

Privacy Act, 5 U.S.C. 552a.

[FR Doc. 03-25246 Filed 10-9-03; 8:45 am]

BILLING CODE 7590-01-P